DEPARTMENT OF THE TREASURY

Office of Foreign Assets Control

Changes to Sanctions Lists Administered by the Office of Foreign Assets Control on Implementation Day Under the Joint Comprehensive Plan of Action

AGENCY: Office of Foreign Assets Control, Treasury Department.

ACTION: Notice.

SUMMARY: The Department of the Treasury's Office of Foreign Assets Control (OFAC) is publishing the names of 59 individuals, 385 entities, 76 aircraft, and 227 vessels that were removed from the List of Specially Designated Nationals and Blocked Persons (SDN List), the Foreign Sanctions Evaders (FSE) List, and/or the Non-SDN Iran Sanctions Act (NS-ISA) List on January 16, 2016—Implementation Day of the Joint Comprehensive Plan of Action of July 14, 2015 (JCPOA). In addition, OFAC is publishing amended SDN List entries for 14 persons previously blocked pursuant to one more of the following authorities: Executive Order (E.O.) 13224 of September 29, 2001, “Blocking Property and Prohibiting Transactions With Persons Who Commit, Threaten To Commit, Or Support Terrorism,” E.O. 13382 of June 28, 2005, “Blocking Property of Weapons of Mass Destruction Proliferators and Their Supporters,” E.O. 13438 of July 17, 2007, “Blocking Property of Certain Persons Who Threaten Stabilization Efforts in Iraq,” and/or the Foreign Narcotics Kingpin Designation Act (Pub L. 106-120, 21 U.S.C. 1901-1908). Finally, OFAC is publishing the names of individuals, entities, and vessels it added to a list of persons previously identified as meeting the definition of the term Government of Iran or the term Iranian financial institution and whose property and interests in property are blocked solely pursuant to E.O. 13599 and Section 560.211 of the Iranian Transactions and Sanctions Regulations, 31 CFR part 560.

DATES: OFAC's actions described in this notice were effective January 16, 2016.

FOR FURTHER INFORMATION CONTACT:

Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List, the FSE List, the NS-ISA List, the E.O. 13599 List, and additional information concerning the JCPOA and OFAC sanctions programs are available from OFAC's Web site (www.treas.gov/ofac). Certain general information pertaining to OFAC's sanctions programs is also available via facsimile through a 24-hour fax-on-demand service, tel.: 202/622-0077.

Notice of OFAC Actions

I. Changes to the SDN List and NS-ISA List

A. Removals of Designations Pursuant to E.O. 13382, Section 5 of E.O. 13622, and/or Section 2 of E.O. 13645

On January 16, 2016, OFAC determined that the following 43 individuals and 203 entities, as well as the 76 aircraft and 153 vessels identified as blocked property of one or more of the foregoing, are no longer blocked pursuant to one or more of the following authorities: E.O. 13382, Section 5 of E.O. 13622 of July 12, 2012, “Authorizing Additional Sanctions With Respect to Iran,” and/or Section 2 of E.O. 13645 of June 3, 2013, “Authorizing the Implementation of Certain Sanctions Set Forth in the Iran Freedom and Counter-Proliferation Act of 2012 and Additional Sanctions With Respect To Iran.” The names and associated information of the aforementioned persons have been removed from the SDN List.¹

¹ A number of the individuals and entities whose designations pursuant to E.O. 13382, Section 5 of E.O. 13622, and/or Section 2 of E.O. 13645 were removed on January 16, 2016 are persons whom OFAC has previously identified as meeting the definition of the term “Government of Iran” or the term “Iranian financial institution” as set forth in, respectively, Sections 560.304 and 560.324 of the Iranian Transactions and Sanctions Regulations (ITSR). To assist U.S. persons in meeting their compliance obligations under the ITSR, OFAC made available on its Web site on January 16, 2016, a “List of Persons Identified as Blocked Solely Pursuant to E.O. 13599” (E.O. 13599 List) and added relevant persons, including certain persons listed in this Section I.A, to that list. See Section III below. For persons not previously identified as meeting the definition of the term “Government of Iran” or the term “Iranian financial institution”, the determination to remove these individuals and entities from the SDN List does not represent a determination that they do not meet the definition of the term “Government of Iran” or the term “Iranian financial institution” as set forth in, respectively, Sections 560.304 and 560.324 of the ITSR. Persons on the E.O. 13599 List and any other person meeting the definitions of the term “Government of Iran” or the term “Iranian financial institution” remain persons whose property and interests in property are blocked if they are or come within the United States or if they are or come within the possession or control of a U.S. person, wherever located.

Individuals

1. AFZALI, Ali, c/o Bank Mellat, Tehran, Iran; DOB 01 Jul 1967; nationality Iran; Additional Sanctions Information—Subject to Secondary Sanctions (individual) [NPWMD] [IFSR].

2. AGHA-JANI, Dawood (a.k.a. AGHAJANI, Davood; a.k.a. AGHAJANI, Davoud; a.k.a. AGHAJANI, Davud; a.k.a. AGHAJANI, Kalkhoran Davood; a.k.a. AQAJANI KHAMENA, Da'ud); DOB 23 Apr 1957; POB Ardebil, Iran; nationality Iran; Additional Sanctions Information—Subject to Secondary Sanctions; Passport I5824769 (Iran) (individual) [NPWMD] [IFSR].

3. AL AQILI, Mohamed Saeed (a.k.a. AL MARZOOQI, Mohamed Saeed Mohamed Al Aqili); DOB 23 Jul 1955; POB Dubai, United Arab Emirates; Additional Sanctions Information—Subject to Secondary Sanctions; Executive Order 13645 Determination—Material Support; Passport A2599829 (United Arab Emirates); National ID No. 784-1955-8497107-1; Vice Chairman and Chief Executive Officer, Al Aqili Group LLC (individual) [E.O. 13645] (Linked To: NATIONAL IRANIAN OIL COMPANY; Linked To: ISLAMIC REVOLUTIONARY GUARD CORPS; Linked To: SEYYEDI, Seyed Nasser Mohammad; Linked To: KASB INTERNATIONAL LLC).

4. AMERI, Teymour (a.k.a. AMERI, Teymur; a.k.a. BARAKI, Teimur Ameri; a.k.a. BARAKY, Teymur Ameri; a.k.a. BARKI, Teymur Ameri); DOB 12 Jul 1958 (individual) [E.O. 13622].

5. BATENI, Naser, Hamburg, Germany; DOB 16 Dec 1962; nationality Iran; Additional Sanctions Information—Subject to Secondary Sanctions (individual) [NPWMD] [IFSR].

6. BEHZAD, Morteza Ahmadali (a.k.a. BEHDAD, Morteza; a.k.a. BEHZAD, Morteza); DOB 07 Jun 1959; Additional Sanctions Information—Subject to Secondary Sanctions (individual) [NPWMD] [IFSR].

7. DAJMAR, Mohhammad Hossein (a.k.a. DAJMAR, Mohammad Hossein); DOB 19 Feb 1956; nationality Iran; Additional Sanctions Information—Subject to Secondary Sanctions; Passport K13644698 (Iran) expires 16 May 2013 (individual) [NPWMD] [IFSR].

8. DERAKHSHANDEH, AHMAD, c/o BANK SEPAH, No. 33 Hormozan Building, Pirozan St., Sharak Ghods, Tehran, Iran; DOB 11 Aug 1956; alt. POB Iran; Additional Sanctions Information—Subject to Secondary Sanctions (individual) [NPWMD] [IFSR].

9. DIVANDARI, Ali, c/o Bank Mellat, Tehran, Iran; DOB 01 Jul 1967; POB Ghoochan, Khorasan, Iran; nationality Iran; Additional Sanctions Information—Subject to Secondary Sanctions (individual) [NPWMD] [IFSR].

10. ESLAMI, Mansour; DOB 31 Jan 1965; nationality Iran; Additional Sanctions Information—Subject to Secondary Sanctions (individual) [NPWMD] [IFSR].

11. EZATI, Ali (a.k.a. EZZATI, Ali); DOB 05 Jun 1963; Additional Sanctions Information—Subject to Secondary Sanctions; Passport Z19579335 (Iran) (individual) [NPWMD] [IFSR].

12. GHEZEL AYAGH, Alireza (a.k.a. GHEZELAYAGH, Alireza); DOB 08 Mar 1979; POB Kerman, Iran; nationality Iran; Additional Sanctions Information—Subject to Secondary Sanctions; Passport E12596608 (Iran) (individual) [NPWMD] [IFSR].

13. GOLPARVAR, Gholamhossein (a.k.a. GOLPARVAR, Gholam Hossein); DOB 23 Jan 1957; nationality Iran; Additional Sanctions Information—Subject to Secondary Sanctions; Passport U14643027 (Iran) expires 11 Nov 2013 (individual) [NPWMD] [IFSR].

14. KADDOURI, Abdelhak; DOB 30 Apr 1977; POB Leuzigen, Bern, Switzerland; nationality Switzerland; citizen Switzerland; Additional Sanctions Information—Subject to Secondary Sanctions; Executive Order 13645 Determination—Material Support (individual) [E.O. 13645].

15. KHALILI, Jamshid, Third Floor, Number 143, Dr. Lavasani Avenue, Farmanieh Avenue, Tehran, Iran; DOB 23 Sep 1957; nationality Iran; Additional Sanctions Information—Subject to Secondary Sanctions; Passport R1451357 (Iran) (individual) [NPWMD] [IFSR].

16. LEILABADI, Ali Hajinia (a.k.a. LAILABADI, ALI HADJINIA), c/o MESBAH ENERGY COMPANY, Iran; DOB 19 Feb 1950; POB Tabriz, Iran; nationality Iran; citizen Iran; Additional Sanctions Information—Subject to Secondary Sanctions; Passport E4710151 (Iran) issued 15 Oct 2000 expires 15 Oct 2005 (individual) [NPWMD] [IFSR].

17. MAHDAVI, Ali; DOB 21 Apr 1967; citizen Iran; Additional Sanctions Information—Subject to Secondary Sanctions (individual) [NPWMD] [IFSR].

18. MOGHADDAMI FARD, Mohammad, United Arab Emirates; DOB 19 Jul 1956; nationality Iran; Additional Sanctions Information—Subject to Secondary Sanctions; Passport N10623175 (Iran) issued 27 Mar 2007 expires 26 Mar 2012 (individual) [NPWMD] [IFSR].

19. NABIPOUR, Ghasem (a.k.a. POUR, Ghasem Nabi), 143 Shahid Lavasani Avenue, Farmanieh, Tehran, Iran; Suite B 12/F, Two Chinachem Plaza, 135 Des Voeux Road, Central, Hong Kong; DOB 16 Jan 1956; nationality Iran; Additional Sanctions Information—Subject to Secondary Sanctions; Passport L11758148 (individual) [NPWMD] [IFSR].

20. NASIRBEIK, Anahita; DOB 10 Jan 1983; nationality Iran; Additional Sanctions Information—Subject to Secondary Sanctions; Passport A5190428 (Iran) (individual) [E.O. 13622].

21. NIZAMI, Anwar Kamal; DOB 19 Apr 1980; citizen Pakistan; Additional Sanctions Information—Subject to Secondary Sanctions; Executive Order 13645 Determination—Material Support; Passport AE9855872 (Pakistan); Accounts Manager, First Furat Trading LLC (individual) [E.O. 13645] (Linked To: KASB INTERNATIONAL LLC).

22. PAJAND, Mohammad Hadi, 73 Blair Court, Boundary Road, London NW8 6NT, United Kingdom; DOB 28 May 1950; nationality Iran; Additional Sanctions Information—Subject to Secondary Sanctions (individual) [NPWMD] [IFSR].

23. PARVARESH, Farhad Ali; DOB Dec 1957; nationality Iran; Additional Sanctions Information—Subject to Secondary Sanctions (individual) [NPWMD] [IFSR].

24. POLAT, Muzaffer; DOB 20 Jul 1975; POB Van, Turkey; nationality Turkey; Additional Sanctions Information—Subject to Secondary Sanctions; Executive Order 13645 Determination—Material Support; Passport U08215942 (Turkey); alt. Passport U05400998 (Turkey); Residency Number 784197524398415 (United Arab Emirates); alt. Residency Number 062368408 (United Arab Emirates); alt. Residency Number 122808985 (United Arab Emirates) (individual) [E.O. 13645] (Linked To: PETRO ROYAL FZE).

25. QANNADI, Mohammad (a.k.a. GHANNADI MARAGHEH, Mohammad; a.k.a. GHANNADI, Mohammad; a.k.a. QANNADI MARAGHEH, Mohammad), c/o ATOMIC ENERGY ORGANIZATION OF IRAN, Iran; DOB 13 Oct 1952; POB Maragheh, Iran; nationality Iran; citizen Iran; Additional Sanctions Information—Subject to Secondary Sanctions; Passport 20694 (Iran); alt. Passport A0003044 (Iran) (individual) [NPWMD] [IFSR].

26. QULANDARY, Azizullah Asadullah (a.k.a. QALANDARI, Azizabdullah); DOB 06 May 1978; POB Ghazni, Afghanistan; citizen Afghanistan; Passport OR306200 (Afghanistan); National ID No. 83669179 (United Arab Emirates) (individual) [E.O. 13622].

27. RAHIQI, Javad; DOB 24 Apr 1953; POB Marshad, Iran; Additional Sanctions Information—Subject to Secondary Sanctions (individual) [NPWMD] [IFSR].

28. RASOOL, Seyed Alaeddin Sadat; DOB 23 Jul 1965; Additional Sanctions Information—Subject to Secondary Sanctions (individual) [NPWMD] [IFSR].

29. REZVANIANZADEH, Mohammed Reza; DOB 11 Dec 1969; Additional Sanctions Information—Subject to Secondary Sanctions; Identification Number 118-984105-3 (individual) [NPWMD] [IFSR].

30. SABET, Javad Karimi, c/o Novin Energy Company, Tehran, Iran; DOB 25 Jul 1973; Additional Sanctions Information—Subject to Secondary Sanctions (individual) [NPWMD] [IFSR].

31. SAFDARI, Seyed Jaber (a.k.a. SAFDARI, Dr. S.J.; a.k.a. SAFDARI, Sayyed Jaber; a.k.a. SAFDARI, Seyyid Jaber); DOB 1968; alt. DOB 1969; POB Navahand, Hamadan Province, Iran; Additional Sanctions Information—Subject to Secondary Sanctions (individual) [NPWMD] [IFSR].

32. SARKANDI, Ahmad (a.k.a. SARKANDI, Ahmed; a.k.a. SARKANDI, Akhmed), No 143 Shahid Lavasani Avenue, Farmanieh, Tehran, Iran; Suite B 12/F, Two Chinachem Plaza, 135 Des Voeux Road, Central, Hong Kong; 2 Abbey Road, Barking Essex 1G11 7AX, London, United Kingdom; 15 Rodney Court, Maida Vale, W9 1TQ, London, United Kingdom; DOB 30 Sep 1953; nationality Iran; Additional Sanctions Information—Subject to Secondary Sanctions (individual) [NPWMD] [IFSR].

33. SEIFI, Asadollah (a.k.a. SAYFI, Esdaleh; a.k.a. SEIFY, Asadollah); DOB 04 Apr 1965 (individual) [E.O. 13622].

34. SEYYEDI, Seyedeh Hanieh Seyed Nasser Mohammad; DOB 20 Aug 1985; POB Orumiyeh, Iran; nationality Iran; Additional Sanctions Information—Subject to Secondary Sanctions; Executive Order 13645 Determination—Material Support; Passport K95579809 (Iran); alt. Passport X13556955 (Iran) (individual) [E.O. 13645].

35. TAFAZOLI, Ahmad (a.k.a. TAFAZOLY, Ahmad; a.k.a. TAFAZZOLI, Ahmad); DOB 27 May 1956; POB Bojnord, Iran; nationality Iran; Additional Sanctions Information—Subject to Secondary Sanctions; Passport R10748186 (Iran) issued 22 Jan 2007 expires 22 Jan 2012 (individual) [NPWMD] [IFSR].

36. TALAI, Mohamad, Hamburg, Germany; DOB 04 Jun 1953; nationality Iran; Additional Sanctions Information—Subject to Secondary Sanctions (individual) [NPWMD] [IFSR].

37. WIPPERMANN, Ulrich; DOB 02 May 1956; Additional Sanctions Information—Subject to Secondary Sanctions (individual) [NPWMD] [IFSR].

38. YASINI, Seyed Kamal (a.k.a. YASINI, Sayyed Kamal; a.k.a. YASINI, Seyyed Kamal); DOB 23 Sep 1956; nationality Iran; Additional Sanctions Information—Subject to Secondary Sanctions; Passport H95629553 (Iran); National ID No. 1229838619 (individual) [E.O. 13622].

39. YAZDI, Bahareh Mirza Hossein (a.k.a. YAZDI, Betty); DOB 26 Jun 1978; citizen United Kingdom; Additional Sanctions Information—Subject to Secondary Sanctions (individual) [NPWMD] [IFSR].

40. ZADEH, Hassan Jalil (a.k.a. JALILZADEH, Hassan); DOB 26 Jan 1959; nationality Iran; Additional Sanctions Information—Subject to Secondary Sanctions; Passport A1508382 (Iran) expires 24 Feb 2010 (individual) [NPWMD] [IFSR].

41. ZANJANI, Babak Morteza; DOB 12 Mar 1974; alt. DOB 12 Mar 1971; citizen Iran; Additional Sanctions Information—Subject to Secondary Sanctions; Passport L18597666 (Iran); alt. Passport L95279398 (Iran) (individual) [NPWMD] [IFSR].

42. ZEIDI, Hossein (a.k.a. ZEIDI, Hosein; a.k.a. ZEIDI, Hossein Mansour); DOB 11 Sep 1965; citizen Saint Kitts and Nevis; citizen Saint Vincent and the Grenadines; Former Citizenship Country Iran; Passport RE0003553 (Saint Kitts and Nevis); National ID No. 444169 (United Arab Emirates) (individual) [E.O. 13622].

43. SOKOLENKO, Vitaly (a.k.a. SOKOLENKO, Vitalii; a.k.a. SOKOLENKO, Vitaliy); DOB 16 Jun 1968; Executive Order 13645 Determination—Material Support; Passport EH354160; alt. Passport P0329907; General Manager of Ferland Company Limited (individual) [FSE-IR] [E.O. 13645] (Linked To: FERLAND COMPANY LIMITED).²

² On Implementation Day, OFAC took administrative actions under E.O.s 13608 and 13645, allowing for the removal of this individual from the SDN List and the FSE List. See also Section II.

Entities

1. ABAN AIR (a.k.a. ABAN AIR CO JPS), No.14, Imam Khomeini Airport, Airport Cargo Terminal, Tehran, Iran; No.1267, Vali Asr Avenue, Tehran 1517736511, Iran; Unit 7, Marlin Park, Central Way, Feltham TW14 OXD, United Kingdom; No.53 Molla Sadra St. Vanak Square, Tehran 19916 14661, Iran; No 7 & 8, Main Dnata Building, Dubai Airport Free Zone, Dubai, United Arab Emirates; Web site www.abanair.com; Email Address info@abanair.com; Additional Sanctions Information—Subject to Secondary Sanctions [NPWMD] [IFSR].

2. ADVANCE NOVEL LIMITED, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Additional Sanctions Information—Subject to Secondary Sanctions; Business Registration Document # 1342245 (Hong Kong) issued 01 Jun 2009 [NPWMD] [IFSR].

3. AL AQILI GROUP LLC (a.k.a. AL AQILI GROUP OF COMPANIES), Oud Metha Tower, 10th Floor, P.O. Box 1496, Dubai, United Arab Emirates; Web site www.aqili.com; Email Address info@aqili.com; Additional Sanctions Information—Subject to Secondary Sanctions [E.O. 13645].

4. AL FIDA INTERNATIONAL GENERAL TRADING, Emirates Concord Hotel, Office Tower 16th Floor Flat 1065, P.O. Box: 28774, Dubai, United Arab Emirates; Additional Sanctions Information—Subject to Secondary Sanctions [NPWMD] [IFSR].

5. AL HILAL EXCHANGE, P.O. Box 28774, Shop #9 & 10 Ground Floor, Emirates Concorde Hotel, Al Maktoum Road, Deira Dubai, United Arab Emirates; Emirates Concorde Hotel & Residence, Almaktoum Street, P.O. Box 28774, Dubai, United Arab Emirates; Additional Sanctions Information—Subject to Secondary Sanctions [NPWMD] [IFSR].

6. ALPHA EFFORT LIMITED, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Web site www.ssa-smc.net; Email Address info@ssa-smc.net; Additional Sanctions Information—Subject to Secondary Sanctions; Business Registration Document #1338849 (Hong Kong) issued 18 May 2009; Telephone: 982126100191; Fax: 982126100192 [NPWMD] [IFSR].

7. ANTARES SHIPPING COMPANY NV (f.k.a. IRISL BENELUX NV), Noorderlaan 139, B-2030, Antwerp, Belgium; Additional Sanctions Information—Subject to Secondary Sanctions; V.A.T. Number BE480224531 (Belgium) [NPWMD] [IFSR].

8. ARIAN BANK (a.k.a. ARYAN BANK), House 2, Street Number 13, Wazir Akbar Khan, Kabul, Afghanistan; Additional Sanctions Information—Subject to Secondary Sanctions [NPWMD] [IFSR].

9. ASHTEAD SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document #108116C (Man, Isle of); Telephone: 982120100488; Fax: 982120100486 [NPWMD] [IFSR].

10. ASIA BANK (a.k.a. CHEMEXIMBANK; a.k.a. COMMERCIAL BANK 'CHEMEXIMBANK' LTD), Offices 7-15, 67-69, 4 ul Ilinka, Moscow 109012, Russia; 267-270 offices, 4, Ilinka Street, Moscow 109012, Russia; SWIFT/BIC CHEB RU MM; Web site www.chemexim.ru; alt. Web site www.asia-bank.ru; BIK (RU) 044585333; All offices worldwide [E.O.13622].

11. ASIA MARINE NETWORK PTE. LTD. (a.k.a. ASIAN PERFECT MARINE PTE. LTD.; a.k.a. IRISL ASIA PTE. LTD.), 200 Middle Road, #14-01 Prime Centre 188980, Singapore; Additional Sanctions Information—Subject to Secondary Sanctions [NPWMD] [IFSR].

12. ASSA CO. LTD., 6 Britania Place, Bath Street, St. Helier JE2 4SU, Jersey; Additional Sanctions Information—Subject to Secondary Sanctions [NPWMD] [IFSR].

13. ASSA CORP. (a.k.a. ASSA), New York, NY, United States; Additional Sanctions Information—Subject to Secondary Sanctions; Tax ID No. 1368932 (United States) [NPWMD] [IFSR].

14. ATLANTIC INTERMODAL, United Arab Emirates; Additional Sanctions Information—Subject to Secondary Sanctions [NPWMD] [IFSR].

15. ATOMIC ENERGY ORGANIZATION OF IRAN (a.k.a. SAZEMAN-E ENERGY ATOMI), P.O. Box 14144-1339, End of North Karegar Avenue, Tehran, Iran; Additional Sanctions Information—Subject to Secondary Sanctions [NPWMD] [IFSR].

16. AZORES SHIPPING COMPANY LL FZE, P.O. Box 5232, Fujairah, United Arab Emirates; Additional Sanctions Information—Subject to Secondary Sanctions; Business Registration Document #2112 (United Arab Emirates); Telephone: 97192282978; Fax: 97192282979 [NPWMD] [IFSR].

17. BANCO INTERNACIONAL DE DESARROLLO, C.A., Urb. El Rosal, Avenida Francisco de Miranda, Edificio Dozsa, Piso 8, Caracas C.P. 1060, Venezuela; SWIFT/BIC IDUNVECA; Additional Sanctions Information—Subject to Secondary Sanctions; RIF #J294640109 (Venezuela); Banco Internacional de Desarrollo, C.A. is a separate and distinct entity from Banco Interamericano de Desarrollo, known in English as the Inter-American Development Bank (IADB), and from Banco Desarrollo Economico y Social De Venezuela (BANDES), an entity owned by the Government of Venezuela [NPWMD] [IFSR].

18. BANK KARGOSHAEE (a.k.a. KARGOSA'I BANK), 587 Mohammadiye Square, Mowlavi St., Tehran 11986, Iran; Additional Sanctions Information—Subject to Secondary Sanctions [NPWMD] [IFSR].

19. BANK MELLAT, Head Office Bldg, 327 Taleghani Ave, Tehran 15817, Iran; 327 Forsat and Taleghani Avenue, Tehran 15817, Iran; P.O. Box 375010, Amiryan Str #6, P/N-24, Yerevan, Armenia; Keumkang Tower—13th & 14th Floor, 889-13 Daechi-Dong, Gangnam-Ku, Seoul 135-280, Korea, South; P.O. Box 79106425, Ziya Gokalp Bulvari No 12, Kizilay, Ankara, Ankara, Turkey; Cumhuriyet Bulvari No 88/A, PK 7103521, Konak, Izmir, Turkey; Buyukdere Cad, Cicek Sokak No 1—1 Levent, Levent, Istanbul, Turkey; Additional Sanctions Information—Subject to Secondary Sanctions; all offices worldwide [IRAN] [NPWMD] [IFSR].

20. BANK MELLI IRAN (a.k.a. BANK MELLI; a.k.a. NATIONAL BANK OF IRAN), P.O. Box 11365-171, Ferdowsi Avenue, Tehran, Iran; 43 Avenue Montaigne, Paris 75008, France; Room 704-6, Wheelock Hse, 20 Pedder St., Central, Hong Kong; Bank Melli Iran Bldg, 111 St 24, 929 Arasat, Baghdad, Iraq; P.O. Box 2643, Ruwi, Muscat 112, Oman; P.O. Box 2656, Liva Street, Abu Dhabi, United Arab Emirates; P.O. Box 248, Hamad Bin Abdulla St, Fujairah, United Arab Emirates; P.O. Box 1888, Clock Tower, Industrial Rd, Al Ain Club Bldg, Al Ain, Abu Dhabi, United Arab Emirates; P.O. Box 1894, Baniyas St, Deira, Dubai City, United Arab Emirates; P.O. Box 5270, Oman Street Al Nakheel, Ras Al- Khaimah, United Arab Emirates; P.O. Box 459, Al Borj St, Sharjah, United Arab Emirates; P.O. Box 3093, Ahmed Seddiqui Bldg, Khalid Bin El-Walid St, Bur-Dubai, Dubai City 3093, United Arab Emirates; P.O. Box 1894, Al Wasl Rd, Jumeirah, Dubai, United Arab Emirates; Postfach 112 129, Holzbruecke 2, D-20459, Hamburg, Germany; Nobel Ave. 14, Baku, Azerbaijan; Unit 1703-4, 17th Floor, Hong Kong Club Building, 3 A Chater Road Central, Hong Kong; Esteghlal St., Opposite to Otbeh Ibn Ghazvan Hall, Basrah, Iraq; Additional Sanctions Information—Subject to Secondary Sanctions; all offices worldwide [IRAN] [NPWMD] [IFSR].

21. BANK MELLI IRAN INVESTMENT COMPANY (a.k.a. BMIIC), Rafiee Alley, Nader Alley, 2 After Serahi Shahid Beheshti, Vali E Asr Avenue, Tehran, Iran; No. 2, Nader Alley, Vali-Asr Str., P.O. Box 3898-15875, Tehran, Iran; Bldg 2, Nader Alley after Beheshi Forked Road, P.O. Box 15875-3898, Tehran 15116, Iran; Additional Sanctions Information—Subject to Secondary Sanctions; Business Registration Document #89584 (Iran) [NPWMD] [IFSR].

22. BANK MELLI PRINTING AND PUBLISHING CO. (a.k.a. BANK MELLI PRINTING CO.), Km 16 Karaj Special Road, Tehran, Iran; 18th Km Karaj Special Road, P.O. Box 37515-183, Tehran, Iran; Additional Sanctions Information—Subject to Secondary Sanctions; Business Registration Document #382231 (Iran) [NPWMD] [IFSR].

23. BANK OF INDUSTRY AND MINE (OF IRAN) (a.k.a. BANK SANAD VA MADAN; a.k.a. “BIM”), P.O. Box 15875-4456, Firouzeh Tower, No 1655 Vali-Asr Ave after Chamran Crossroads, Tehran 1965643511, Iran; No 1655, Firouzeh Building, Mahmoudiye Street, Valiasr Ave, Tehran, Iran; Additional Sanctions Information—Subject to Secondary Sanctions; all offices worldwide [IRAN] [NPWMD] [IFSR].

24. BANK REFAH KARGARAN (a.k.a. BANK REFAH; a.k.a. WORKERS' WELFARE BANK (OF IRAN)), No. 40 North Shiraz Street, Mollasadra Ave, Vanak Sq, Tehran 19917, Iran; Additional Sanctions Information—Subject to Secondary Sanctions; all offices worldwide [IRAN] [NPWMD] [IFSR].

25. BANK SEPAH INTERNATIONAL PLC, 5-7 Eastcheap, London EC3M 1JT, United Kingdom; Additional Sanctions Information—Subject to Secondary Sanctions [NPWMD] [IFSR].

26. BANK SEPAH, Imam Khomeini Square, Tehran 1136953412, Iran; 64 Rue de Miromesnil, Paris 75008, France; Hafenstrasse 54, D-60327, Frankfurt am Main, Germany; Via Barberini 50, Rome, RM 00187, Italy; 17 Place Vendome, Paris 75008, France; Additional Sanctions Information—Subject to Secondary Sanctions; all offices worldwide [IRAN] [NPWMD] [IFSR].

27. BANK TEJARAT, P.O. Box 11365-5416, 152 Taleghani Avenue, Tehran 15994, Iran; 130, Zandi Alley, Taleghani Avenue, No 152, Ostad Nejat Ollahi Cross, Tehran 14567, Iran; 124-126 Rue de Provence, Angle 76 bd Haussman, Paris 75008, France; P.O. Box 734001, Rudaki Ave 88, Dushanbe 734001, Tajikistan; Office C208, Beijing Lufthansa Center No 50, Liangmaqiao Rd, Chaoyang District, Beijing 100016, China; c/o Europaisch-Iranische Handelsbank AG, Depenau 2, D-20095, Hamburg, Germany; P.O. Box 119871, 4th Floor, c/o Persia International Bank PLC, The Gate Bldg, Dubai City, United Arab Emirates; c/o Persia International Bank, 6 Lothbury, London EC2R 7HH, United Kingdom; SWIFT/BIC BTEJ IR TH; Additional Sanctions Information—Subject to Secondary Sanctions; all offices worldwide [IRAN] [NPWMD] [IFSR].

28. BANK TORGOVOY KAPITAL ZAO (a.k.a. TC BANK; a.k.a. TK BANK; a.k.a. TK BANK ZAO; a.k.a. TORGOVY KAPITAL (TK BANK); a.k.a. TRADE CAPITAL BANK; a.k.a. TRADE CAPITAL BANK (TC BANK); a.k.a. ZAO BANK TORGOVY KAPITAL), 3 Kozlova Street, Minsk 220005, Belarus; SWIFT/BIC BBTK BY 2X; Additional Sanctions Information—Subject to Secondary Sanctions; Registration ID 30 (Belarus); all offices worldwide [IRAN] [NPWMD] [IFSR].

29. BELFAST GENERAL TRADING LLC, Room 1602 Twin Tower Building, Baniyas Rd, Dubai, United Arab Emirates [E.O.13622].

30. BEST PRECISE LIMITED, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Web site www.ssa-smc.net; Email Address info@ssa-smc.net; Additional Sanctions Information—Subject to Secondary Sanctions; Business Registration Document #1342234 (Hong Kong) issued 01 Jun 2009; Telephone: 982126100191; Fax: 982126100192 [NPWMD] [IFSR].

31. BIIS MARITIME LIMITED, 147/1 St. Lucia Street, Valletta, VLT 1185, Malta; c/o Irano Hind Shipping Company, P.O. Box 15875, Mehrshad Street, Sadaghat Street, Opposite of Park Mellat, Vali-e-Asr Ave., Tehran, Iran; Web site www.iranohind.com; Additional Sanctions Information—Subject to Secondary Sanctions; Business Registration Document #C31530 (Malta) [NPWMD] [IFSR].

32. BMIIC INTERNATIONAL GENERAL TRADING LTD (a.k.a. BMIIC TRADING UAE; a.k.a. BMIIGT; a.k.a. “BMIICGT”), P.O. Box 11567, Dubai, United Arab Emirates; Deira, P.O. Box 181878, Dubai, United Arab Emirates; Additional Sanctions Information—Subject to Secondary Sanctions [NPWMD] [IFSR].

33. BUSHEHR SHIPPING COMPANY LIMITED, 143/1 Tower Road, Sliema, Slm 1604, Malta; Additional Sanctions Information—Subject to Secondary Sanctions; Business Registration Document #C 37422 (Malta) issued 30 Nov 2005 [NPWMD] [IFSR].

34. BYFLEET SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document #118117C (Man, Isle of); Telephone: 982120100488; Fax: 982120100486 [NPWMD] [IFSR].

35. CEMENT INVESTMENT AND DEVELOPMENT COMPANY (a.k.a. CIDCO; a.k.a. CIDCO CEMENT HOLDING), No. 241, Mirdamad Street, Tehran, Iran; Additional Sanctions Information—Subject to Secondary Sanctions [NPWMD] [IFSR].

36. CISCO SHIPPING COMPANY CO. LTD. (a.k.a. IRISL KOREA CO., LTD.; a.k.a. SEOUL INTERNATIONAL SHIPPING COMPANY; a.k.a. SISCO), 18th Floor, Sebang Building, 708-8, Yeoksam-dong, Kangnam-Gu, Seoul, Korea, South; 4th Floor, Sebang Building 68-46, Jwacheon-Dong, Dong-Gu, Busan, Korea, South; Additional Sanctions Information—Subject to Secondary Sanctions [NPWMD] [IFSR].

37. COBHAM SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document # 108118C (Man, Isle of); Telephone: 982120100488; Fax: 982120100486 [NPWMD] [IFSR].

38. CONCEPT GIANT LIMITED, 15th Tower One Lippo Center, 89 Queensway, Hong Kong; c/o Soroush Sarzamin Asatir (SSA) Ship Management Co, Shabnam Alley Golriz St, Vafa Alley Fajr St, Shahid Motahari Avenue, 1589675951, Tehran, Iran; Web site www.ssa-smc.net; Email Address info@ssa-smc.net; Additional Sanctions Information—Subject to Secondary Sanctions; Business Registration Document #1342237 (Hong Kong) issued 01 Jun 2009; Telephone: 982126100191; Fax: 982126100192 [NPWMD] [IFSR].

39. CRYSTAL SHIPPING FZE, Dubai, United Arab Emirates; Email Address md@pacificship.net; Additional Sanctions Information—Subject to Secondary Sanctions; Fax: 97143591921 [NPWMD] [IFSR].

40. DARYA CAPITAL ADMINISTRATION GMBH, Schottweg 5, Hamburg 22087, Germany; Additional Sanctions Information—Subject to Secondary Sanctions; Business Registration Document #HRB94311 (Germany) issued 21 Jul 2005 [NPWMD] [IFSR].

41. DFS WORLDWIDE (a.k.a. DFS WORLDWIDE FZCO), No.53 Mollasadra Avenue, P.O. Box 1991614661, Tehran, Iran; Unit 7, Marlin Park, Central Way, Feltham, Middlesex TW14 0XD, United Kingdom; Warehouse No. J-01, Dubai Airport Free Zone, Dubai, United Arab Emirates; P.O. Box 293020 Dubai Airport Free Zone, Dubai, United Arab Emirates; Cargo City South, Building 543, Frankfurt 60549, Germany; S.A. Pty Ltd Unit 8, the Meezricht Business Park, 33 Kelly Road, Jet Park, Boksburg North 1460, South Africa; Web site www.dfsworldwide.com; Email Address irsales@dfsworldwide.com; Additional Sanctions Information—Subject to Secondary Sanctions; DFS WORLWIDE, (a.k.a. DFS WORLDWIDE FZCO) is a separate and distinct entity from DFS Worldwide of Houston, Texas, USA and from Deutsche Financial Services, of Germany. [NPWMD] [IFSR].

42. DORKING SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document #108119C (Man, Isle of); Telephone: 982120100488; Fax: 982120100486 [NPWMD] [IFSR].

43. EDBI EXCHANGE COMPANY, Tehran, Iran; Additional Sanctions Information—Subject to Secondary Sanctions [NPWMD] [IFSR].

44. EDBI STOCK BROKERAGE COMPANY, Tehran, Iran; Additional Sanctions Information—Subject to Secondary Sanctions [NPWMD] [IFSR].

45. EFFINGHAM SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document #108120C (Man, Isle of); Telephone: 982120100488; Fax: 982120100486 [NPWMD] [IFSR].

46. EIGHTH OCEAN ADMINISTRATION GMBH, Schottweg 5, Hamburg 22087, Germany; Additional Sanctions Information—Subject to Secondary Sanctions; Business Registration Document #HRB94633 (Germany) issued 24 Aug 2005 [NPWMD] [IFSR].

47. EIGHTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102533 (Germany) issued 01 Sep 2005; Telephone: 00982120100488; Fax: 00982120100486 [NPWMD] [IFSR].

48. ELEVENTH OCEAN ADMINISTRATION GMBH, Schottweg 5, Hamburg 22087, Germany; Additional Sanctions Information—Subject to Secondary Sanctions; Business Registration Document #HRB94632 (Germany) issued 24 Aug 2005 [NPWMD] [IFSR].

49. ELEVENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102544 (Germany) issued 09 Sep 2005; Telephone: 004940302930; Telephone: 00982120100488; Fax: 00982120100486 [NPWMD] [IFSR].

50. ESFAHAN NUCLEAR FUEL RESEARCH AND PRODUCTION CENTER (a.k.a. ENTC; a.k.a. ESFAHAN NUCLEAR TECHNOLOGY CENTER; a.k.a. NFRPC; a.k.a. “ESFAHAN NUCLEAR FUEL AND PROCUREMENT COMPANY”; a.k.a. “NERPC”), P.O. Box 81465-1589, Esfahan, Iran; Additional Sanctions Information—Subject to Secondary Sanctions [NPWMD] [IFSR].

51. EUROPAISCH-IRANISCHE HANDELSBANK AG (f.k.a. DEUTSCH-IRANISCHE HANDELSBANK AG; a.k.a. EUROPAEISCH-IRANISCHE HANDELSBANK; a.k.a. EUROPAESCH-IRANISCHE HANDELSBANK AKTIENGESELLSCHAFT; a.k.a. GERMAN-IRANIAN TRADE BANK), Hamburg Head Office, Depenau 2, D-20095 Hamburg, P.O. Box 101304, D-20008 Hamburg, Hamburg, Germany; Kish Branch, Sanaee Avenue, P.O. Box 79415/148, Kish Island 79415, Iran; Tehran Branch, No. 1655/1, Valiasr Avenue, P.O. Box 19656 43 511, Tehran, Iran; Additional Sanctions Information—Subject to Secondary Sanctions; all offices worldwide [IRAN] [NPWMD] [IFSR].

52. EVEREX (a.k.a. EVEREX GLOBAL CARRIER AND CARGO; a.k.a. EVEREX LIMITED; a.k.a. SUN GROUP; a.k.a. SUN GROUP AIR TRAVEL AND AIR CARGO AND AIRPORT SERVICES LTD), Office 14, Cargo Terminal, Imam Khomeini International Airport, Tehran, Iran; 1267 Vali-E-Asr Avenue, Tehran, Iran; No.53 Mollasadra St, Vanak Square, Tehran, Iran; Office#J01, Dubai Airport Free Zone, Dubai, United Arab Emirates; P.O. Box 293020, Dubai, United Arab Emirates; Unit 7, Marlin Park, Central Way, Feltham TW14 OXD, United Kingdom; Web site www.everexglobal.com; Email Address irsales@everexglobal.com; alt. Email Address uksales@everexglobal.com; Additional Sanctions Information—Subject to Secondary Sanctions [NPWMD] [IFSR].

53. EXPORT DEVELOPMENT BANK OF IRAN (a.k.a. BANK TOSEH SADERAT IRAN; a.k.a. BANK TOWSEEH SADERAT IRAN; a.k.a. BANK TOWSEH SADERAT IRAN; a.k.a. EDBI), Tose'e Tower, Corner of 15th St., Ahmed Qasir Ave., Argentine Square, Tehran, Iran; No. 129, 21's Khaled Eslamboli, No. 1 Building, Tehran, Iran; Export Development Building, Next to the 15th Alley, Bokharest Street, Argentina Square, Tehran, Iran; No. 26, Tosee Tower, Arzhantine Square, P.O. Box 15875-5964, Tehran 15139, Iran; No. 4, Gandi Ave., Tehran 1516747913, Iran; Additional Sanctions Information—Subject to Secondary Sanctions; Registration ID 86936 (Iran) issued 10 Jul 1991; all offices worldwide [IRAN] [NPWMD] [IFSR].

54. FAIRWAY SHIPPING LTD, 83 Victoria Street, London SW1H 0HW, United Kingdom; Additional Sanctions Information—Subject to Secondary Sanctions; Business Registration Document #6531277 (United Kingdom); Telephone: 02072229255 [NPWMD] [IFSR].

55. FARNHAM SHIPPING COMPANY LIMITED, Manning House, 21 Bucks Road, Douglas IM1 3DA, Man, Isle of; c/o Islamic Republic of Iran Shipping Lines (IRISL), No. 37, Aseman Tower, Sayyade Shirazee Square, Pasdaran Avenue, P.O. Box 19395-1311, Tehran, Iran; Web site www.irisl.net; Email Address smd@irisl.net; Additional Sanctions Information—Subject to Secondary Sanctions; Business Registration Document #108146C (Man, Isle of); Telephone: 982120100488; Fax: 982120100486 [NPWMD] [IFSR].

56. FAYLACA PETROLEUM (a.k.a. FAYLACA PETROLEUM SUPPLIERS EST.), Office No. 209, Tower A, Al Majarah, P.O. Box 44636, Sharjah, Dubai, United Arab Emirates; Web site www.faylacapetroleum.com; Email Address info@faylacapetroleum.com; Additional Sanctions Information—Subject to Secondary Sanctions; Executive Order 13645 Determination—Material Support; License 113988 [EO13645].

57. FERLAND COMPANY LIMITED (a.k.a. FERLAND CO. LTD), 29 A Anna Komnini St., P.O. Box 2303, Nicosia, Cyprus; 5/7 Sabaneyev Most., Odessa, Ukraine; Executive Order 13645 Determination—Material Support [ISA] [FSE-IR] [EO13645] (Linked To: NATIONAL IRANIAN TANKER COMPANY).³

³ On Implementation Day, the Secretary of State and OFAC took administrative actions under, respectively, ISA and E.O.s 13608 and 13645, allowing for the removal of this entity from the SDN List and FSE List. See also Sections I.B and II.

58. FIFTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA104175 (Germany) issued 12 Jul 2006; Telephone: 00982120100488; Fax: 00982120100486 [NPWMD] [IFSR].

59. FIFTH OCEAN ADMINISTRATION GMBH, Schottweg 5, Hamburg 22087, Germany; Additional Sanctions Information—Subject to Secondary Sanctions; Business Registration Document #HRB94315 (Germany) issued 21 Jul 2005 [NPWMD] [IFSR].

60. FIFTH OCEAN GMBH & CO. KG, Schottweg 5, Hamburg 22087, Germany; c/o Hafiz Darya Shipping Co, No 60, Ehteshamiyeh Square, 7th Neyestan Street, Pasdaran Avenue, Tehran, Iran; Web site www.hdslines.com; Email Address info@hdslines.com; Additional Sanctions Information—Subject to Secondary Sanctions; Business Registration Document #HRA102599 (Germany) issued 19 Sep 2005; Telephone: 00494070383392; Telephone: 00982126100733; Fax: 00982120100734 [NPWMD] [IFSR].

61. FIRST EAST EXPORT BANK, P.L.C., Unit Level 10 (B1) Main Office Tower, Financial Park Labuan, Jalan Merdeka 87000 WP, Labuan, Malaysia; Additional Sanctions Information—Subject to Secondary Sanctions; Business Registration Document #LL06889 (Malaysia) [NPWMD] [IFSR].

62. FIRST ISLAMIC INVESTMENT BANK LTD. (a.k.a. FIIB), Unit 13(C) Main Office Tower, Financial Park Labuan Complex, Jalan Merdeka Federal Territory of Labuan, Labuan 87000, Malaysia; 19A-31-3A, Level 31, Business Suite, Wisma UOA, No. 19 Jalan Pinang, Kuala Lumpur, 50450, Malaysia; SWIFT/BIC FIIB MY KA; alt. SWIFT/BIC FIIB MY KA KUL; Additional Sanctions Information—Subject to Secondary Sanctions [NPWMD] [IFSR].

63. FIRST OCEAN ADMINISTRATION GMBH, Schottweg 5, Hamburg 22087, Germany; Additional Sanctions Information—Subject to Secondary Sanctions; Business Registration Document #HRB94311 (Germany) issued 21 Jul 2005 [NPWMD] [IFSR].

64. FIRST OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102601 (Germany) issued 19 Sep 2005; Telephone: 00982120100488; Fax: 00982120100486 [NPWMD] [IFSR].

65. FIRST PERSIA EQUITY FUND (a.k.a. FIRST PERSIAN EQUITY FUND; a.k.a. FPEF), Rafi Alley, Vali Asr Avenue, Nader Alley, P.O. Box 15875-3898, Tehran 15116, Iran; Cayman Islands; Additional Sanctions Information—Subject to Secondary Sanctions; Commercial Registry Number 188924 (Cayman Islands) [NPWMD] [IFSR].

66. FOURTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA104174 (Germany) issued 12 Jul 2006; Telephone: 00982120100488; Fax: 00982120100486 [NPWMD] [IFSR].

67. FOURTH OCEAN ADMINISTRATION GMBH, Schottweg 5, Hamburg 22087, Germany; Additional Sanctions Information—Subject to Secondary Sanctions; Business Registration Document #HRB94314 (Germany) issued 21 Jul 2005 [NPWMD] [IFSR].

68. FOURTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102600 (Germany) issued 19 Sep 2005; Telephone: 00494070383392; Telephone: 00982120100488; Fax: 00982120100486 [NPWMD] [IFSR].

69. FUTURE BANK B.S.C. (a.k.a. BANK-E AL-MOSTAGHBAL; a.k.a. FUTURE BANK), P.O. Box 785, City Centre Building, Government Avenue, Manama, Bahrain; Block 304, City Centre Building, Building 199, Government Avenue, Road 383, Manama, Bahrain; Free Trade Zone, Sanaati-e Kish, Vilay-e Ferdos 2, Corner of Klinik-e Khanevadeh, No 1/5 and 3/5, Kish, Iran; Additional Sanctions Information—Subject to Secondary Sanctions; Business Registration Document #54514-1 (Bahrain) expires 09 Jun 2009; Trade License No. 13388 (Bahrain); All branches worldwide [IRAN] [NPWMD] [IFSR].

70. GALLIOT MARITIME INC, c/o Hafiz Darya Shipping Co, No. 60, Ehteshamiyeh Square, 7th Neyestan Street, Pasdaran Avenue, Tehran, Iran; Web site www.hdslines.com; Email Address info@hdslines.com; Additional Sanctions Information—Subject to Secondary Sanctions; RUC #1873702-1-717632 (Panama); Telephone: 982126100733; Fax: 982120100734 [NPWMD] [IFSR].

71. GOMSHALL SHIPPING COMPANY LIMITED, Manning House, 21 Bucks Road, Douglas IM1 3DA, Man, Isle of; c/o Soroush Sarzamin Asatir (SSA) Ship Management Co, Shabnam Alley, Golriz St, Vafa Alley, Fajr St, Shahid Motahari Avenue, 1589675951, Tehran, Iran; Web site www.ssa-smc.net; Email Address info@ssa-smc.net; Additional Sanctions Information—Subject to Secondary Sanctions; Business Registration Document #111998C (Man, Isle of); Telephone: 982126100191; Fax: 982126100192 [NPWMD] [IFSR].

72. GOOD LUCK SHIPPING L.L.C., Office 206/207 Malik Saeed, Ahmad Ghabbash, Bur Dubai, Dubai, United Arab Emirates; P.O. Box 8486, Dubai, United Arab Emirates; P.O. Box 5562, Dubai, United Arab Emirates; Additional Sanctions Information—Subject to Secondary Sanctions; Commercial Registry Number 655319 (United Arab Emirates) [NPWMD] [IFSR].

73. GREAT METHOD LIMITED, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Web site www.ssa-smc.net; Email Address info@ssa-smc.net; Additional Sanctions Information—Subject to Secondary Sanctions; Business Registration Document #1328889 (Hong Kong) issued 30 Mar 2009; Telephone: 982126100191; Fax: 982126100192 [NPWMD] [IFSR].

74. HAFIZ DARYA SHIPPING CO (a.k.a. HAFIZ DARYA SHIPPING LINES COMPANY; a.k.a. HDS LINES), No 60, Ehteshamiyeh Square, 7th Neyestan Street, Pasdaran Avenue, Tehran, Iran; BIC Container Code HDXU; Additional Sanctions Information—Subject to Secondary Sanctions; Business Registration Document #5478431 issued Mar 2009 [NPWMD] [IFSR].

75. HORSHAM SHIPPING COMPANY LIMITED, Manning House, 21 Bucks Road, Douglas IM1 3DA, Man, Isle of; c/o Soroush Sarzamin Asatir (SSA) Ship Management Co, Shabnam Alley, Golriz St, Vafa Alley, Fajr St, Shahid Motahari Avenue, 1589675951, Tehran, Iran; Web site www.ssa-smc.net; Email Address info@ssa-smc.net; Additional Sanctions Information—Subject to Secondary Sanctions; Business Registration Document #111999C (Man, Isle of); Telephone: 982126100191; Fax: 982126100192 [NPWMD] [IFSR].

76. HTTS HANSEATIC TRADE TRUST AND SHIPPING, GMBH, Schottweg 7, Hamburg 22087, Germany; Schottweg 5, Hamburg 22087, Germany; Web site www.httsgmbh.com; Web site www.irisl-europe.de; Additional Sanctions Information—Subject to Secondary Sanctions; Business Registration Document #HRB109492 (Germany); Telephone: 004940278740; Telephone: 004940600383200; Telephone: 0049406003830; Telephone: 00494027874112; Fax: 00494027874200 [NPWMD] [IFSR].

77. IDEAL SUCCESS INVESTMENTS LIMITED, RM B, 12th Floor Chinachem Plaza, 135 Des Voeux Road C, Central District, Hong Kong Island, Hong Kong; Additional Sanctions Information—Subject to Secondary Sanctions; Business Registration Document #1209837 (Hong Kong) issued 05 Feb 2008; Telephone: 85228682398; Fax: 85225372603 [NPWMD] [IFSR].

78. INDUS MARITIME INC, c/o Hafiz Darya Shipping Co, No. 60, Ehteshamiyeh Square, 7th Neyestan Street, Pasdaran Avenue, Tehran, Iran; Web site www.hdslines.com; Email Address info@hdslines.com; Additional Sanctions Information—Subject to Secondary Sanctions; RUC #1873701-1-717631 (Panama); Telephone: 982126100733; Fax: 982120100734 [NPWMD] [IFSR].

79. INTERNATIONAL SAFE OIL (a.k.a. “ACCOUNT INTERNATIONAL SAFE OIL”), Tazunit Level 13, Main Office Tower Financial Park, Labuan, Jalan Merdeka Federal Territory of Labuan 87000, Malaysia; Additional Sanctions Information—Subject to Secondary Sanctions [NPWMD] [IFSR].

80. IRAN AIR (a.k.a. AIRLINE OF THE ISLAMIC REPUBLIC OF IRAN (HOMA); a.k.a. HAVAPEYMA MELI IRAN HOMA; a.k.a. HOMA; a.k.a. IRAN AIR CARGO; a.k.a. IRAN AIR P J S C; a.k.a. IRANAIR; a.k.a. IRANAIR CARGO; a.k.a. NATIONAL IRANIAN AIRLINES (HOMA); f.k.a. SHERKAT SAHAMI AAM HAVOPAYMAIE JOMHOURI ISLAMI IRAN), P.O. Box 13185-775, Mehrabad Airport, Tehran, Iran; Flour2, Cargo Building, Terminal3, Mehrabad Airport, Tehran, Iran; Bimeh Alborz side—2km of karaj special road, Iran; Additional Sanctions Information—Subject to Secondary Sanctions; Business Registration Document #8132 (Iran) issued 24 Feb 1961 [NPWMD] [IFSR].

81. IRAN O HIND SHIPPING COMPANY (a.k.a. IHSC; a.k.a. IRANO HIND SHIPPING COMPANY; a.k.a. IRANOHIND SHIPPING COMPANY, P.J.S.; a.k.a. KESHTIRANI IRAN VE HEND SAHAMI KHASS), 265, Next to Mehrshad, Sedaghat St., Opposite of Mellat Park, Vali Asr Ave., Tehran 1A001, Iran; 18 Mehrshad Street, Sadaghat Street, Opposite of Park Mellat, Vali-e-Asr Ave., Tehran, Iran; Additional Sanctions Information—Subject to Secondary Sanctions [NPWMD] [IFSR].

82. IRAN O MISR SHIPPING COMPANY (a.k.a. IRAN & EGYPT SHIPPING LINES; a.k.a. IRAN AND EGYPT SHIPPING LINES; a.k.a. IRANMISR SHIPPING CO.), El Nahda Building, Elnahda St., 4th Floor, Port Said, Egypt; No. 41, 3rd Floor, Corner of 6th Alley, Sanaei St., Karim Khan Zand Ave., Tehran, Iran; 6 El Horreya Avenue, Alexandria, Egypt; Additional Sanctions Information—Subject to Secondary Sanctions [NPWMD] [IFSR].

83. IRANAIR TOURS (a.k.a. IRAN AIR TOURS; a.k.a. IRAN AIRTOUR AIRLINE), 191 Motah-hari Ave., Dr. Mofatteh Crossroads, Tehran 15879, Iran; 191—Motahari Ave., Tehran 15897, Iran; 187 Mofatteh Cross—Motahari Ave., Tehran 1587997811, Iran; 110 Ahmadabad Ave., Between Mohtashami and Edalat Street, Mashhad 9176663479, Iran; Additional Sanctions Information—Subject to Secondary Sanctions [NPWMD] [IFSR].

84. IRANIAN-VENEZUELAN BI-NATIONAL BANK (a.k.a. “IVBB”), Tosee Building Ground Floor, Bokharest Street 44-46, Tehran, Iran; SWIFT/BIC IVBBIRT1; Additional Sanctions Information—Subject to Secondary Sanctions; all offices worldwide [NPWMD] [IFSR].

85. IRINVESTSHIP LTD., Global House, 61 Petty France, London SW1H 9EU, United Kingdom; Additional Sanctions Information—Subject to Secondary Sanctions; Business Registration Document #4110179 (United Kingdom) [NPWMD] [IFSR].

86. IRISL (MALTA) LIMITED, Flat 1, 181, Tower Road, Sliema SLM 1604, Malta; Additional Sanctions Information—Subject to Secondary Sanctions; Business Registration Document #C33735 (Malta); Tax ID No. MT 17037313 (Malta) [NPWMD] [IFSR].

87. IRISL (UK) LTD., 2 Abbey Rd., Barking, Essex IG11 7 AX, United Kingdom; Additional Sanctions Information—Subject to Secondary Sanctions; Business Registration Document #4765305 (United Kingdom) [NPWMD] [IFSR].

88. IRISL CHINA SHIPPING CO., LTD. (a.k.a. YI HANG SHIPPING COMPANY, LTD.), F23A-D, Times Plaza No. 1, Taizi Road, Shekou, Shenzhen 518067, China; Additional Sanctions Information—Subject to Secondary Sanctions [NPWMD] [IFSR].

89. IRISL EUROPE GMBH, Schottweg 5, 22087, Hamburg, Germany; Additional Sanctions Information—Subject to Secondary Sanctions; V.A.T. Number DE217283818 (Germany) [NPWMD] [IFSR].

90. IRISL MARINE SERVICES & ENGINEERING COMPANY (a.k.a. IMSENGCO; a.k.a. IRISL MARINE SERVICES AND ENGINEERING COMPANY; a.k.a. SHERKATE KHADAMTE DARYA AND MOHAMDESI KESHTIRANI), No. 221, Northern Iranshahr St., Karimkhan Ave., Tehran, Iran; Karim Khan Zand Ave., Iran Shahr Shomai, No. 221, Tehran, Iran; Sarbandar, Gas Station, P.O. Box 199, Bandar Imam Khomeini, Iran; Additional Sanctions Information—Subject to Secondary Sanctions [NPWMD] [IFSR].

91. IRISL MULTIMODAL TRANSPORT CO. (a.k.a. RAIL IRAN SHIPPING COMPANY), No. 25, Shahid Arabi Line, Sanaei St., Karimkhan Zand St., Tehran, Iran; Additional Sanctions Information—Subject to Secondary Sanctions [NPWMD] [IFSR].

92. IRITAL SHIPPING SRL COMPANY, Ponte Francesco Morosini 59, 16126 Genova (GE), Italy; Additional Sanctions Information—Subject to Secondary Sanctions; V.A.T. Number 12869140157 (Italy); Italian Fiscal Code 03329300101 (Italy); Commercial Registry Number GE 426505 (Italy) [NPWMD] [IFSR].

93. ISI MARITIME LIMITED, 147/1, St. Lucia Street, Valletta, Vlt 1185, Malta; Additional Sanctions Information—Subject to Secondary Sanctions; Business Registration Document #C 28940 (Malta) issued 23 Nov 2001 [NPWMD] [IFSR].

94. ISIM AMIN LIMITED, 147/1 St. Lucia Street, Valletta, VLT 1185, Malta; Additional Sanctions Information—Subject to Secondary Sanctions; Business Registration Document #C40069 (Malta) [NPWMD] [IFSR].

95. ISIM ATR LIMITED, 147/1 St. Lucia Street, Valletta VLT 1185, Malta; c/o Irano Hind Shipping Company, P.O. Box 15875, Mehrshad Street, Sadaghat Street, Opposite of Park Mellat, Vali-e-Asr Ave., Tehran, Iran; Web site www.iranohind.com; Additional Sanctions Information—Subject to Secondary Sanctions; Business Registration Document #C34477 (Malta) [NPWMD] [IFSR].

96. ISIM OLIVE LIMITED, 147/1 St. Lucia Street, Valletta, VLT 1185, Malta; Additional Sanctions Information—Subject to Secondary Sanctions; Business Registration Document #C34479 (Malta) [NPWMD] [IFSR].

97. ISIM SAT LIMITED, 147/1 St. Lucia Street, Valletta, VLT 1185, Malta; Additional Sanctions Information—Subject to Secondary Sanctions; Business Registration Document #C34476 (Malta) [NPWMD] [IFSR].

98. ISIM SEA CHARIOT LIMITED, 147/1 St. Lucia Street, Valletta, VLT 1185, Malta; Additional Sanctions Information—Subject to Secondary Sanctions; Business Registration Document #C45153 (Malta) [NPWMD] [IFSR].

99. ISIM SEA CRESCENT LIMITED, 147/1 St. Lucia Street, Valletta, VLT 1185, Malta; Additional Sanctions Information—Subject to Secondary Sanctions; Business Registration Document #C45152 (Malta) [NPWMD] [IFSR].

100. ISIM SININ LIMITED, c/o Irano Hind Shipping Company, P.O. Box 15875, Mehrshad Street, Sadaghat Street, Opposite of Park Mellat, Vali-e-Asr Ave., Tehran, Iran; 147/1 St. Lucia Street, Valletta, VLT 1185, Malta; Web site www.iranohind.com; Additional Sanctions Information—Subject to Secondary Sanctions; Business Registration Document #C37437 (Malta) [NPWMD] [IFSR].

101. ISIM TAJ MAHAL LIMITED, 147/1 St. Lucia Street, Valletta, VLT 1185, Malta; Additional Sanctions Information—Subject to Secondary Sanctions; Business Registration Document #C41660 (Malta) [NPWMD] [IFSR].

102. ISIM TOUR LIMITED, 147/1 St. Lucia Street, Valletta, VLT 1185, Malta; Additional Sanctions Information—Subject to Secondary Sanctions; Business Registration Document #C34478 (Malta) [NPWMD] [IFSR].

103. ISLAMIC REPUBLIC OF IRAN SHIPPING LINES (a.k.a. IRI SHIPPING LINES; a.k.a. IRISL; a.k.a. IRISL GROUP), No. 37, Aseman Tower, Sayyade Shirazee Square, Pasdaran Ave., P.O. Box 19395-1311, Tehran, Iran; No. 37, Corner of 7th Narenjestan, Sayad Shirazi Square, After Noboyand Square, Pasdaran Ave., Tehran, Iran; IFCA Determination—Involved in the Shipping Sector ; Additional Sanctions Information—Subject to Secondary Sanctions [NPWMD] [IFSR].⁴

⁴ On January 16, 2016, the Secretary of State waived the imposition of sanctions under Section 1244(c)(1) of the Iran Freedom and Counter-Proliferation Act of 2012 (IFCA) with respect to the following entities: the Islamic Republic of Iran Shipping Lines, the National Iranian Oil Company, the National Iranian Tanker Company, and South Shipping Line Iran. See 81 FR 4082 (January 16, 2016). On the basis of this waiver, OFAC removed the phrases “IFCA Determination—Involved in the Shipping Sector” and “IFCA Determination—Involved in the Energy Sector” from relevant sanctions list entries for these parties.

104. JABBER IBN HAYAN (a.k.a. JABER IBN HAYAN RESEARCH DEPARTMENT; a.k.a. JABR IBN HAYAN MULTIPURPOSE LABORATORIES; a.k.a. “JABIR BIN AL-HAYYAN LABORATORY”; a.k.a. “JHL”), c/o AEOI-JIHRD P.O. Box 11365-8486, Tehran, Iran; Additional Sanctions Information—Subject to Secondary Sanctions [NPWMD] [IFSR].

105. KAVERI MARITIME INC, c/o Hafiz Darya Shipping Co, No. 60, Ehteshamiyeh Square, 7th Neyestan Street, Pasdaran Avenue, Tehran, Iran; Web site www.hdslines.com; Email Address info@hdslines.com; Additional Sanctions Information—Subject to Secondary Sanctions; RUC #1873621-1-717620 (Panama); Telephone: 982126100733; Fax: 982120100734 [NPWMD] [IFSR].

106. KAVOSHYAR COMPANY (a.k.a. KAAVOSH YAAR; a.k.a. KAVOSHYAR), Vanaq Square, Corner of Shiraz Across No. 71, Molla Sadra Ave., Tehran, Iran; P.O. Box 19395-1834, Tehran, Iran; No. 86, 20th St., North Karegar Ave., Tehran, Iran; Additional Sanctions Information—Subject to Secondary Sanctions [NPWMD] [IFSR].

107. KERMAN SHIPPING CO LTD, 143/1 Tower Road, SLM1604, Sliema, Malta; c/o Hafiz Darya Shipping Co, No 60, Ehteshamiyeh Square, 7th Neyestan Street, Pasdaran, Tehran, Iran; Web site www.hdslines.com; Email Address info@hdslines.com; Additional Sanctions Information—Subject to Secondary Sanctions; Business Registration Document #C37423 (Malta) issued 2005; Telephone: 0035621317171; Telephone: 00982126100733; Fax: 0035621317172; Fax: 00982120100734 [NPWMD] [IFSR].

108. KHAZAR SEA SHIPPING LINES (a.k.a. DARYA-YE KHAZAR SHIPPING COMPANY; a.k.a. KHAZAR SHIPPING CO), M. Khomeini St., Ghazian, Bandar Anzali, Gilan, Iran; No. 1, End of Shahid Mostafa Khomeini St., Tohid Square, P.O. Box 43145, Bandar Anzali 1711-324, Iran; Additional Sanctions Information—Subject to Secondary Sanctions [NPWMD] [IFSR].

109. KONT INVESTMENT BANK (a.k.a. KONT BANK), Kont Bank Head Office, No. 43, St Bukhara,, Dushanbe 734025, Tajikistan; Additional Sanctions Information—Subject to Secondary Sanctions [NPWMD] [IFSR].

110. KONT KOSMETIK (a.k.a. KONT GROUP VE KOZMETIK SANAYI DIS TICARET LTD STI KONT KOSMETIK VE DIS TICARET LTD STI KONT COSMETIC), Istanbul World Trade Center (IDTM), Block: A2 Floor: 6 No:234 Postal Code: 34149, Yesilkoy, Istanbul, Turkey; Additional Sanctions Information—Subject to Secondary Sanctions [NPWMD] [IFSR].

111. LANCELIN SHIPPING COMPANY LIMITED, Fortuna Court, Block B, 284 Archiepiskopou Makariou C' Avenue, 2nd Floor, 3105, Limassol, Cyprus; c/o Soroush Sarzamin Asatir (SSA) Ship Management Co, Shabnam Alley Golriz St, Vafa Alley, Fajr St, Shahid Motahari Avenue, 1589675951, Tehran, Iran; Web site www.irisl.net; Web site www.ssa-smc.net; Email Address info@demetriades.com; Email Address info@ssa-smc.net; Additional Sanctions Information—Subject to Secondary Sanctions; Business Registration Document #C133993 (Cyprus) issued 2002; Telephone: 0035725800000; Telephone: 00982126100191; Fax: 0035725588055; Fax: 0035725587191; Fax: 00982126100192 [NPWMD] [IFSR].

112. LEADING MARITIME PTE. LTD. (a.k.a. LEADMARINE), 200 Middle Road, #14-01 Prime Centre 188980, Singapore; Additional Sanctions Information—Subject to Secondary Sanctions; Business Registration Document #200818433E (Singapore) issued 2008; Telephone: 6563343772; Fax: 6563343126 [NPWMD] [IFSR].

113. LISSOME MARINE SERVICES LLC, Unit 1202, Al Attar Tower, Sheikh Zayed Road, Dubai, United Arab Emirates; Additional Sanctions Information—Subject to Secondary Sanctions; Executive Order 13645 Determination—Material Support; Vessel Registration Identification IMO 5689933 [EO13645] (Linked To: NATIONAL IRANIAN TANKER COMPANY).

114. LOGISTIC SMART LIMITED, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Web site www.ssa-smc.net; Email Address info@ssa-smc.net; Additional Sanctions Information—Subject to Secondary Sanctions; Business Registration Document #1342241 (Hong Kong) issued 01 Jun 2009; Telephone: 982126100191; Fax: 982126100192 [NPWMD] [IFSR].

115. LOWESWATER LIMITED, Manning House, 21 Bucks Road, Douglas IM1 3DA, Man, Isle of; Additional Sanctions Information—Subject to Secondary Sanctions; Business Registration Document #003648V (Man, Isle of) issued 02 Mar 2009 [NPWMD] [IFSR].

116. MALSHIP SHIPPING AGENCY LTD., 143/1 Tower Road, Sliema, Malta; Additional Sanctions Information—Subject to Secondary Sanctions; Commercial Registry Number C43447 (Malta) [NPWMD] [IFSR].

117. MARANER HOLDINGS LIMITED, 143 Flat 1, Tower Road, Sliema, Malta; Additional Sanctions Information—Subject to Secondary Sanctions; Business Registration Document #C33482 (Malta) [NPWMD] [IFSR].

118. MARBLE SHIPPING LIMITED, 143/1 Tower Road, Sliema, Slm 1604, Malta; Additional Sanctions Information—Subject to Secondary Sanctions; Business Registration Document #C 41949 (Malta) issued 25 Jul 2007 [NPWMD] [IFSR].

119. MAZANDARAN CEMENT COMPANY, Africa Street, Sattari Street No. 40, P.O. Box 121, Tehran 19688, Iran; 40 Satari Ave., Afrigha Highway, P.O. Box 19688, Tehran, Iran; Additional Sanctions Information—Subject to Secondary Sanctions [NPWMD] [IFSR].

120. MAZANDARAN TEXTILE COMPANY (a.k.a. SHERKATE NASAJI MAZANDARAN), Kendovan Alley 5, Vila Street, Enghelab Ave., P.O. Box 11365-9513, Tehran 11318, Iran; 28 Candovan Cooy Enghelab Ave., P.O. Box 11318, Tehran, Iran; Sari Ave., Ghaemshahr, Iran; Additional Sanctions Information—Subject to Secondary Sanctions [NPWMD] [IFSR].

121. MEHR CAYMAN LTD., Cayman Islands; Additional Sanctions Information—Subject to Secondary Sanctions; Commercial Registry Number 188926 (Cayman Islands) [NPWMD] [IFSR].

122. MELLAT BANK SB CJSC (a.k.a. MELLAT BANK DB AOZT), P.O. Box 24, Yerevan 0010, Armenia; Additional Sanctions Information—Subject to Secondary Sanctions [NPWMD] [IFSR].

123. MELLI AGROCHEMICAL COMPANY, P.J.S. (a.k.a. SHERKAT MELLI SHIMI KESHAVARZ), Mola Sadra Street, 215 Khordad, Sadr Alley No. 13, Vanak Sq., P.O. Box 15875-1734, Tehran, Iran; Additional Sanctions Information—Subject to Secondary Sanctions [NPWMD] [IFSR].

124. MELLI BANK PLC, 1 London Wall, London EC2Y 5EA, United Kingdom; Additional Sanctions Information—Subject to Secondary Sanctions [NPWMD] [IFSR].

125. MELLI INVESTMENT HOLDING INTERNATIONAL (a.k.a. MEHR), 514, Business Avenue Building, Deira, P.O. Box 181878, Dubai, United Arab Emirates; Additional Sanctions Information—Subject to Secondary Sanctions; Registration Certificate Number (Dubai) 0107 issued 30 Nov 2005 [NPWMD] [IFSR].

126. MELODIOUS MARITIME INC, c/o Hafiz Darya Shipping Co., No. 60, Ehteshamiyeh Square, 7th Neyestan Street, Pasdaran Avenue, Tehran, Iran; Web site www.hdslines.com; Email Address info@hdslines.com; Additional Sanctions Information—Subject to Secondary Sanctions; RUC #1873529-1-717598 (Panama); Telephone: 982126100733; Fax: 982120100734 [NPWMD] [IFSR].

127. MESBAH ENERGY COMPANY (a.k.a. “MEC”), 77 Armaghan Gharbi Street, Valiasr Blve, Tehran, Iran; Additional Sanctions Information—Subject to Secondary Sanctions [NPWMD] [IFSR].

128. MID OIL ASIA PTE LTD, Harbourfront Centre, 1 Maritime Square #09-09 099253, Singapore; Additional Sanctions Information—Subject to Secondary Sanctions; Executive Order 13645 Determination—Material Support [EO13645] (Linked To: NATIONAL IRANIAN TANKER COMPANY).

129. MILL DENE LIMITED, Manning House, 21 Bucks Road, Douglas IM1 3DA, Man, Isle of; Additional Sanctions Information—Subject to Secondary Sanctions; Business Registration Document #003645V (Man, Isle of) issued 02 Mar 2009 [NPWMD] [IFSR].

130. MIR BUSINESS BANK ZAO (f.k.a. BANK MELLI IRAN ZAO), Number 9/1, ul Mashkova, Moscow 105062, Russia; Additional Sanctions Information—Subject to Secondary Sanctions [NPWMD] [IFSR].

131. MOALLEM INSURANCE COMPANY, No 56, Haghani Boulevard, Vanak Square, Tehran 1517973511, Iran; Web site www.mic-ir.com; Additional Sanctions Information—Subject to Secondary Sanctions; Business Registration Document #110465 (Iran) issued 1994; Telephone: 9821887791835; Telephone: 982184223; Telephone: 9821887950512; Telephone: 982188870682; Fax: 982188771245 [NPWMD] [IFSR].

132. MODALITY LIMITED, 2, Liza, Fl. 5, Triq Il-Prekursur, Madliena, Swieqi, Malta; Additional Sanctions Information—Subject to Secondary Sanctions; Commercial Registry Number C49549 (Malta) [NPWMD] [IFSR].

133. MODERN INDUSTRIES TECHNIQUE COMPANY (a.k.a. RAHKAR COMPANY; a.k.a. RAHKAR INDUSTRIES; a.k.a. RAHKAR SANAYE COMPANY; a.k.a. RAHKAR SANAYE NOVIN; a.k.a. “MITEC”), North Amirabad St., 21 St., No. 37, Tehran, Iran; Additional Sanctions Information—Subject to Secondary Sanctions [NPWMD] [IFSR].

134. MOUNT EVEREST MARITIME INC, c/o Hafiz Darya Shipping Co., No. 60, Ehteshamiyeh Square, 7th Neyestan Street, Pasdaran Avenue, Tehran, Iran; Web site www.hdslines.com; Email Address info@hdslines.com; Additional Sanctions Information—Subject to Secondary Sanctions; RUC #1873518-1-717595 (Panama); Telephone: 982126100733; Fax: 982120100734 [NPWMD] [IFSR].

135. NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 41, 1st Floor, International House, The Parade, St Helier JE2 3QQ, Jersey; Petro Pars Building, Saadat Abad Ave, No 35, Farhang Blvd., Tehran, Iran; Additional Sanctions Information—Subject to Secondary Sanctions; all offices worldwide [IRAN] [NPWMD] [IRGC] [IFSR] (Linked To: NIOC INTERNATIONAL AFFAIRS (LONDON) LIMITED).

136. NARI SHIPPING AND CHARTERING GMBH & CO. KG, Schottweg 5, Hamburg 22087, Germany; Additional Sanctions Information—Subject to Secondary Sanctions; Business Registration Document #HRA102485 (Germany) issued 19 Aug 2005; Telephone: 004940278740 [NPWMD] [IFSR].

137. NATIONAL IRANIAN OIL COMPANY (a.k.a. NIOC), Hafez Crossing, Taleghani Avenue, P.O. Box 1863 and 2501, Tehran, Iran; National Iranian Oil Company Building, Taleghani Avenue, Hafez Street, Tehran, Iran; Web site www.nioc.ir; IFCA Determination—Involved in Energy Sector; Additional Sanctions Information—Subject to Secondary Sanctions; all offices worldwide [IRAN] [NPWMD] [IRGC] [IFSR] ⁵

⁵ See Note 4 above.

138. NEFERTITI SHIPPING COMPANY (a.k.a. NEFERTITI SHIPPING; a.k.a. NEFERTITI SHIPPING AND MARITIME SERVICES), 6, El Horeya Rd., El Attarein, Alexandria, Egypt; Inside Damietta Port, New Damietta City, Damietta, Egypt; 403, El Nahda St., Port Said, Port Said, Egypt [NPWMD] [IFSR] (Linked To: ISLAMIC REPUBLIC OF IRAN SHIPPING LINES).

139. NEUMAN LIMITED, 15th Floor, Tower Lippo Center, 89 Queensway, Hong Kong; c/o Soroush Sarzamin Asatir (SSA) Ship Management Co., Shabnam Alley Golriz St., Vafa Valley Fajr St., Shahid Motahari Avenue, 1589675951, Tehran, Iran; Web site www.ssa-smc.net; Email Address info@ssa-smc.net; Additional Sanctions Information—Subject to Secondary Sanctions; Business Registration Document #1338887 (Hong Kong) issued 18 May 2009; Telephone: 982126100191; Fax: 982126100192 [NPWMD] [IFSR].

140. NEW DESIRE LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1329111 (Hong Kong) issued 30 Mar 2009; Telephone: 982126100191; Fax: 982126100192 [NPWMD] [IFSR].

141. NINTH OCEAN ADMINISTRATION GMBH, Schottweg 5, Hamburg 22087, Germany; Additional Sanctions Information—Subject to Secondary Sanctions; Business Registration Document #HRB94698 (Germany) issued 09 Sep 2005 [NPWMD] [IFSR].

142. NINTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102565 (Germany) issued 15 Sep 2005; Telephone: 00982120100488; Fax: 00982120100486 [NPWMD] [IFSR].

143. NOOR AFZAR GOSTAR COMPANY (a.k.a. NOOR AFZA GOSTAR; a.k.a. “NAGC”; a.k.a. “NAGCO”), 4th Floor, Bloc 1, Building 133, Mirdamad Avenue, Tehran, Iran; Opp Seventh Alley, Zarafrshan Street, Eivanak Street, Qods Township, Iran; Additional Sanctions Information—Subject to Secondary Sanctions [NPWMD] [IFSR].

144. NOVIN ENERGY COMPANY (a.k.a. ENERGY NOVIN; a.k.a. NOVEEN ENERGY COMPANY), End of North Karegar Avenue, Tehran, Iran; Additional Sanctions Information—Subject to Secondary Sanctions [NPWMD] [IFSR].

145. NUCLEAR RESEARCH CENTER FOR AGRICULTURE AND MEDICINE (a.k.a. CENTER FOR AGRICULTURAL RESEARCH AND NUCLEAR MEDICINE; a.k.a. KARAJ NUCLEAR RESEARCH CENTER; a.k.a. NRCAM; a.k.a. “KARAJI AGRICULTURAL AND MEDICAL RESEARCH CENTER”), P.O. Box 31585-4395, Karaj, Iran; Additional Sanctions Information—Subject to Secondary Sanctions [NPWMD] [IFSR].

146. NUCLEAR SCIENCE AND TECHNOLOGY RESEARCH INSTITUTE (a.k.a. NUCLEAR SCIENCE & TECHNOLOGY RESEARCH INSTITUTE; a.k.a. NUCLEAR SCIENCE AND TECHNOLOGY RESEARCH CENTER; a.k.a. RESEARCH INSTITUTE OF NUCLEAR SCIENCE & TECHNOLOGY; a.k.a. “NSTRI”), P.O. Box 11365-3486, Tehran, Iran, Iran; P.O. Box 143/99-51113, Tehran, Iran; North Karegar Ave, P.O. Box 14399/51113, Tehran, Iran; Moazzen Blvd., Rajaee Shahr, P.O. Box 31485-498, Karaj, Iran; End of Karegare Shomali Street, P.O. Box 11365-3486, Tehran, Iran; Additional Sanctions Information—Subject to Secondary Sanctions [NPWMD] [IFSR].

147. OCEAN CAPITAL ADMINISTRATION GMBH, Schottweg 5, Hamburg 22087, Germany; Additional Sanctions Information—Subject to Secondary Sanctions; Business Registration Document #HRB92501 (Germany) issued 04 Jan 2005; Telephone: 004940278740 [NPWMD] [IFSR].

148. PACIFIC SHIPPING DMCEST, 206, Sharaf Building, Al Mina Road, Bur Dubai, Dubai, United Arab Emirates; Email Address ops@pacificship.net; Email Address pacific@pacificship.net; Additional Sanctions Information—Subject to Secondary Sanctions; Business Registration Document #167694 (United Arab Emirates) issued 2008; Telephone: 97143595580; Alt. Telephone: 97143516363; Fax: 97143527812 [NPWMD] [IFSR].

149. PARS TRASH COMPANY (a.k.a. PARS TARASH; a.k.a. PARS TERASH; a.k.a. PARS TRASH), 33 Fifteenth (15th) Street, Seyed-Jamal-Eddin-Assad Abadi Avenue, Tehran, Iran; Additional Sanctions Information—Subject to Secondary Sanctions [NPWMD] [IFSR].

150. PARTNER CENTURY LIMITED, 15th Floor, Tower One Lippo Center, 89 Queensway, Hong Kong, Hong Kong; c/o Soroush Sarzamin Asatir (SSA) Ship Management Co, Shabnam Alley Golriz St, Vafa Valley Fajr St, Shahid Motahari Avenue, 1589675951, Tehran, Iran; Web site www.ssa-smc.net; Email Address info@ssa-smc.net; Additional Sanctions Information—Subject to Secondary Sanctions; Business Registration Document #1342247 (Hong Kong) issued 01 Jun 2009; Telephone: 982126100191; Fax: 982126100192 [NPWMD] [IFSR].

151. PEARL ENERGY COMPANY LTD., Level 13(E) Main Office Tower, Jalan Merdeka, Financial Park Complex, Labuan 87000, Malaysia; Additional Sanctions Information—Subject to Secondary Sanctions; Telephone: 6087541688; Fax: 6087453688 [NPWMD] [IFSR].

152. PEARL ENERGY SERVICES, SA, 15 Avenue de Montchoisi, Lausanne, 1006 VD, Switzerland; Additional Sanctions Information—Subject to Secondary Sanctions; Business Registration Document #CH-550.1.058.055-9; Telephone: 0216140614 [NPWMD] [IFSR].

153. PERSIA INTERNATIONAL BANK PLC, 6 Lothbury, London EC2R 7HH, United Kingdom; Dubai International Financial Centre, Level 4, The Gate Building, P.O. Box 119871, Dubai, United Arab Emirates; Additional Sanctions Information—Subject to Secondary Sanctions; all offices worldwide [NPWMD] [IFSR].

154. PIONEER ENERGY INDUSTRIES COMPANY (a.k.a. PISHGAM ENERGY INDUSTRIES DEVELOPMENT; a.k.a. “PEI”), P.O. Box 81465-361, Isfahan, Iran; Additional Sanctions Information—Subject to Secondary Sanctions [NPWMD] [IFSR].

155. POST BANK OF IRAN (a.k.a. SHERKAT-E DOLATI-E POST BANK; a.k.a. “PBI”), 237 Motahari Avenue, Tehran 1587618118, Iran; Motahari Street, No. 237, Past Darya-e Noor, Tehran, Iran; Additional Sanctions Information—Subject to Secondary Sanctions [IRAN] [NPWMD] [IFSR].

156. PRYVATNE AKTSIONERNE TOVARYSTVO AVIAKOMPANIYA BUKOVYNA (a.k.a. AVIAKOMPANIYA BUKOVYNA; a.k.a. AVIAKOMPANIYA BUKOVYNA, PRYVATNE AT; a.k.a. BUKOVYNA AE; a.k.a. BUKOVYNA AIRLINES; a.k.a. BUKOVYNA AVIATION ENTERPRISE), Bud.30 vul.Chkalova Pershotravnevy R-N, Chernivtsi 58009, Ukraine; Additional Sanctions Information—Subject to Secondary Sanctions [NPWMD] [IFSR].

157. RISHI MARITIME INC, c/o Hafiz Darya Shipping Co, No. 60, Ehteshamiyeh Square, 7th Neyestan Street, Pasdaran Avenue, Tehran, Iran; Web site www.hdslines.com; Email Address info@hdslines.com; Additional Sanctions Information—Subject to Secondary Sanctions; RUC #1873623-1-717621 (Panama); Telephone: 982126100733; Fax: 982120100734 [NPWMD] [IFSR].

158. ROYAL-MED SHIPPING AGENCY LTD, Rockap Apartments No. 20, New Street, Luqa, Malta; 143 Flat 1, Tower Road, Sliema, Malta; Email Address md@royalmed.com.mt; Email Address paffairs@royalmed.com.mt; Email Address admin@royalmed.com.mt; Additional Sanctions Information—Subject to Secondary Sanctions; Business Registration Document #C47893 (Malta); Telephone: 0035620105010; Telephone: 0035620106381; Fax: 0035620106381; Fax: 0035621317172 [NPWMD] [IFSR].

159. SACKVILLE HOLDINGS LIMITED, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Web site www.ssa-smc.net; Email Address info@ssa-smc.net; Additional Sanctions Information—Subject to Secondary Sanctions; Business Registration Document #1328844 (Hong Kong) issued 30 Mar 2009; Telephone: 982126100191; Fax: 982126100192 [NPWMD] [IFSR].

160. SAFIRAN PAYAM DARYA SHIPPING COMPANY (a.k.a. SAPID SHIPPING CO.), No. 3, 8th Narenjestan Street, Artesh Boulevard, Farmaniyah Avenue, Tehran, Iran; No. 33, 8th Narenjestan Street, Artesh Boulevard, Aghdasieh, Tehran, Iran; P.O. Box 1963116, Tehran, Iran; Web site www.sapidshpg.com; Additional Sanctions Information—Subject to Secondary Sanctions [NPWMD] [IFSR].

161. SANDFORD GROUP LIMITED, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Web site www.ssa-smc.net; Email Address info@ssa-smc.net; Additional Sanctions Information—Subject to Secondary Sanctions; Business Registration Document #1328859 (Hong Kong) issued 30 Mar 2009; Telephone: 982126100191; Fax: 982126100192 [NPWMD] [IFSR].

162. SANTEX LINES LIMITED (a.k.a. SANTEX SHIPPING COMPANY; a.k.a. SANTEXLINES), Suite 1501, Shanghai Zhongrong Plaza, 1088 Pudong (S) Road, Shanghai 200122, China; F23A-D, Times Plaza No. 1, Taizi Road, Shekou, Shenzhen 518067, China; Additional Sanctions Information—Subject to Secondary Sanctions [NPWMD] [IFSR].

163. SECOND OCEAN ADMINISTRATION GMBH, Schottweg 5, Hamburg 22087, Germany; Additional Sanctions Information—Subject to Secondary Sanctions; Business Registration Document # HRB94312 (Germany) issued 21 Jul 2005 [NPWMD] [IFSR].

164. SECOND OCEAN GMBH & CO. KG, Schottweg 5, Hamburg 22087, Germany; c/o Hafiz Darya Shipping Co., No 60, Ehteshamiyeh Square, 7th Neyestan Street, Pasdaran Avenue, Tehran, Iran; Web site www.hdslines.com; Email Address info@hdslines.com; Additional Sanctions Information—Subject to Secondary Sanctions; Business Registration Document #HRA102502 (Germany) issued 24 Aug 2005; Telephone: 00982126100733; Fax: 00982120100734 [NPWMD] [IFSR].

165. SEIBOW LIMITED, Room 803, 8/F, Futura Plaza, 111 How Kimg St., Kwun Tong, Kowloon, Hong Kong, China; Additional Sanctions Information—Subject to Secondary Sanctions; Business Registration Document #926320 issued 06 Oct 2004 [NPWMD] [IFSR].

166. SEIBOW LOGISTICS LIMITED, Room 803, 8/F, Futura Plaza, 111 How Kimg St., Kwun Tong, Kowloon, Hong Kong, China; BIC Container Code SBAU; Additional Sanctions Information—Subject to Secondary Sanctions; Business Registration Document #1218675 issued 18 Mar 2008 [NPWMD] [IFSR].

167. SEVENTH OCEAN ADMINISTRATION GMBH, Schottweg 5, Hamburg 22087, Germany; Additional Sanctions Information—Subject to Secondary Sanctions; Business Registration Document #HRB94829 (Germany) issued 19 Sep 2005 [NPWMD] [IFSR].

168. SEVENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102655 (Germany) issued 26 Sep 2005; Telephone: 00982120100488; Fax: 00982120100486 [NPWMD] [IFSR].

169. SHALLON LIMITED, Manning House, 21 Bucks Road, Douglas IM1 3DA, Man, Isle of; Additional Sanctions Information—Subject to Secondary Sanctions; RIF #003646V (Man, Isle of) issued 02 Mar 2009 [NPWMD] [IFSR].

170. SHERE SHIPPING COMPANY LIMITED, 143/1 Tower Road, SLM1604, Sliema, Malta; c/o Soroush Sarzamin Asatir (SSA) Ship Management Co., Shabnam Alley, Golriz St., Vafa Alley, Fajr St., Shahid Motahari Avenue, 1589675951, Tehran, Iran; Web site www.ssa-smc.net; Email Address info@ssa-smc.net; Additional Sanctions Information—Subject to Secondary Sanctions; Business Registration Document #C39928 (Malta) issued 2006; Telephone: 0035621317171; Telephone: 00982126100191; Fax: 0035621317172; Fax: 00982126100192 [NPWMD] [IFSR].

171. SHIPPING COMPUTER SERVICES COMPANY (a.k.a. SCSCO), No. 37, Asseman, Shahid Sayyad Shirazeesq, Pasdaran Ave., P.O. Box 1587553-1351, Tehran, Iran; No. 13, 1st Floor, Abgan Alley, Aban Ave., Karimkhan Zand Blvd., Tehran 15976, Iran; Additional Sanctions Information—Subject to Secondary Sanctions [NPWMD] [IFSR].

172. SHOMAL CEMENT COMPANY, Dr Beheshti Ave., No 289, Tehran 151446, Iran; 289 Shahid Beheshti Ave., P.O. Box 15146, Tehran, Iran; Additional Sanctions Information—Subject to Secondary Sanctions [NPWMD] [IFSR].

173. SINGA TANKERS PTE. LTD., 89 Short Street Number 10-07, Golden Wall Centre 188216, Singapore; Additional Sanctions Information—Subject to Secondary Sanctions; Executive Order 13645 Determination—Material Support [EO13645] (Linked To: NATIONAL IRANIAN TANKER COMPANY).

174. SINO ACCESS HOLDINGS LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1328924 (Hong Kong) issued 30 Mar 2009; Telephone: 982126100191; Fax: 982126100192 [NPWMD] [IFSR].

175. SINOSE MARITIME PTE. LTD., 200 Middle Road, #14-03/04 Prime Centre 188980, Singapore; Additional Sanctions Information—Subject to Secondary Sanctions; Business Registration Document #198200741H (Singapore) issued 1982; Telephone: 6562201144; Fax: 6562240181; Alt. Fax: 6562255614 [NPWMD] [IFSR].

176. SIQIRIYA MARITIME CORP., Zen Towers, 111, Natividad Almeda-Lopez Street, Ermita, 1111, Manila, Philippines; Additional Sanctions Information—Subject to Secondary Sanctions; Executive Order 13645 Determination—Material Support [EO13645] (Linked To: NATIONAL IRANIAN TANKER COMPANY).

177. SIXTH OCEAN ADMINISTRATION GMBH, Schottweg 5, Hamburg 22087, Germany; Additional Sanctions Information—Subject to Secondary Sanctions; Business Registration Document #HRB94316 (Germany) issued 21 Jul 2005 [NPWMD] [IFSR].

178. SIXTH OCEAN GMBH & CO. KG, Schottweg 5, Hamburg 22087, Germany; c/o Hafiz Darya Shipping Co., No 60, Ehteshamiyeh Square, 7th Neyestan Street, Pasdaran Avenue, Tehran, Iran; Web site www.hdslines.com; Email Address info@hdslines.com; Additional Sanctions Information—Subject to Secondary Sanctions; Business Registration Document #HRA102501 (Germany) issued 24 Aug 2005; Telephone: 00982126100733; Fax: 00982120100734 [NPWMD] [IFSR].

179. SMART DAY HOLDINGS GROUP LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1325234 (Hong Kong) issued 26 Mar 2009; Telephone: 982126100191; Fax: 982126100192 [NPWMD] [IFSR].

180. SORINET COMMERCIAL TRUST (SCT) BANKERS (a.k.a. SCT BANKERS), 1808, 18th Floor, Grosvenor House Commercial Tower, Sheik Zayed Road, Dubai, United Arab Emirates; Kish Island, Iran; SWIFT/BIC SCER AE A1; alt. SWIFT/BIC SCTS AE A1; Additional Sanctions Information—Subject to Secondary Sanctions [NPWMD] [IFSR].

181. SOROUSH SARZAMIN ASATIR SHIP MANAGEMENT COMPANY (a.k.a. RAHBARAN OMID DARYA SHIP MANAGEMENT COMPANY), No. 5 Shabnam Alley, Golzar Street, Fajr Street, Shahid Motahari Avenue, Tehran 193651, Iran; P.O. Box 19365-1114, Tehran, Iran; Additional Sanctions Information—Subject to Secondary Sanctions; Business Registration Document #5466371 issued 2009; alt. Business Registration Document #341563 [NPWMD] [IFSR].

182. SOUTH SHIPPING LINE IRAN (a.k.a. SOUTH SHIPPING LINES IRAN COMPANY), Qaem Magham Farahani St., Tehran, Iran; Apt. No. 7, 3rd Floor, No. 2, 4th Alley, Gandi Ave., Tehran, Iran; IFCA Determination—Involved in the Shipping Sector; Additional Sanctions Information—Subject to Secondary Sanctions [NPWMD] [IFSR].⁶

⁶ See Note 4 above.

183. SPRINGTHORPE LIMITED, Manning House, 21 Bucks Road, Douglas IM1 3DA, Man, Isle of; Additional Sanctions Information—Subject to Secondary Sanctions; Business Registration Document #003647 (Man, Isle of) issued 02 Mar 2009 [NPWMD] [IFSR].

184. STARRY SHINE INTERNATIONAL LIMITED, RM B, 12th Floor Two Chinachem Plaza, 135 Des Voeux Road C, Central District, Hong Kong Island, Hong Kong; Additional Sanctions Information—Subject to Secondary Sanctions; Business Registration Document #1213306 (Hong Kong) issued 26 Feb 2008; Telephone: 85228682398; Fax: 85225372603 [NPWMD] [IFSR].

185. SYSTEM WISE LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1328944 (Hong Kong) issued 30 Mar 2009; Telephone: 982126100191; Fax: 982126100192 [NPWMD] [IFSR].

186. TAMAS COMPANY (a.k.a. NUCLEAR FUEL PRODUCTION COMPANY; a.k.a. TAMAS), No. 84, 20th Street, Northern Kargar Avenue, Tehran 10000, Iran; Additional Sanctions Information—Subject to Secondary Sanctions [NPWMD] [IFSR].

187. TENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102679 (Germany) issued 27 Sep 2005; Telephone: 00982120100488; Fax: 00982120100486 [NPWMD] [IFSR].

188. THE EXPLORATION AND NUCLEAR RAW MATERIALS PRODUCTION COMPANY (a.k.a. EMKA; a.k.a. EMKA COMPANY), Tehran, Iran; Additional Sanctions Information—Subject to Secondary Sanctions [NPWMD] [IFSR].

189. THE NUCLEAR REACTORS FUEL COMPANY (a.k.a. “SUREH”), 61 Shahid Abtahi St., Karegar e Shomali, Tehran, Iran; Persian Gulf Boulevard, Km20 SW Esfahan Road, Iran; Additional Sanctions Information—Subject to Secondary Sanctions [NPWMD] [IFSR].

190. THIRD OCEAN ADMINISTRATION GMBH, Schottweg 5, Hamburg 22087, Germany; Additional Sanctions Information—Subject to Secondary Sanctions; Business Registration Document #HRB94313 (Germany) issued 21 Jul 2005 [NPWMD] [IFSR].

191. THIRD OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA102520 (Germany) issued 29 Aug 2005; Telephone: 00982120100488; Fax: 00982120100486 [NPWMD] [IFSR].

192. THIRTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Web site www.irisl.net; Email Address smd@irisl.net; Additional Sanctions Information—Subject to Secondary Sanctions; Business Registration Document #HRA104149 (Germany) issued 10 Jul 2006; Telephone: 00982120100488; Fax: 00982120100486 [NPWMD] [IFSR].

193. TONGHAM SHIPPING CO LTD, 143/1 Tower Road, SLM1604, Sliema, Malta; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #C39931 (Malta) issued 2006; Telephone: 0035621317171; Telephone: 00982126100191; Fax: 0035621317172; Fax: 00982126100192 [NPWMD] [IFSR].

194. TOP GLACIER COMPANY LIMITED, RM B, 12th Floor Chinachem Plaza, 135 Des Voeux Road C, Central District, Hong Kong Island, Hong Kong; Additional Sanctions Information—Subject to Secondary Sanctions; Business Registration Document #1209891 (Hong Kong) issued 05 Feb 2008; Telephone: 85228682398; Fax: 85225372603 [NPWMD] [IFSR].

195. TOP PRESTIGE TRADING LIMITED, RM B, 12th Floor Chinachem Plaza, 135 Des Voeux Road C, Central District, Hong Kong Island, Hong Kong; Additional Sanctions Information—Subject to Secondary Sanctions; Business Registration Document #1204518 (Hong Kong) issued 17 Jan 2008; Telephone: 85228682398; Fax: 85225372603 [NPWMD] [IFSR].

196. TRADE TREASURE LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1338904 (Hong Kong) issued 18 May 2009; Telephone: 982126100191; Fax: 982126100192 [NPWMD] [IFSR].

197. TRUE HONOUR HOLDINGS LIMITED, 15th Floor, Tower One Lippo Center, 89 Queensway, Hong Kong; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #1338908 issued 18 May 2009; Telephone: 982126100191; Fax: 982126100192 [NPWMD] [IFSR].

198. TWELFTH OCEAN ADMINISTRATION GMBH, Schottweg 5, Hamburg 22087, Germany; Additional Sanctions Information—Subject to Secondary Sanctions; Business Registration Document #HRB94573 (Germany) issued 18 Aug 2005 [NPWMD] [IFSR].

199. TWELFTH OCEAN GMBH & CO. KG, Schottweg 5, Hamburg 22087, Germany; c/o Hafiz Darya Shipping Co., No 60, Ehteshamiyeh Square, 7th Neyestan Street, Pasdaran Avenue, Tehran, Iran; Web site www.hdslines.com; Email Address info@hdslines.com; Additional Sanctions Information—Subject to Secondary Sanctions; Business Registration Document #HRA102506 (Germany) issued 25 Aug 2005; Telephone: 00982126100733; Fax: 00982120100734 [NPWMD] [IFSR].

200. UPPERCOURT SHIPPING COMPANY LIMITED, 143/1 Tower Road, SLM1604, Sliema, Malta; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #C39926 (Malta) issued 2006; Telephone: 0035621317171; Telephone: 00982126100191; Fax: 0035621317172; Fax: 00982126100192 [NPWMD] [IFSR].

201. VALFAJR 8TH SHIPPING LINE CO SSK (a.k.a. SHERKAT SAHAMI KHASS KESHTIRANI VALFAJR 8TH; a.k.a. VAL FAJR HASHT SHIPPING CO; a.k.a. VAL FAJR-E-8 SHIPPING COMPANY; a.k.a. VALFAJRE EIGHT SHIPPING CO; a.k.a. VESC), Shahid Azodi St., Karimkhan Zand Ave., Abiar Alley, P.O. Box 4155, Tehran, Iran; Abyar Alley, Corner of Shahid Azodi St. & Karim Khan Zand Ave., Tehran, Iran; Additional Sanctions Information—Subject to Secondary Sanctions [NPWMD] [IFSR].

202. VOBSTER SHIPPING COMPANY LTD, 143/1 Tower Road, SLM1604, Sliema, Malta; c/o Soroush Sarzamin Asatir (SSA) Ship Management Co., Shabnam Alley Golriz St., Vafa Alley Fajr St., Shahid Motahari Avenue, 1589675951, Tehran, Iran; Web site www.ssa-smc.net; Email Address info@ssa-smc.net; Additional Sanctions Information—Subject to Secondary Sanctions; Business Registration Document #C39927 (Malta) issued 2006; Telephone: 0035621317171; Telephone: 00982126100191; Fax: 0035621317172; Fax: 00982126100192 [NPWMD] [IFSR].

203. WOKING SHIPPING INVESTMENTS LIMITED, 143/1 Tower Road, SLM1604, Sliema, Malta; Additional Sanctions Information—Subject to Secondary Sanctions; Business Registration Document #C39912 issued 2006; Telephone: 0035621317171; Fax: 0035621317172 [NPWMD] [IFSR].

Aircraft

1. EP-CFD; Aircraft Manufacture Date 19 Feb 1993; Aircraft Model F.28-0100; Aircraft Operator IRAN AIR; Aircraft Manufacturer's Serial Number (MSN) 11442 (aircraft) [NPWMD] (Linked To: IRAN AIR).

2. EP-CFE; Aircraft Manufacture Date 06 Oct 1992; Aircraft Model F.28-0100; Aircraft Operator IRAN AIR; Aircraft Manufacturer's Serial Number (MSN) 11422 (aircraft) [NPWMD] (Linked To: IRAN AIR).

3. EP-CFH; Aircraft Manufacture Date 24 Feb 1993; Aircraft Model F.28-0100; Aircraft Operator IRAN AIR; Aircraft Manufacturer's Serial Number (MSN) 11443 (aircraft) [NPWMD] (Linked To: IRAN AIR).

4. EP-CFI; Aircraft Manufacture Date 22 Jan 1996; Aircraft Model F.28-0100; Aircraft Operator IRAN AIR; Aircraft Manufacturer's Serial Number (MSN) 11511 (aircraft) [NPWMD] (Linked To: IRAN AIR).

5. EP-CFJ; Aircraft Manufacture Date 09 Jan 1996; Aircraft Model F.28-0100; Aircraft Operator IRAN AIR; Aircraft Manufacturer's Serial Number (MSN) 11516 (aircraft) [NPWMD] (Linked To: IRAN AIR).

6. EP-CFK; Aircraft Manufacture Date 18 Feb 1986; Aircraft Model F.28-0100; Aircraft Operator IRAN AIR; Aircraft Manufacturer's Serial Number (MSN) 11518 (aircraft) [NPWMD] (Linked To: IRAN AIR).

7. EP-CFL; Aircraft Manufacture Date 28 Jun 1991; Aircraft Model F.28-0100; Aircraft Operator IRAN AIR; Aircraft Manufacturer's Serial Number (MSN) 11343 (aircraft) [NPWMD] (Linked To: IRAN AIR).

8. EP-CFM; Aircraft Manufacture Date 27 Apr 1992; Aircraft Model F.28-0100; Aircraft Operator IRAN AIR; Aircraft Manufacturer's Serial Number (MSN) 11394 (aircraft) [NPWMD] (Linked To: IRAN AIR).

9. EP-CFO; Aircraft Manufacture Date 03 Apr 1992; Aircraft Model F.28-0100; Aircraft Operator IRAN AIR; Aircraft Manufacturer's Serial Number (MSN) 11389 (aircraft) [NPWMD] (Linked To: IRAN AIR).

10. EP-CFP; Aircraft Manufacture Date 24 Jul 1992; Aircraft Model F.28-0100; Aircraft Operator IRAN AIR; Aircraft Manufacturer's Serial Number (MSN) 11409 (aircraft) [NPWMD] (Linked To: IRAN AIR).

11. EP-CFQ; Aircraft Manufacture Date 02 Dec 1992; Aircraft Model F.28-0100; Aircraft Operator IRAN AIR; Aircraft Manufacturer's Serial Number (MSN) 11429 (aircraft) [NPWMD] (Linked To: IRAN AIR).

12. EP-CFR; Aircraft Manufacture Date 31 Mar 1992; Aircraft Model F.28-0100; Aircraft Operator IRAN AIR; Aircraft Manufacturer's Serial Number (MSN) 11383 (aircraft) [NPWMD] (Linked To: IRAN AIR).

13. EP-IAA; Aircraft Construction Number (also called L/N or S/N or F/N) 275; Aircraft Manufacture Date 20 Feb 1976; Aircraft Model B.747SP-86; Aircraft Operator IRAN AIR; Aircraft Manufacturer's Serial Number (MSN) 20998 (aircraft) [NPWMD] (Linked To: IRAN AIR).

14. EP-IAB; Aircraft Construction Number (also called L/N or S/N or F/N) 278; Aircraft Manufacture Date 22 Apr 1976; Aircraft Model B747SP-86; Aircraft Operator IRAN AIR; Aircraft Manufacturer's Serial Number (MSN) 20999 (aircraft) [NPWMD] (Linked To: IRAN AIR).

15. EP-IAC; Aircraft Construction Number (also called L/N or S/N or F/N) 307; Aircraft Manufacture Date 16 May 1977; Aircraft Model B.747SP-86; Aircraft Operator IRAN AIR; Aircraft Manufacturer's Serial Number (MSN) 21093 (aircraft) [NPWMD] (Linked To: IRAN AIR).

16. EP-IAD; Aircraft Construction Number (also called L/N or S/N or F/N) 371; Aircraft Manufacture Date 26 Apr 1979; Aircraft Model B.747SP-86; Aircraft Operator IRAN AIR; Aircraft Manufacturer's Serial Number (MSN) 21758 (aircraft) [NPWMD] (Linked To: IRAN AIR).

17. EP-IAG; Aircraft Construction Number (also called L/N or S/N or F/N) 291; Aircraft Manufacture Date 21 Jul 1976; Aircraft Model B.747-286B(SCD); Aircraft Operator IRAN AIR; Aircraft Manufacturer's Serial Number (MSN) 21217 (aircraft) [NPWMD] (Linked To: IRAN AIR).

18. EP-IAH; Aircraft Construction Number (also called L/N or S/N or F/N) 300; Aircraft Manufacture Date 22 Dec 1976; Aircraft Model B.747-286B(SCD); Aircraft Operator IRAN AIR; Aircraft Manufacturer's Serial Number (MSN) 21218 (aircraft) [NPWMD] (Linked To: IRAN AIR).

19. EP-IAI; Aircraft Construction Number (also called L/N or S/N or F/N) 550; Aircraft Manufacture Date 01 Dec 1981; Aircraft Model B.747-286B(SCD); Aircraft Operator IRAN AIR; Aircraft Manufacturer's Serial Number (MSN) 22670 (aircraft) [NPWMD] (Linked To: IRAN AIR).

20. EP-IAM; Aircraft Construction Number (also called L/N or S/N or F/N) 381; Aircraft Manufacture Date 20 Jun 1979; Aircraft Model B.747-186B; Aircraft Operator IRAN AIR; Aircraft Manufacturer's Serial Number (MSN) 21759 (aircraft) [NPWMD] (Linked To: IRAN AIR).

21. EP-IBA; Aircraft Construction Number (also called L/N or S/N or F/N) 723; Aircraft Manufacture Date 21 Dec 1993; Aircraft Model A300B4-605R; Aircraft Operator IRAN AIR (aircraft) [NPWMD] (Linked To: IRAN AIR).

22. EP-IBB; Aircraft Construction Number (also called L/N or S/N or F/N) 727; Aircraft Manufacture Date 27 Dec 1994; Aircraft Model A300B4-605R; Aircraft Operator IRAN AIR (aircraft) [NPWMD] (Linked To: IRAN AIR).

23. EP-IBC; Aircraft Construction Number (also called L/N or S/N or F/N) 632; Aircraft Manufacture Date 11 Mar 1992; Aircraft Model A300B4-605R; Aircraft Operator IRAN AIR (aircraft) [NPWMD] (Linked To: IRAN AIR).

24. EP-IBD; Aircraft Construction Number (also called L/N or S/N or F/N) 696; Aircraft Manufacture Date Apr 1993; Aircraft Model A300B4-605R; Aircraft Operator IRAN AIR (aircraft) [NPWMD] (Linked To: IRAN AIR).

25. EP-IBG; Aircraft Construction Number (also called L/N or S/N or F/N) 299; Aircraft Manufacture Date 09 Aug 1984; Aircraft Model A300B4-203; Aircraft Operator Iran Air (aircraft) [NPWMD] (Linked To: IRAN AIR).

26. EP-IBH; Aircraft Construction Number (also called L/N or S/N or F/N) 302; Aircraft Manufacture Date 14 Nov 1984; Aircraft Model A300B4-203; Aircraft Operator IRAN AIR (aircraft) [NPWMD] (Linked To: IRAN AIR).

27. EP-IBI; Aircraft Construction Number (also called L/N or S/N or F/N) 151; Aircraft Manufacture Date 09 Jun 1981; Aircraft Model A300B4-2C; Aircraft Operator IRAN AIR (aircraft) [NPWMD] (Linked To: IRAN AIR).

28. EP-IBJ; Aircraft Construction Number (also called L/N or S/N or F/N) 256; Aircraft Manufacture Date 18 May 1983; Aircraft Model A300B4-203; Aircraft Operator IRAN AIR (aircraft) [NPWMD] (Linked To: IRAN AIR).

29. EP-IBK; Aircraft Construction Number (also called L/N or S/N or F/N) 671; Aircraft Manufacture Date 19 Feb 1993; Aircraft Model A310-304; Aircraft Operator IRAN AIR (aircraft) [NPWMD] (Linked To: IRAN AIR).

30. EP-IBL; Aircraft Construction Number (also called L/N or S/N or F/N) 436; Aircraft Manufacture Date 02 May 1987; Aircraft Model A310-304; Aircraft Operator IRAN AIR (aircraft) [NPWMD] (Linked To: IRAN AIR).

31. EP-IBM; Aircraft Construction Number (also called L/N or S/N or F/N) 338; Aircraft Manufacture Date 05 Apr 1985; Aircraft Model A310-203; Aircraft Operator IRAN AIR (aircraft) [NPWMD] (Linked To: IRAN AIR).

32. EP-IBN; Aircraft Construction Number (also called L/N or S/N or F/N) 375; Aircraft Manufacture Date 16 Apr 1985; Aircraft Model A310-203; Aircraft Operator IRAN AIR (aircraft) [NPWMD] (Linked To: IRAN AIR).

33. EP-IBP; Aircraft Construction Number (also called L/N or S/N or F/N) 370; Aircraft Manufacture Date 06 Jan 1986; Aircraft Model A310-203; Aircraft Operator IRAN AIR (aircraft) [NPWMD] (Linked To: IRAN AIR).

34. EP-IBQ; Aircraft Construction Number (also called L/N or S/N or F/N) 389; Aircraft Manufacture Date 20 Jan 1986; Aircraft Model A310-203; Aircraft Operator IRAN AIR (aircraft) [NPWMD] (Linked To: IRAN AIR).

35. EP-IBS; Aircraft Construction Number (also called L/N or S/N or F/N) 80; Aircraft Manufacture Date 13 Feb 1980; Aircraft Model A300B2-203; Aircraft Operator IRAN AIR (aircraft) [NPWMD] (Linked To: IRAN AIR).

36. EP-IBT; Aircraft Construction Number (also called L/N or S/N or F/N) 185; Aircraft Manufacture Date 09 Mar 1982; Aircraft Model A300B2-203; Aircraft Operator IRAN AIR (aircraft) [NPWMD] (Linked To: IRAN AIR).

37. EP-IBV; Aircraft Construction Number (also called L/N or S/N or F/N) 187; Aircraft Manufacture Date 23 Mar 1982; Aircraft Model A300B2-203; Aircraft Operator IRAN AIR (aircraft) [NPWMD] (Linked To: IRAN AIR).

38. EP-IBZ; Aircraft Construction Number (also called L/N or S/N or F/N) 226; Aircraft Manufacture Date 13 Dec 1982; Aircraft Operator IRAN AIR (aircraft) [NPWMD] (Linked To: IRAN AIR).

39. EP-ICD; Aircraft Construction Number (also called L/N or S/N or F/N) 712; Aircraft Manufacture Date 15 Sep 1988; Aircraft Model B.747-21AC; Aircraft Operator IRAN AIR; Aircraft Manufacturer's Serial Number (MSN) 24134 (aircraft) [NPWMD] (Linked To: IRAN AIR).

40. EP-ICE; Aircraft Construction Number (also called L/N or S/N or F/N) 139; Aircraft Manufacture Date 11 Mar 1981; Aircraft Model A300B4-203; Aircraft Operator IRAN AIR (aircraft) [NPWMD] (Linked To: IRAN AIR).

41. EP-ICF; Aircraft Construction Number (also called L/N or S/N or F/N) 173; Aircraft Manufacture Date 14 Dec 1981; Aircraft Model A300B4-203; Aircraft Operator IRAN AIR (aircraft) [NPWMD] (Linked To: IRAN AIR).

42. EP-IDA; Aircraft Manufacture Date 12 Jun 1990; Aircraft Model F.28-0100; Aircraft Operator IRAN AIR; Aircraft Manufacturer's Serial Number (MSN) 11292 (aircraft) [NPWMD].

43. EP-IDD; Aircraft Manufacture Date 31 Oct 1990; Aircraft Model F.28-0100; Aircraft Operator IRAN AIR; Aircraft Manufacturer's Serial Number (MSN) 11294 (aircraft) [NPWMD] (Linked To: IRAN AIR).

44. EP-IDF; Aircraft Manufacture Date 07 Nov 1990; Aircraft Model F.28-0100; Aircraft Operator IRAN AIR; Aircraft Manufacturer's Serial Number (MSN) 11298 (aircraft) [NPWMD] (Linked To: IRAN AIR).

45. EP-IDG; Aircraft Manufacture Date 30 Jan 1991; Aircraft Model F.28-0100; Aircraft Operator IRAN AIR; Aircraft Manufacturer's Serial Number (MSN) 11302 (aircraft) [NPWMD] (Linked To: IRAN AIR).

46. EP-IEB; Aircraft Construction Number (also called L/N or S/N or F/N) 575; Aircraft Manufacture Date 26 Jan 1996; Aircraft Model A320-232; Aircraft Operator IRAN AIR (aircraft) [NPWMD] (Linked To: IRAN AIR).

47. EP-IEC; Aircraft Construction Number (also called L/N or S/N or F/N) 857; Aircraft Manufacture Date 18 Jun 1998; Aircraft Model A320-232; Aircraft Operator IRAN AIR (aircraft) [NPWMD] (Linked To: IRAN AIR).

48. EP-IED; Aircraft Construction Number (also called L/N or S/N or F/N) 345; Aircraft Manufacture Date 18 Jun 1992; Aircraft Model A320-212; Aircraft Operator IRAN AIR (aircraft) [NPWMD] (Linked To: IRAN AIR).

49. EP-IEE; Aircraft Construction Number (also called L/N or S/N or F/N) 303; Aircraft Manufacture Date 14 Feb 1992; Aircraft Model A320-211; Aircraft Operator IRAN AIR (aircraft) [NPWMD] (Linked To: IRAN AIR).

50. EP-IEF; Aircraft Construction Number (also called L/N or S/N or F/N) 312; Aircraft Manufacture Date 05 Mar 1992; Aircraft Model A320-211; Aircraft Operator IRAN AIR (aircraft) [NPWMD] (Linked To: IRAN AIR).

51. EP-IEG; Aircraft Construction Number (also called L/N or S/N or F/N) 2054; Aircraft Manufacture Date 06 Jun 2003; Aircraft Model A320-211; Aircraft Operator IRAN AIR (aircraft) [NPWMD] (Linked To: IRAN AIR).

52. EP-IRK; Aircraft Construction Number (also called L/N or S/N or F/N) 541; Aircraft Manufacture Date 04 Dec 1966; Aircraft Model B.707-321C; Aircraft Operator IRAN AIR; Aircraft Manufacturer's Serial Number (MSN) 19267 (aircraft) [NPWMD] (Linked To: IRAN AIR).

53. EP-IRL; Aircraft Construction Number (also called L/N or S/N or F/N) 832; Aircraft Manufacture Date 15 Dec 1969; Aircraft Model B.707-386C; Aircraft Operator IRAN AIR; Aircraft Manufacturer's Serial Number (MSN) 20287 (aircraft) [NPWMD] (Linked To: IRAN AIR).

54. EP-IRM; Aircraft Construction Number (also called L/N or S/N or F/N) 839; Aircraft Manufacture Date 04 Mar 1970; Aircraft Model B.707-386C; Aircraft Operator IRAN AIR; Aircraft Manufacturer's Serial Number (MSN) 20288 (aircraft) [NPWMD] (Linked To: IRAN AIR).

55. EP-IRN; Aircraft Construction Number (also called L/N or S/N or F/N) 866; Aircraft Manufacture Date 18 Apr 1973; Aircraft Model B.707-386C; Aircraft Operator IRAN AIR; Aircraft Manufacturer's Serial Number (MSN) 20741 (aircraft) [NPWMD] (Linked To: IRAN AIR).

56. EP-IRR; Aircraft Construction Number (also called L/N or S/N or F/N) 1052; Aircraft Manufacture Date 24 Jun 1974; Aircraft Model B.727-286; Aircraft Operator IRAN AIR; Aircraft Manufacturer's Serial Number (MSN) 20946 (aircraft) [NPWMD] (Linked To: IRAN AIR).

57. EP-IRS; Aircraft Construction Number (also called L/N or S/N or F/N) 1070; Aircraft Manufacture Date 12 Sep 1974; Aircraft Model B.727-286; Aircraft Operator IRAN AIR; Aircraft Manufacturer's Serial Number (MSN) 20947 (aircraft) [NPWMD] (Linked To: IRAN AIR).

58. EP-IRT; Aircraft Construction Number (also called L/N or S/N or F/N) 1114; Aircraft Manufacture Date 03 Mar 1975; Aircraft Model B.727-286; Aircraft Operator IRAN AIR; Aircraft Manufacturer's Serial Number (MSN) 21078 (aircraft) [NPWMD] (Linked To: IRAN AIR).

59. EP-MDD; Aircraft Construction Number (also called L/N or S/N or F/N) 1959; Aircraft Manufacture Date Jul 1992; Aircraft Model MD-82; Aircraft Operator IRAN AIR TOURS; Aircraft Manufacturer's Serial Number (MSN) 49852 (aircraft) [NPWMD] (Linked To: IRAN AIR).

60. EP-MDE; Aircraft Construction Number (also called L/N or S/N or F/N) 1724; Aircraft Manufacture Date Dec 1990; Aircraft Model MD-82; Aircraft Operator IRAN AIR TOURS; Aircraft Manufacturer's Serial Number (MSN) 49523 (aircraft) [NPWMD] (Linked To: IRAN AIR).

61. UR-BHJ; Aircraft Construction Number (also called L/N or S/N or F/N) 2088; Aircraft Manufacture Date Jul 1994; Aircraft Model MD-83; Aircraft Operator Bukovyna AE; Aircraft Manufacturer's Serial Number (MSN) 53184 (aircraft) [NPWMD] [IFSR].

62. UR-BXI; Aircraft Construction Number (also called L/N or S/N or F/N) 2065; Aircraft Manufacture Date Jun 1993; Aircraft Model MD-82; Aircraft Operator IRAN AIR TOURS; Aircraft Manufacturer's Serial Number (MSN) 53170 (aircraft) [NPWMD] (Linked To: IRAN AIR).

63. UR-BXL; Aircraft Construction Number (also called L/N or S/N or F/N) 1548; Aircraft Manufacture Date Jun 1989; Aircraft Model MD-82; Aircraft Operator IRAN AIR TOURS; Aircraft Manufacturer's Serial Number (MSN) 49512 (aircraft) [NPWMD] (Linked To: IRAN AIR).

64. UR-BXM; Aircraft Construction Number (also called L/N or S/N or F/N) 1381; Aircraft Manufacture Date Jan 1988; Aircraft Model MD-82; Aircraft Operator IRAN AIR TOURS; Aircraft Manufacturer's Serial Number (MSN) 49505 (aircraft) [NPWMD] (Linked To: IRAN AIR).

65. UR-BXN; Aircraft Construction Number (also called L/N or S/N or F/N) 1405; Aircraft Manufacture Date 08 Apr 1987; Aircraft Model MD-83; Aircraft Operator Bukovyna AE; Aircraft Manufacturer's Serial Number (MSN) 49569 (aircraft) [NPWMD] [IFSR].

66. UR-CGS; Aircraft Construction Number (also called L/N or S/N or F/N) 1240; Aircraft Model MD-82; Aircraft Operator IRAN AIR TOURS; Aircraft Manufacturer's Serial Number (MSN) 49425 (aircraft) [NPWMD] (Linked To: IRAN AIR).

67. UR-CGT; Aircraft Construction Number (also called L/N or S/N or F/N) 1241; Aircraft Model MD-82; Aircraft Operator Iran Air Tours; Aircraft Manufacturer's Serial Number (MSN) 49428 (aircraft) [NPWMD] (Linked To: IRAN AIR).

68. UR-CHW; Aircraft Construction Number (also called L/N or S/N or F/N) 1514; Aircraft Manufacture Date Mar 1989; Aircraft Model MD-82; Aircraft Operator IRAN AIR TOURS; Aircraft Manufacturer's Serial Number (MSN) 49510 (aircraft) [NPWMD] (Linked To: IRAN AIR).

69. UR-CHX; Aircraft Construction Number (also called L/N or S/N or F/N) 2010; Aircraft Manufacture Date Jul 1992; Aircraft Model MD-82; Aircraft Operator IRAN AIR TOURS; Aircraft Manufacturer's Serial Number (MSN) 53162 (aircraft) [NPWMD] (Linked To: IRAN AIR).

70. UR-CHY; Aircraft Construction Number (also called L/N or S/N or F/N) 2067; Aircraft Manufacture Date Jun 1993; Aircraft Model MD-82; Aircraft Operator IRAN AIR TOURS; Aircraft Manufacturer's Serial Number (MSN) 53171 (aircraft) [NPWMD] (Linked To: IRAN AIR).

71. UR-CHZ; Aircraft Construction Number (also called L/N or S/N or F/N) 2063; Aircraft Manufacture Date May 1993; Aircraft Model MD-82; Aircraft Operator IRAN AIR TOURS; Aircraft Manufacturer's Serial Number (MSN) 53169 (aircraft) [NPWMD] (Linked To: IRAN AIR).

72. UR-CIX; Aircraft Construction Number (also called L/N or S/N or F/N) 2167; Aircraft Manufacture Date Nov 1996; Aircraft Model MD-88; Aircraft Operator Bukovyna AE; Aircraft Manufacturer's Serial Number (MSN) 53546 (aircraft) [NPWMD] [IFSR].

73. UR-CIY; Aircraft Construction Number (also called L/N or S/N or F/N) 2176; Aircraft Manufacture Date Mar 1997; Aircraft Model MD-88; Aircraft Operator Bukovyna AE; Aircraft Manufacturer's Serial Number (MSN) 53547 (aircraft) [NPWMD] [IFSR].

74. UR-CJA; Aircraft Construction Number (also called L/N or S/N or F/N) 1181; Aircraft Manufacture Date 04 Jan 1985; Aircraft Model MD-82; Aircraft Operator Bukovyna AE; Aircraft Manufacturer's Serial Number (MSN) 49277 (aircraft) [NPWMD] [IFSR].

75. UR-CJK; Aircraft Construction Number (also called L/N or S/N or F/N) 2180; Aircraft Manufacture Date Apr 1997; Aircraft Model MD-88; Aircraft Operator Bukovyna AE; Aircraft Manufacturer's Serial Number (MSN) 53548 (aircraft) [NPWMD] [IFSR].

76. UR-CJQ; Aircraft Construction Number (also called L/N or S/N or F/N) 1300; Aircraft Manufacture Date Jun 1987; Aircraft Model MD-82; Aircraft Operator IRAN AIR TOURS; Aircraft Manufacturer's Serial Number (MSN) 49502 (aircraft) [NPWMD] (Linked To: IRAN AIR).

Vessels

1. AAJ Unknown vessel type 72DWT 103GRT IRAN flag (IRISL); Vessel Registration Identification IMO 8984484 (vessel) [NPWMD].

2. ABBA (a.k.a. IRAN MATIN) General Cargo 24,065DWT 16,621GRT Iran flag (IRISL); Vessel Registration Identification IMO 9051624 (vessel) [NPWMD].

3. ABTIN 1 Container Ship 13,760DWT 9,957GRT IRAN flag (IRISL); Vessel Registration Identification IMO 9379636 (Iran) (vessel) [NPWMD].

4. ACCURATE (a.k.a. DRIFTER; a.k.a. IRAN DRIFTER) Bulk Carrier 43,499DWT 25,770GRT Hong Kong flag (IRISL); Vessel Registration Identification IMO 8320169 (vessel) [NPWMD].

5. ACROBAT (a.k.a. DEVOTIONAL; a.k.a. IRAN DEVOTIONAL) Bulk Carrier 43,330DWT 25,768GRT Hong Kong flag (IRISL); Vessel Registration Identification IMO 8309684 (vessel) [NPWMD].

6. ADALIA (f.k.a. IRAN SAHAND; f.k.a. SAHAND) Container Ship 66,900DWT 53,453GRT Sierra Leone flag (IRISL); Vessel Registration Identification IMO 9328900 (Sierra Leone) (vessel) [NPWMD].

7. ADRIAN (a.k.a. DELIGHT; a.k.a. IRAN DELIGHT; a.k.a. IRAN JAMAL) Bulk Carrier 43,218DWT 25,768GRT Hong Kong flag (IRISL); Vessel Registration Identification IMO 8320133 (vessel) [NPWMD].

8. ADVENTIST (a.k.a. IRAN MADANI) Bulk Carrier 43,369DWT 25,768GRT HONG KONG flag (IRISL); Vessel Registration Identification IMO 8309622 (Hong Kong) (vessel) [NPWMD].

9. AEROLITE (a.k.a. DELEGATE; a.k.a. IRAN DELEGATE) Bulk Carrier 43,265DWT 25,768GRT Hong Kong flag (IRISL); Vessel Registration Identification IMO 8320121 (vessel) [NPWMD].

10. AGATA (f.k.a. IRAN TUCHAL; f.k.a. TUCHAL) Container Ship 66,900DWT 53,453GRT Sierra Leone flag (IRISL); Vessel Registration Identification IMO 9346536 (Sierra Leone) (vessel) [NPWMD].

11. AGEAN (a.k.a. DYNAMIZE; a.k.a. IRAN DYNAMIZE) Bulk Carrier 43,369DWT 25,768GRT Hong Kong flag (IRISL); Vessel Registration Identification IMO 8309634 (vessel) [NPWMD].

12. AGILE (a.k.a. DECOROUS; a.k.a. IRAN DECOROUS) Bulk Carrier 43,369DWT 25,768GRT Hong Kong flag (IRISL); Vessel Registration Identification IMO 8309658 (vessel) [NPWMD].

13. AJAX (a.k.a. DYNASTY; a.k.a. IRAN GHAZI) Bulk Carrier 43,497DWT 25,768GRT HONG KONG flag (IRISL); Vessel Registration Identification IMO 8309672 (Hong Kong) (vessel) [NPWMD].

14. ALAMEDA (a.k.a. IRAN DOLPHIN) Bulk Carrier 43,480DWT 25,770GRT Hong Kong flag (IRISL); Vessel Registration Identification IMO 8320195 (Hong Kong) (vessel) [NPWMD].

15. ALIAS (a.k.a. DEVOTEE; a.k.a. IRAN DEVOTEE) Bulk Carrier 43,369DWT 25,768GRT Hong Kong flag (IRISL); Vessel Registration Identification IMO 8309608 (vessel) [NPWMD].

16. AMIN Crude Oil Tanker 157,985DWT 81,306GRT Sierra Leone flag (IRISL); Vessel Registration Identification IMO 9422366 (Sierra Leone) (vessel) [NPWMD].

17. AMITEES (a.k.a. IRAN JOMHURI) Bulk Carrier 35,828DWT 20,811GRT Iran flag (IRISL); Vessel Registration Identification IMO 7632826 (vessel) [NPWMD].

18. AMPLIFY (a.k.a. DIPLOMAT; a.k.a. IRAN DIPLOMAT) Bulk Carrier 43,262DWT 25,768GRT Hong Kong flag (IRISL); Vessel Registration Identification IMO 8309701 (vessel) [NPWMD].

19. ANGEL (a.k.a. DAPPER; a.k.a. IRAN DAPPER) Bulk Carrier 43,499DWT 25,768GRT Hong Kong flag (IRISL); Vessel Registration Identification IMO 8309646 (vessel) [NPWMD].

20. ANTHEM Panama flag (Siqiriya Maritime Corp.); Vessel Registration Identification IMO 8310669 (vessel) [EO13645] (Linked To: SIQIRIYA MARITIME CORP.).

21. AQUARIAN (a.k.a. DIGNIFIED; a.k.a. IRAN DIGNIFIED) Bulk Carrier 43,369DWT 25,768GRT Hong Kong flag (IRISL); Vessel Registration Identification IMO 8309610 (vessel) [NPWMD].

22. ARDAVAN (f.k.a. CHAPAREL; f.k.a. HAKIM; f.k.a. IRAN HAKIM) Bulk Carrier 53,100DWT 31,117GRT Iran flag (IRISL); Former Vessel Flag Moldova; Vessel Registration Identification IMO 9465863 (vessel) [NPWMD].

23. ARIES (f.k.a. ELVIRA; f.k.a. FILBERT; f.k.a. GRACEFUL) Bulk Carrier 76,000DWT 41,226GRT Iran flag (IRISL); Former Vessel Flag Bolivia; Vessel Registration Identification IMO 9369722 (vessel) [NPWMD].

24. ARSHAM (f.k.a. CHASTITY; a.k.a. IRAN SHAAFI; a.k.a. SHAAFI) Bulk Carrier 53,000DWT 32,474GRT Iran flag (IRISL); Former Vessel Flag Malta; Vessel Registration Identification IMO 9386500 (vessel) [NPWMD].

25. ARTAVAND (f.k.a. DORSAN; f.k.a. IRAN KHORASAN; f.k.a. KHORASAN) Bulk Carrier 72,622DWT 39,424GRT Iran flag (IRISL); Former Vessel Flag Malta; Vessel Registration Identification IMO 9193214 (vessel) [NPWMD].

26. ARTMAN (f.k.a. BAAGHI) Bulk Carrier 53,457DWT 32,474GRT Iran flag (IRISL); Former Vessel Flag Tanzania; Vessel Registration Identification IMO 9405930 (vessel) [NPWMD].

27. ARVIN (f.k.a. BLUEBELL; f.k.a. EGLANTINE; f.k.a. IRAN GILAN) Bulk Carrier 63,400DWT 39,424GRT Iran flag (IRISL); Former Vessel Flag Bolivia; Vessel Registration Identification IMO 9193202 (vessel) [NPWMD].

28. ASSA (a.k.a. IRAN ENTEKHAB) Bulk Carrier 35,896DWT 20,811GRT Iran flag (IRISL); Vessel Registration Identification IMO 7632814 (vessel) [NPWMD].

29. ATTAR Bulk Carrier 43,706DWT 25,885GRT Tanzania flag (IRISL); Vessel Registration Identification IMO 9074092 (Tanzania) (vessel) [NPWMD].

30. ATTRIBUTE (a.k.a. DIAMOND; a.k.a. IRAN DIAMOND) Bulk Carrier 43,369DWT 25,768GRT HONG KONG flag (IRISL); Vessel Registration Identification IMO 8309593 (vessel) [NPWMD].

31. AVANG (f.k.a. CHAPLET; f.k.a. IRAN RAHIM; f.k.a. RAHIM) Bulk Carrier 53,100DWT 31,117GRT Iran flag (IRISL); Former Vessel Flag Malta; Vessel Registration Identification IMO 9465746 (vessel) [NPWMD].

32. AZARGOUN (f.k.a. ARMIS; f.k.a. IRAN ZANJAN; f.k.a. VISEA) Container Ship 33,850DWT 25,391GRT Iran flag (IRISL); Former Vessel Flag Tanzania; Vessel Registration Identification IMO 9283019 (vessel) [NPWMD].

33. BAHJAT (f.k.a. BAANI) Bulk Carrier 53,500DWT 32,474GRT Iran flag (IRISL); Former Vessel Flag Moldova; Vessel Registration Identification IMO 9405954 (vessel) [NPWMD].

34. BARSAM (a.k.a. IRAN SHARIAT) Bulk Carrier 44,441DWT 25,168GRT Iran flag (IRISL); Vessel Registration Identification IMO 8107581 (vessel) [NPWMD].

35. BASKAR (f.k.a. AALI) Bulk Carrier 53,500DWT 32,474GRT Iran flag (IRISL); Former Vessel Flag Moldova; Vessel Registration Identification IMO 9405942 (vessel) [NPWMD].

36. BATIS (f.k.a. AZIM; f.k.a. CHAPMAN; f.k.a. IRAN AZIM) Bulk Carrier 53,100DWT 31,117GRT Iran flag (IRISL); Former Vessel Flag Malta; Vessel Registration Identification IMO 9465760 (vessel) [NPWMD].

37. BEHDAD (f.k.a. BRILLIANCE; f.k.a. CLOVER; f.k.a. DORITA; f.k.a. IRAN BRILLIANCE; f.k.a. MULBERRY) General Cargo 24,065DWT 16,621GRT Iran flag (IRISL); Former Vessel Flag Bolivia; Vessel Registration Identification IMO 9051636 (vessel) [NPWMD].

38. BEHSHAD (f.k.a. BLANCA; f.k.a. LIMNETIC; f.k.a. MAGNOLIA; f.k.a. SEA FLOWER) General Cargo 23,176DWT 16,694GRT Iran flag (IRISL); Former Vessel Flag Bolivia; Vessel Registration Identification IMO 9167289 (vessel) [NPWMD].

39. BENITA (f.k.a. IRAN ZAGROS; f.k.a. PALMARY; f.k.a. ZAGROS) Container Ship 54,340DWT 54,851GRT Sierra Leone flag; Vessel Registration Identification IMO 9346548 (Sierra Leone) (vessel) [NPWMD].

40. BRELYAN General Cargo Iran flag (IRISL); Vessel Registration Identification IMO 9138056 (vessel) [NPWMD].

41. DORITA (f.k.a. IRAN MOEIN) General Cargo 2,495DWT 1,630GRT Iran flag (IRISL); Vessel Registration Identification IMO 8605234 (Iran) (vessel) [NPWMD].

42. ELYANA (f.k.a. EVITA; f.k.a. GOLDENROD; f.k.a. IRAN LUCKY LILY; f.k.a. LUCKY LILY) General Cargo 22,882DWT 15,670GRT Iran flag (IRISL); Former Vessel Flag Bolivia; Vessel Registration Identification IMO 9165827 (vessel) [NPWMD].

43. GABRIELA (f.k.a. DANDELION; f.k.a. IRAN NEW STATE; f.k.a. NEW STATE) Container Ship 41,937DWT 36,014GRT Bolivia flag (IRISL); Vessel Registration Identification IMO 9209336 (Bolivia) (vessel) [NPWMD].

44. GAS CAMELLIA LPG Tanker St. Kitts and Nevis flag; Vessel Registration Identification IMO 8803381 (vessel) [EO13645].

45. GILDA (f.k.a. IRAN ANZALI) General Cargo 6,750DWT 5,750GRT Iran flag (IRISL); Vessel Registration Identification IMO 9367982 (Iran) (vessel) [NPWMD].

46. GLADIOLUS (f.k.a. TENTH OCEAN) General Cargo 22,882DWT 15,670GRT Malta flag (IRISL); Vessel Registration Identification IMO 9165815 (Malta) (vessel) [NPWMD].

47. GLORY Bulk Carrier 76,500DWT 41,226GRT Barbados flag (IRISL); Vessel Registration Identification IMO 9369710 (Barbados) (vessel) [NPWMD].

48. GLOXINIA (f.k.a. IRAN SEA STATE; f.k.a. LILIED; f.k.a. SEA STATE) General Cargo 23,176DWT 16,694GRT Barbados flag (IRISL); Vessel Registration Identification IMO 9167265 (Barbados) (vessel) [NPWMD].

49. GOLAFRUZ (f.k.a. DIANTHE; f.k.a. HORSHAM; f.k.a. IRAN BAM) Bulk Carrier 73,664DWT 40,166GRT Iran flag (IRISL); Former Vessel Flag Barbados; Vessel Registration Identification IMO 9323833 (vessel) [NPWMD].

50. GOLBON (f.k.a. HADIS; f.k.a. IRAN ILAM; f.k.a. SEPITAM) Container Ship 37,894DWT 27,681GRT Iran flag (IRISL); Vessel Registration Identification IMO 9283033 (Iran) (vessel) [NPWMD].

51. GOLSAR (f.k.a. CARMELA; f.k.a. IRAN AZARBAYJAN; f.k.a. NAFIS; f.k.a. ZAWA) Bulk Carrier 72,642DWT 39,424GRT Iran flag (IRISL); Former Vessel Flag Bolivia; Vessel Registration Identification IMO 9193185 (vessel) [NPWMD].

52. GOWHAR Ferry Iran flag (IRISL); Vessel Registration Identification IMO 9103087 (vessel) [NPWMD].

53. GULAFSHAN (f.k.a. ATLANTIC; f.k.a. DREAMLAND; f.k.a. IRAN DREAMLAND) Bulk Carrier 43,302DWT 25,770GRT Iran flag (IRISL); Former Vessel Flag Hong Kong; Vessel Registration Identification IMO 8320183 (vessel) [NPWMD].

54. HAADI Bulk Carrier 53,442DWT 32,474GRT Moldova flag; Vessel Registration Identification IMO 9387798 (Moldova) (vessel) [NPWMD].

55. HAAMI Bulk Carrier 53,500DWT 32,474GRT MALTA flag; Vessel Registration Identification IMO 9405966 (Malta) (vessel) [NPWMD].

56. HAMADAN (f.k.a. IRAN HAMADAN) Bulk Carrier 72,162DWT 39,517GRT Tanzania flag (IRISL); Vessel Registration Identification IMO 9226956 (Tanzania) (vessel) [NPWMD].

57. HAMD Bunkering Tanker 750DWT 335GRT Iran flag (IRISL); Vessel Registration Identification IMO 9036052 (Iran) (vessel) [NPWMD].

58. HORMUZ 2 Ferry Iran flag (IRISL); Vessel Registration Identification IMO 7904580 (vessel) [NPWMD].

59. IRAN AKHAVAN Bulk Carrier 34,859DWT 20,576GRT Iran flag (IRISL); Vessel Registration Identification IMO 8113009 (vessel) [NPWMD].

60. IRAN CHARAK Bunkering Tanker 700DWT 335GRT Iran flag (IRISL); Vessel Registration Identification IMO 8322076 (Iran) (vessel) [NPWMD].

61. IRAN DALEER General Cargo 5,885DWT 4,954GRT Iran flag (IRISL); Vessel Registration Identification IMO 9118551 (vessel) [NPWMD].

62. IRAN HORMUZ 12 General Cargo Iran flag (IRISL); Vessel Registration Identification IMO 9005596 (vessel) [NPWMD].

63. IRAN HORMUZ 14 General Cargo Iran flag (IRISL); Vessel Registration Identification IMO 9020778 (vessel) [NPWMD].

64. IRAN HORMUZ 21 General Cargo 1,000DWT 910GRT Iran flag (IRISL); Vessel Registration Identification IMO 8314263 (vessel) [NPWMD].

65. IRAN HORMUZ 22 General Cargo 1,000DWT 910GRT Iran flag (IRISL); Vessel Registration Identification IMO 8314275 (vessel) [NPWMD].

66. IRAN HORMUZ 23 General Cargo Iran flag (IRISL); Vessel Registration Identification IMO 8319782 (vessel) [NPWMD].

67. IRAN HORMUZ 25 General Cargo Iran flag (IRISL); Vessel Registration Identification IMO 8422072 (vessel) [NPWMD].

68. IRAN HORMUZ 26 General Cargo Iran flag (IRISL); Vessel Registration Identification IMO 8422084 (vessel) [NPWMD].

69. IRAN KASHAN Container Ship 29,870DWT 23,200GRT Iran flag (IRISL); Vessel Registration Identification IMO 9270696 (vessel) [NPWMD].

70. IRAN KONG Unknown vessel type 0DWT 63GRT IRAN flag (IRISL); Vessel Registration Identification IMO 9007582 (Iran) (vessel) [NPWMD].

71. IRAN PARAK Bunkering Tanker 750DWT 321GRT Iran flag (IRISL); Vessel Registration Identification IMO 8322064 (Iran) (vessel) [NPWMD].

72. IRAN SHAHED General Cargo 3,480DWT 2,615GRT Iran flag (IRISL); Vessel Registration Identification IMO 9184691 (vessel) [NPWMD].

73. IRAN SHAHR-E-KORD Container Ship 29,870DWT 23,200GRT Iran flag (IRISL); Vessel Registration Identification IMO 9270684 (Iran) (vessel) [NPWMD].

74. IRAN SHALAK Bunkering Tanker 750DWT 335GRT Iran flag (IRISL); Vessel Registration Identification IMO 8319940 (Iran) (vessel) [NPWMD].

75. IRAN SHALAMCHEH General Cargo 3,918DWT 3,135GRT Iran flag (IRISL); Vessel Registration Identification IMO 8820925 (vessel) [NPWMD].

76. IRAN YOUSHAT Bunkering Tanker 710DWT 335GRT Iran flag (IRISL); Vessel Registration Identification IMO 8319952 (Iran) (vessel) [NPWMD].

77. JAFFNA Panama flag (Siqiriya Maritime Corp.); Vessel Registration Identification IMO 8609515 (vessel) [EO13645] (Linked To: SIQIRIYA MARITIME CORP.).

78. JAIRAN (f.k.a. CAMELLIA; f.k.a. CATALINA; f.k.a. IRAN SEA BLOOM; f.k.a. LODESTAR; f.k.a. SEA BLOOM) General Cargo 23,176DWT 16,694GRT Iran flag (IRISL); Former Vessel Flag Bolivia; Vessel Registration Identification IMO 9167291 (vessel) [NPWMD].

79. JOVITA (f.k.a. GALAX; f.k.a. NINTH OCEAN) General Cargo 22,882DWT 15,670GRT Sierra Leone flag (IRISL); Vessel Registration Identification IMO 9165798 (Sierra Leone) (vessel) [NPWMD].

80. KADOS (f.k.a. IRAN SAHEL) General Cargo 3,816DWT 2,842GRT Iran flag (IRISL); Vessel Registration Identification IMO 9137258 (Iran) (vessel) [NPWMD].

81. KATERINA 1 Crude Oil Tanker Panama flag; Vessel Registration Identification IMO 9031959 (vessel) [EO13645].

82. KIAZAND (f.k.a. CHARIOT; f.k.a. IRAN KARIM; f.k.a. KARIM) Bulk Carrier 53,100DWT 31,117GRT Iran flag (IRISL); Former Vessel Flag Malta; Vessel Registration Identification IMO 9465758 (vessel) [NPWMD].

83. MAHNAM (f.k.a. ATENA; f.k.a. CONSUELO; f.k.a. IRAN YAZD; f.k.a. LANCELIN) Bulk Carrier 72,642DWT 40,609GRT Iran flag (IRISL); Former Vessel Flag Bolivia; Vessel Registration Identification IMO 9213387 (vessel) [NPWMD].

84. MAHSAN (f.k.a. GOLESTAN; f.k.a. IRAN GOLESTAN) Bulk Carrier 72,162DWT 39,517GRT Malta flag (IRISL); Vessel Registration Identification IMO 9226944 (Malta) (vessel) [NPWMD].

85. MANOLA (f.k.a. EIGHTH OCEAN) General Cargo 22,882DWT 15,670GRT Sierra Leone flag (IRISL); Vessel Registration Identification IMO 9165803 (Sierra Leone) (vessel) [NPWMD].

86. MARIA Chemical/Products Tanker St. Kitts and Nevis flag; Vessel Registration Identification IMO 9110626 (vessel) [EO13645].

87. MARISOL (f.k.a. FIRST OCEAN) Container Ship 85,896DWT 74,175GRT Sierra Leone flag (IRISL); Vessel Registration Identification IMO 9349576 (Sierra Leone) (vessel) [NPWMD].

88. MERCEDES (f.k.a. DECKER; f.k.a. FIFTH OCEAN) Container Ship 81,112DWT 75,395GRT Sierra Leone flag (IRISL); Vessel Registration Identification IMO 9349667 (Sierra Leone) (vessel) [NPWMD].

89. MIRZA KOCHEK KHAN Unknown vessel type Iran flag (IRISL); Vessel Registration Identification IMO 7027899 (vessel) [NPWMD].

90. NAGHMEH (f.k.a. APOLLO; f.k.a. IRAN DESTINY; f.k.a. IRAN NAVAB) Bulk Carrier 43,329DWT 25,768GRT Iran flag (IRISL); Former Vessel Flag Hong Kong; Vessel Registration Identification IMO 8320145 (vessel) [NPWMD].

91. NAMI Chemical/Products Tanker Panama flag; Vessel Registration Identification IMO 8419178 (vessel) [EO13645].

92. NARDIS (f.k.a. FERDOS) (Iran) General Cargo 3,817DWT 2,842GRT Iran flag (IRISL); Vessel Registration Identification IMO 9137246 (Iran) (vessel) [NPWMD].

93. NEGAR (f.k.a. ELICIA; f.k.a. GARLAND; f.k.a. IRAN LUCKY MAN; f.k.a. LUCKY MAN) General Cargo 22,882DWT 15,670GRT Iran flag (IRISL); Former Vessel Flag Bolivia; Vessel Registration Identification IMO 9165839 (vessel) [NPWMD].

94. NEGEEN Unknown vessel type Iran flag (IRISL); Vessel Registration Identification IMO 9071519 (vessel) [NPWMD].

95. NESHAT (f.k.a. BEGONIA; f.k.a. IRAN PRETTY SEA (KHUZESTAN); f.k.a. LAVENDER; f.k.a. PRETTY SEA) General Cargo 23,116DWT 16,694GRT Iran flag (IRISL); Former Vessel Flag Moldova; Vessel Registration Identification IMO 9167277 (vessel) [NPWMD].

96. NILDA (f.k.a. GABION; f.k.a. SEVENTH OCEAN) General Cargo 22,882DWT 15,670GRT Sierra Leone flag (IRISL); Vessel Registration Identification IMO 9165786 (Sierra Leone) (vessel) [NPWMD].

97. OLYSA Panama flag (Siqiriya Maritime Corp.); Vessel Registration Identification IMO 9001605 (vessel) [EO13645] (Linked To: SIQIRIYA MARITIME CORP.).

98. ORIANA (f.k.a. THIRD OCEAN) Container Ship 85,878DWT 74,175GRT Sierra Leone flag (IRISL); Vessel Registration Identification IMO 9349590 (Sierra Leone) (vessel) [NPWMD].

99. PANTEA (a.k.a. IRAN ADL) Bulk Carrier 37,537DWT 22,027GRT Iran flag (IRISL); Vessel Registration Identification IMO 8108559 (vessel) [NPWMD].

100. PARDIS (f.k.a. IRAN YASOOJ; f.k.a. SIMBER) Container Ship 33,812DWT 25,391GRT Tanzania flag (IRISL); Vessel Registration Identification IMO 9284142 (Tanzania) (vessel) [NPWMD].

101. PARIN (f.k.a. IRAN KABEER) General Cargo 5,885DWT 4,991GRT Iran flag (IRISL); Vessel Registration Identification IMO 9076478 (Iran) (vessel) [NPWMD].

102. PARMIDA (a.k.a. IRAN AFZAL) Bulk Carrier 37,564DWT 22,027GRT Iran flag (IRISL); Vessel Registration Identification IMO 8105284 (vessel) [NPWMD].

103. PARMIS (f.k.a. IRAN BARAN; f.k.a. PARDIS) General Cargo 3,839DWT 2,842GRT Iran flag (IRISL); Vessel Registration Identification IMO 9245316 (Iran) (vessel) [NPWMD].

104. PARMIS (f.k.a. IRAN PIROOZI; f.k.a. SAKAS) Container Ship 33,853DWT 25,391GRT Tanzania flag (IRISL); Vessel Registration Identification IMO 9283007 (Tanzania) (vessel) [NPWMD].

105. PARSHAD (f.k.a. CHIMES; f.k.a. IRAN VAAFI; f.k.a. VAAFI) Bulk Carrier 53,000DWT 32,474GRT Iran flag (IRISL); Former Vessel Flag Tanzania; Vessel Registration Identification IMO 9387786 (vessel) [NPWMD].

106. PARSHAN (f.k.a. BRIGHTNESS; f.k.a. IRAN BRIGHTNESS; f.k.a. MARIGOLD) General Cargo 24,065DWT 16,621GRT Iran flag (IRISL); Vessel Registration Identification IMO 9051648 (Iran) (vessel) [NPWMD].

107. PATRIS General Cargo 3,853DWT 2,842GRT Malta flag (IRISL); Vessel Registration Identification IMO 9137210 (Malta) (vessel) [NPWMD].

108. RAAZI Bulk Carrier 53,412DWT 32,474GRT Tanzania flag; Vessel Registration Identification IMO 9387803 (Tanzania) (vessel) [NPWMD].

109. RAMONA (f.k.a. DECRETIVE; f.k.a. SIXTH OCEAN) Container Ship 79,030DWT 75,395GRT Sierra Leone flag (IRISL); Vessel Registration Identification IMO 9349679 (Sierra Leone) (vessel) [NPWMD].

110. RIONA (f.k.a. SECOND OCEAN) Container Ship 86,018DWT 74,175GRT Sierra Leone flag (HDS); Vessel Registration Identification IMO 9349588 (Sierra Leone) (vessel) [NPWMD].

111. RONAK (f.k.a. ANIL; f.k.a. DANDY; f.k.a. IRAN DANDY) Bulk Carrier 43,279DWT 25,768GRT Iran flag (IRISL); Former Vessel Flag Hong Kong; Vessel Registration Identification IMO 8320157 (vessel) [NPWMD].

112. SABRINA (f.k.a. IRAN BASHEER) General Cargo 2,850DWT 2,563GRT Iran flag (IRISL); Vessel Registration Identification IMO 8215742 (vessel) [NPWMD].

113. SAEI Bulk Carrier 53,386DWT 32,474GRT Moldova flag; Vessel Registration Identification IMO 9387815 (Moldova) (vessel) [NPWMD].

114. SALIM Bulk Carrier 53,100DWT 31,117GRT Moldova flag (IRISL); Vessel Registration Identification IMO 9465851 (Moldova) (vessel) [NPWMD].

115. SALIS (f.k.a. IRAN FARS; f.k.a. SEWAK) Container Ship 33,850DWT 25,391GRT Tanzania flag (IRISL); Vessel Registration Identification IMO 9283021 (Tanzania) (vessel) [NPWMD].

116. SANIA (f.k.a. IRAN NOWSHAHR) General Cargo 7,004DWT 5,676GRT Iran flag (IRISL); Vessel Registration Identification IMO 9367994 (Iran) (vessel) [NPWMD].

117. SARINA (f.k.a. IRAN SAHAR; f.k.a. RA-EES ALI) General Cargo 2,876DWT 2,576GRT Iran flag (IRISL); Vessel Registration Identification IMO 8203608 (vessel) [NPWMD].

118. SARIR (f.k.a. IRAN AMIRABAD) General Cargo 7,004DWT 5,676GRT Iran flag (IRISL); Vessel Registration Identification IMO 9368003 (vessel) [NPWMD].

119. SARITA (f.k.a. DANDLE; f.k.a. TWELFTH OCEAN) Container Ship 41,971DWT 36,014GRT Sierra Leone flag (IRISL); Vessel Registration Identification IMO 9209348 (Sierra Leone) (vessel) [NPWMD].

120. SATTAR Bulk Carrier 43,419DWT 24,155GRT Sierra Leone flag (IRISL); Vessel Registration Identification IMO 9040479 (Sierra Leone) (vessel) [NPWMD].

121. SAVIZ (f.k.a. AZALEA; f.k.a. IRAN OCEAN CANDLE; f.k.a. LANTANA; f.k.a. OCEAN CANDLE) General Cargo 23,176DWT 16,694GRT Iran flag (IRISL); Vessel Registration Identification IMO 9167253 (Iran) (vessel) [NPWMD].

122. SHAADI Bulk Carrier 53,500DWT 32,474GRT MALTA flag; Vessel Registration Identification IMO 9405978 (Malta) (vessel) [NPWMD].

123. SHABGOUN (f.k.a. ALVA; f.k.a. IRAN SABALAN; f.k.a. SABALAN) Container Ship 66,900DWT 53,453GRT Iran flag (IRISL); Former Vessel Flag Sierra Leone; Vessel Registration Identification IMO 9346524 (vessel) [NPWMD].

124. SHADFAR (f.k.a. ADMIRAL; f.k.a. DAIS; f.k.a. IRAN DAIS) Bulk Carrier 43,406DWT 25,768GRT Iran flag (IRISL); Former Vessel Flag Hong Kong; Vessel Registration Identification IMO 8309696 (vessel) [NPWMD].

125. SHAMIM (a.k.a. IRAN BUSHEHR; f.k.a. SILVER ZONE) Container Ship 30,146DWT 23,285GRT Iran flag (IRISL); Vessel Registration Identification IMO 9270658 (Iran) (vessel) [NPWMD].

126. SHAYAN 1 Container Ship 13,772DWT 9,957GRT IRAN flag (IRISL); Vessel Registration Identification IMO 9420356 (Iran) (vessel) [NPWMD].

127. SHERE (a.k.a. IRAN TABAS) Bulk Carrier 73,586DWT 40,166GRT Moldova flag (IRISL); Vessel Registration Identification IMO 9305192 (Moldova) (vessel) [NPWMD].

128. SILVER CRAFT (a.k.a. IRAN KERMAN) Container Ship 41,978DWT 36,014GRT Malta flag (IRISL); Vessel Registration Identification IMO 9209350 (vessel) [NPWMD].

129. SININ Bulk Carrier 52,466DWT 30,064GRT Tanzania flag (IRISL); Vessel Registration Identification IMO 9274941 (Tanzania) (vessel) [NPWMD].

130. SOBHAN Bunkering Tanker 750DWT 453GRT Iran flag (IRISL); Vessel Registration Identification IMO 9036935 (Iran) (vessel) [NPWMD].

131. SOMIA (f.k.a. IRAN TORKAMAN) General Cargo 7,004DWT 5,676GRT Iran flag (IRISL); Vessel Registration Identification IMO 9368015 (Iran) (vessel) [NPWMD].

132. SUN OCEAN Chemical/Products Tanker Panama flag; Vessel Registration Identification IMO 9408358 (vessel) [EO13645].

133. TABAN 1 Container Ship 13,734DWT 9,957GRT IRAN flag (IRISL); Vessel Registration Identification IMO 9420368 (Iran) (vessel) [NPWMD].

134. TABANDEH (f.k.a. ATRIUM; f.k.a. IRAN HAMZEH) Bulk Carrier 43,288DWT 25,770GRT Iran flag (IRISL); Former Vessel Flag Hong Kong; Vessel Registration Identification IMO 8320171 (vessel) [NPWMD].

135. TANDIS (f.k.a. IRAN ARDEBIL; f.k.a. SEPANTA) Container Ship 37,875DWT 27,681GRT Tanzania flag (IRISL); Vessel Registration Identification IMO 9284154 (Tanzania) (vessel) [NPWMD].

136. TARADIS (f.k.a. IRAN DARYA) General Cargo 3,850DWT 2,842GRT Iran flag (IRISL); Vessel Registration Identification IMO 9245304 (Iran) (vessel) [NPWMD].

137. TEEN Bulk Carrier 43,671DWT 26,828GRT Malta flag (IRISL); Vessel Registration Identification IMO 9101649 (vessel) [NPWMD].

138. TERESA (f.k.a. DAFFODIL; f.k.a. ELEVENTH OCEAN) Container Ship 41,962DWT 36,014GRT Sierra Leone flag (IRISL); Vessel Registration Identification IMO 9209324 (Sierra Leone) (vessel) [NPWMD].

139. TERMEH (f.k.a. ACENA; f.k.a. CELESTINA; f.k.a. IRAN KERMANSHAH) Bulk Carrier 75,249DWT 40,609GRT Iran flag (IRISL); Former Vessel Flag Bolivia; Vessel Registration Identification IMO 9213399 (vessel) [NPWMD].

140. TESS Crude Oil Tanker St. Kitts and Nevis flag; Vessel Registration Identification IMO 8913564 (vessel) [EO13645].

141. TONGHAM (a.k.a. IRAN BIRJAND) Bulk Carrier 73,664DWT 40,166GRT Tanzania flag (IRISL); Vessel Registration Identification IMO 9305219 (Tanzania) (vessel) [NPWMD].

142. UPPERCOURT (a.k.a. IRAN BOJNOORD) Bulk Carrier 73,518DWT 40,166GRT Tanzania flag (IRISL); Vessel Registration Identification IMO 9305207 (Tanzania) (vessel) [NPWMD].

143. VALERIAN (f.k.a. IRAN BRAVE; f.k.a. MARGRAVE) General Cargo 22,950DWT 16,620GRT Bolivia flag (IRISL); Vessel Registration Identification IMO 9051650 (Bolivia) (vessel) [NPWMD].

144. VALILI (a.k.a. IRAN ARAK) Container Ship 29,870DWT 23,200GRT MALTA flag (IRISL); Vessel Registration Identification IMO 9270646 (Malta) (vessel) [NPWMD].

145. VIANA (f.k.a. IRAN GHADEER) General Cargo 3,955DWT 3,638GRT Iran flag (IRISL); Vessel Registration Identification IMO 9010723 (vessel) [NPWMD].

146. VISTA (f.k.a. IRAN BASEER) General Cargo 3,955DWT 3,638GRT Iran flag (IRISL); Vessel Registration Identification IMO 9010711 (vessel) [NPWMD].

147. VOBSTER (a.k.a. IRAN PERSIAN GULF; a.k.a. PERSIAN GULF) Bulk Carrier 73,664DWT 40,166GRT Moldova flag (IRISL); Vessel Registration Identification IMO 9305221 (Moldova) (vessel) [NPWMD].

148. WARTA (f.k.a. ALIM; f.k.a. CHAIRMAN; f.k.a. IRAN ALIM) Bulk Carrier 53,100DWT 31,117GRT Iran flag (IRISL); Former Vessel Flag Tanzania; Vessel Registration Identification IMO 9465849 (vessel) [NPWMD].

149. YARAN (f.k.a. SAMIN 1) Container Ship 13,739DWT 9,957GRT Iran flag (IRISL); Vessel Registration Identification IMO 9420370 (Iran) (vessel) [NPWMD].

150. ZAR Unknown vessel type 800DWT 644GRT Iran flag (IRISL); Vessel Registration Identification IMO 9260160 (vessel) [NPWMD].

151. ZARSAN (f.k.a. IRAN MAZANDARAN; f.k.a. MAZANDARAN) Bulk Carrier 72,642DWT 39,424GRT Malta flag (IRISL); Vessel Registration Identification IMO 9193197 (Malta) (vessel) [NPWMD].

152. ZIVAR Unknown vessel type Iran flag (IRISL); Vessel Registration Identification IMO 9260172 (vessel) [NPWMD].

153. ZOMOROUD Bulk Carrier Iran flag (IRISL); Vessel Registration Identification IMO 9138044 (vessel) [NPWMD].

B. Removals of Sanctions Imposed Pursuant to Section 5(a) of the Iran Sanctions Act of 1996, as Amended (ISA), Section 212 of the Iran Threat Reduction and Syria Human Rights Act of 2012 (TRA), Section 1244(d)(1) of IFCA, and Section 4 of E.O. 13622

On January 16, 2015, the Secretary of State determined that the sanctions previously imposed pursuant to Section 5(a) of ISA, Section 212 of the TRA, or Section 4 of E.O. 13622 on the persons named below shall be discontinued. 81 FR 4082 (January 25, 2016). On the same day, OFAC gave effect to the Secretary of State's determination by removing the below-listed individual and 13 entities from the SDN List and/or the NS-ISA List,⁷ as appropriate: ⁸

⁷ OFAC implements the blocking sanction under Section 6 of ISA by adding persons subject to that sanction to the SDN List with the identifying tag “[ISA].” OFAC implements the non-blocking provisions of Section 6 of ISA by adding persons subject to those sanctions to the NS-ISA List. The names of persons subject to sanctions imposed pursuant to ISA are published in the Federal Register.

⁸ One individual and several entities listed in this Section I.B are persons whom OFAC has previously identified as meeting the definition of the term “Government of Iran” or the term “Iranian financial institution” as set forth in, respectively, Sections 560.304 and 560.324 of the ITSR. Such persons have been added to the E.O. 13599 List. See Section III below. For other persons not previously identified as meeting the definition of the term “Government of Iran” or the term “Iranian financial institution”, the determination to remove these individuals and entities from the SDN List and/or NS-ISA List does not represent a determination that they do not meet the definition of the term “Government of Iran” or the term “Iranian financial institution” as set forth in, respectively, Sections 560.304 and 560.324 of the ITSR. Persons on the E.O. 13599 List and any other person meeting the definitions of the term “Government of Iran” or the term “Iranian financial institution” remain persons whose property and interests in property are blocked if they are or come within the United States or if they are or come within the possession or control of a U.S. person, wherever located.

Individuals

1. CAMBIS, Dimitris (a.k.a. KAMPIS, Dimitrios Alexandros; a.k.a. “KLIMT, Gustav”); DOB 14 Oct 1963; Additional Sanctions Information—Subject to Secondary Sanctions (individual) [IRAN] [ISA].

Entities

1. CENTRAL INSURANCE OF IRAN (a.k.a. BIMEH MARKAZI; a.k.a. BIMEH MARKAZI IRAN; a.k.a. CENTRAL INSURANCE OF IR IRAN; a.k.a. CENTRAL INSURANCE OF THE ISLAMIC REPUBLIC OF IRAN), No. 223 N. East St., Africa Ave., Tehran, Iran; Additional Sanctions Information—Subject to Secondary Sanctions [IRAN-TRA].

2. FAL OIL COMPANY LTD., Sultan Al Awal Street (Sheikh Sultan Bin Awal Road), Near Mina Sea Port, Near Mina Khalid Road, Al Khan Area, Sharjah, Sharjah, United Arab Emirates; Telephone: 97165029999; Telephone: 97165280861; Telephone: 97165286666; Telephone: 97165283334; Telephone: 97165283323; Telephone: 97165022234; Telephone: 97165029999; Telephone: 97165029804; Telephone: 97165029914; Telephone: 97165029824; Telephone: 97165281737; Telephone: 97165029814; Telephone: 97165029825; Telephone: 97165029840; Telephone: 97165029863; Telephone: 97165029842; Telephone: 97165029819; Telephone: 97165029836; Telephone: 97168029939; Fax: 97165281437; Fax: 97165280861; United States financial institutions are prohibited from making loans or providing credits totaling more than $10,000,000 in any 12-month period to the person listed here unless such person is engaged in activities to relieve human suffering and the loans or credits are provided for such activities [NS-ISA].

3. FERLAND COMPANY LIMITED (a.k.a. FERLAND CO. LTD), 29 A Anna Komnini St., P.O. Box 2303, Nicosia, Cyprus; 5/7 Sabaneyev Most., Odessa, Ukraine; Executive Order 13645 Determination—Material Support [ISA] [FSE-IR] [E.O.13645] (Linked To: NATIONAL IRANIAN TANKER COMPANY).⁹

⁹ On Implementation Day, the Secretary of State and OFAC took administrative actions under, respectively, ISA and E.O.s 13608 and 13645, allowing for the removal of this entity from the SDN List and FSE List. See also Sections I.A and II.

4. IMPIRE SHIPPING COMPANY (a.k.a. IMPIRE SHIPPING; a.k.a. IMPIRE SHIPPING LIMITED), Greece; Additional Sanctions Information—Subject to Secondary Sanctions [IRAN] [ISA].¹⁰

¹⁰ On Implementation Day, the Secretary of State took administrative action under ISA, allowing for the removal of this entity from the SDN List. See Section I.B.

5. JAM PETROCHEMICAL COMPANY, Pars Special Economic Zone, Assaluyeh, Boushehr Province, Iran [E.O.13622].

6. KISH PROTECTION & INDEMNITY (a.k.a. KISH MUTUAL PROTECTION & INDEMNITY; a.k.a. KISH P&I), Flt No. 9, No. 78, Vaali Nejad Alley, Africa Blvd., Tehran, Iran; Additional Sanctions Information—Subject to Secondary Sanctions [IRAN-TRA].

7. KUO OIL (S) PTE. LIMITED, 200 Cantonment Road, #15-00 Southpoint, Singapore 089763, Singapore; Telephone: 6563184677; Fax: 6562243040; United States financial institutions are prohibited from making loans or providing credits totaling more than $10,000,000 in any 12-month period to the person listed here unless such person is engaged in activities to relieve human suffering and the loans or credits are provided for such activities [NS-ISA].

8. NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 41, 1st Floor, International House, The Parade, St Helier JE2 3QQ, Jersey; Petro Pars Building, Saadat Abad Ave, No 35, Farhang Blvd., Tehran, Iran; Additional Sanctions Information—Subject to Secondary Sanctions; all offices worldwide [IRAN] [NPWMD] [IRGC] [IFSR] (Linked To: NIOC INTERNATIONAL AFFAIRS (LONDON) LIMITED).

9. NIKSIMA FOOD AND BEVERAGE JLT, Dubai, United Arab Emirates [E.O.13622].

10. PETROCHEMICAL COMMERCIAL COMPANY INTERNATIONAL (a.k.a. PETROCHEMICAL COMMERCIAL COMPANY INTERNATIONAL LIMITED; a.k.a. PETROCHEMICAL COMMERCIAL COMPANY INTERNATIONAL LTD; a.k.a. PETROCHEMICAL TRADING COMPANY LIMITED; a.k.a. “PCCI”), 41, 1st Floor, International House, The Parade, St. Helier JE2 3QQ, Jersey; Ave. 54, Yimpash Business Center, No. 506, 507, Ashkhabad 744036, Turkmenistan; P.O. Box 261539, Jebel Ali, Dubai, United Arab Emirates; No. 21 End of 9th St, Gandi Ave, Tehran, Iran; 21, Africa Boulevard, Tehran, Iran; Additional Sanctions Information—Subject to Secondary Sanctions; Registration ID 77283 (Jersey); all offices worldwide [IRAN] [ISA].

11. ROYAL OYSTER GROUP, ROG Corporate Office, Royal Oyster General Trading LLC, P.O. Box 34299, Dubai, United Arab Emirates; Web site www.oystersgroup.com [ISA].

12. SPEEDY SHIP FZC (a.k.a. SEPAHAN OIL COMPANY; a.k.a. “SPD”), Room 206, 2nd Floor, Building W5B, Dubai Airport Free Zone, P.O. Box 54916, Dubai, United Arab Emirates [ISA].

13. ZHUHAI ZHENRONG COMPANY, Zhenrong Building, 121, DaTunli, Chaoyang District, Beijing 100108, China; Telephone: 861052925900; Fax: 861052025900; United States financial institutions are prohibited from making loans or providing credits totaling more than $10,000,000 in any 12-month period to the person listed here unless such person is engaged in activities to relieve human suffering and the loans or credits are provided for such activities [NS-ISA].

On January 16, 2016, the Secretary of State determined that the sanctions previously imposed on the entity named below pursuant to section 1244(d)(1) of IFCA should be waived. 81 FR 4082 (January 25, 2016). On the same day, OFAC gave effect to the Secretary of State's determination and removed this entity from the SDN List.

1. GOLDENTEX FZE, M05 Bin Thani Building, Sheikh Khalifa Bin Zayed Road, Bur Dubai, Dubai, United Arab Emirates [ISA].

C. Removals From the SDN List of Persons Whose Property and Interests in Property Are Blocked Solely Pursuant to E.O. 13599 and Section 560.211 of the ITSR

On January 16, 2015, OFAC determined that the circumstances no longer warrant the inclusion on the SDN List of the below-listed 13 individuals and 177 entities, as well as 74 vessels identified as blocked property of the foregoing. Notwithstanding their removal from the SDN List, the property and interests in property of the below-named persons, including the vessels identified below, remain blocked pursuant to E.O. 13599 and section 560.211 of the ITSR, and the names of these persons and vessels were added to the E.O. 13599 List on Implementation Day. See Section III below.

Individuals

1. BAHADORI, Masoud; nationality Iran; Additional Sanctions Information—Subject to Secondary Sanctions; Passport T12828814 (Iran); Managing Director, Petro Suisse Intertrade Company (individual) [IRAN].

2. BAZARGAN, Farzad; DOB 03 Jun 1956; Additional Sanctions Information—Subject to Secondary Sanctions; Passport D14855558 (Iran); alt. Passport Y21130717 (Iran); Managing Director, Hong Kong Intertrade Company (individual) [IRAN].

3. CAMBIS, Dimitris (a.k.a. KAMPIS, Dimitrios Alexandros; a.k.a. “KLIMT, Gustav”); DOB 14 Oct 1963; Additional Sanctions Information—Subject to Secondary Sanctions (individual) [IRAN] [ISA].¹¹

¹¹ On Implementation Day, the Secretary of State took administrative action under ISA, allowing for the removal of this individual from the SDN List. See Section I.B.

4. GHALEBANI, Ahmad (a.k.a. GHALEHBANI, Ahmad; a.k.a. QALEHBANI, Ahmad); DOB 01 Jan 1953 to 31 Dec 1954; Additional Sanctions Information—Subject to Secondary Sanctions; Passport H20676140 (Iran); Managing Director, National Iranian Oil Company; Director,Hong Kong Intertrade Company; Director, Petro Suisse Intertrade Company (individual) [IRAN].

5. JASHNSAZ, Seifollah (a.k.a. JASHN SAZ, Seifollah; a.k.a. JASHNSAZ, Seyfollah); DOB 22 Mar 1958; POB Behbahan, Iran; nationality Iran; Additional Sanctions Information—Subject to Secondary Sanctions; Passport R17589399 (Iran); alt. Passport T23700825 (Iran); Chairman & Director, Naftiran Intertrade Co. (NICO) Sarl; Chairman & Director, Naft Iran Intertrade Company Ltd.; Director, Hong Kong Intertrade Company; Chairman of the Board of Directors, Iranian Oil Company (U.K.) Limited; Chairman & Director, Petro Suisse Intertrade Company (individual) [IRAN].

6. MOHADDES, Seyed Mahmoud; DOB 07 Jun 1957; citizen Iran; Additional Sanctions Information—Subject to Secondary Sanctions; Managing Director, Iranian Oil Company (U.K.) Ltd. (individual) [IRAN].

7. MOINIE, Mohammad; DOB 04 Jan 1956; POB Brojerd, Iran; citizen United Kingdom; Additional Sanctions Information—Subject to Secondary Sanctions; Passport 301762718 (United Kingdom); Commercial Director, Naftiran Intertrade Company Sarl (individual) [IRAN].

8. NIKOUSOKHAN, Mahmoud; DOB 01 Jan 1961 to 31 Dec 1962; nationality Iran; Additional Sanctions Information—Subject to Secondary Sanctions; Passport U14624657 (Iran); Finance Director, National Iranian Oil Company; Director, Hong Kong Intertrade Company; Director, Petro Suisse Intertrade Company (individual) [IRAN].

9. PARSAEI, Reza; DOB 09 Aug 1963; citizen Iran; Additional Sanctions Information—Subject to Secondary Sanctions; Director, NIOC International Affairs (London) Ltd. (individual) [IRAN].

10. POURANSARI, Hashem; nationality Iran; Additional Sanctions Information—Subject to Secondary Sanctions; Passport B19488852 (Iran); Managing Director, Asia Energy General Trading (individual) [IRAN].

11. SEYYEDI, Seyed Nasser Mohammad; DOB 21 Apr 1963; citizen Iran; Additional Sanctions Information—Subject to Secondary Sanctions; Passport B14354139 (Iran); alt. Passport L18507193 (Iran); alt. Passport X95321252 (Iran); Managing Director, Sima General Trading (individual) [IRAN].

12. TABATABAEI, Seyyed Mohammad Ali Khatibi; DOB 27 Sep 1955; citizen Iran; Additional Sanctions Information—Subject to Secondary Sanctions; Director, NIOC International Affairs (London) Ltd.; Director of International Affairs, NIOC (individual) [IRAN].

13. ZIRACCHIAN ZADEH, Mahmoud; DOB 24 Jul 1959; citizen Iran; Additional Sanctions Information—Subject to Secondary Sanctions; Director, Iranian Oil Company (U.K.) Ltd. (individual) [IRAN].

Entities

1. AA ENERGY FZCO, United Arab Emirates; Additional Sanctions Information—Subject to Secondary Sanctions [IRAN].

2. AMIN INVESTMENT BANK (a.k.a. AMINIB), No. 51 Ghobadiyan Street, Valiasr Street, Tehran 1968917173, Iran; Web site http://www.aminib.com [IRAN].

3. ARASH SHIPPING ENTERPRISES LIMITED, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

4. ARTA SHIPPING ENTERPRISES LIMITED, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

5. ASAN SHIPPING ENTERPRISE LIMITED, 85 St. John Street, Valletta VLT 1165, Malta; Additional Sanctions Information—Subject to Secondary Sanctions; Telephone (356)(21241817); Fax (356)(25990640) [IRAN] (Linked To: NATIONAL IRANIAN TANKER COMPANY).

6. ASCOTEC HOLDING GMBH (f.k.a. AHWAZ STEEL COMMERCIAL & TECHNICAL SERVICE GMBH ASCOTEC; f.k.a. AHWAZ STEEL COMMERCIAL AND TECHNICAL SERVICE GMBH ASCOTEC; a.k.a. ASCOTEC GMBH), Tersteegen Strasse 10, Dusseldorf 40474, Germany; Additional Sanctions Information—Subject to Secondary Sanctions; Registration ID HRB 26136 (Germany); all offices worldwide [IRAN].

7. ASCOTEC JAPAN K.K., 8th Floor, Shiba East Building, 2-3-9 Shiba, Minato-ku, Tokyo 105-0014, Japan; Additional Sanctions Information—Subject to Secondary Sanctions; all offices worldwide [IRAN].

8. ASCOTEC MINERAL & MACHINERY GMBH (a.k.a. ASCOTEC MINERAL AND MACHINERY GMBH; f.k.a. BREYELLER KALTBAND GMBH), Tersteegenstr. 10, Dusseldorf 40474, Germany; Additional Sanctions Information—Subject to Secondary Sanctions; Registration ID HRB 55668 (Germany); all offices worldwide [IRAN].

9. ASCOTEC SCIENCE & TECHNOLOGY GMBH (a.k.a. ASCOTEC SCIENCE AND TECHNOLOGY GMBH), Tersteegenstrasse 10, Dusseldorf D 40474, Germany; Additional Sanctions Information—Subject to Secondary Sanctions; Registration ID HRB 58745 (Germany); all offices worldwide [IRAN].

10. ASCOTEC STEEL TRADING GMBH (a.k.a. ASCOTEC STEEL), Tersteegenstr. 10, Dusseldorf 40474, Germany; Georg-Glock-Str. 3, Dusseldorf 40474, Germany; Additional Sanctions Information—Subject to Secondary Sanctions; Registration ID HRB 48319 (Germany); all offices worldwide [IRAN].

11. ASIA ENERGY GENERAL TRADING (LLC), Suite 703, Twin Tower, Baniyas Street, Deira, Dubai, United Arab Emirates; Additional Sanctions Information—Subject to Secondary Sanctions [IRAN].

12. BANDAR IMAM PETROCHEMICAL COMPANY, North Kargar Street, Tehran, Iran; Mahshahr, Bandar Imam, Khuzestan Province, Iran; Additional Sanctions Information—Subject to Secondary Sanctions [IRAN].

13. BANK KESHAVARZI IRAN (a.k.a. AGRICULTURAL BANK OF IRAN; a.k.a. BANK KESHAVARZI), P.O. Box 14155-6395, 129 Patrice Lumumba St, Jalal-al-Ahmad Expressway, Tehran 14454, Iran; all offices worldwide [IRAN].

14. BANK MARKAZI JOMHOURI ISLAMI IRAN (a.k.a. BANK MARKAZI IRAN; a.k.a. CENTRAL BANK OF IRAN; a.k.a. CENTRAL BANK OF THE ISLAMIC REPUBLIC OF IRAN), P.O. Box 15875/7177, 144 Mirdamad Blvd., Tehran, Iran; 213 Ferdowsi Avenue, Tehran 11365, Iran; Additional Sanctions Information—Subject to Secondary Sanctions [IRAN].

15. BANK MASKAN (a.k.a. HOUSING BANK (OF IRAN)), P.O. Box 11365/5699, No 247 3rd Floor Fedowsi Ave, Cross Sarhang Sakhaei St, Tehran, Iran; all offices worldwide [IRAN].

16. BANK MELLAT, Head Office Bldg, 327 Taleghani Ave, Tehran 15817, Iran; 327 Forsat and Taleghani Avenue, Tehran 15817, Iran; P.O. Box 375010, Amiryan Str #6, P/N-24, Yerevan, Armenia; Keumkang Tower—13th & 14th Floor, 889-13 Daechi-Dong, Gangnam-Ku, Seoul 135-280, Korea, South; P.O. Box 79106425, Ziya Gokalp Bulvari No 12, Kizilay, Ankara, Ankara, Turkey; Cumhuriyet Bulvari No 88/A, PK 7103521, Konak, Izmir, Turkey; Buyukdere Cad, Cicek Sokak No 1—1 Levent, Levent, Istanbul, Turkey; Additional Sanctions Information—Subject to Secondary Sanctions; all offices worldwide [IRAN] [NPWMD] [IFSR].

17. BANK MELLI IRAN (a.k.a. BANK MELLI; a.k.a. NATIONAL BANK OF IRAN), P.O. Box 11365-171, Ferdowsi Avenue, Tehran, Iran; 43 Avenue Montaigne, Paris 75008, France; Room 704-6, Wheelock Hse, 20 Pedder St, Central, Hong Kong; Bank Melli Iran Bldg, 111 St 24, 929 Arasat, Baghdad, Iraq; P.O. Box 2643, Ruwi, Muscat 112, Oman; P.O. Box 2656, Liva Street, Abu Dhabi, United Arab Emirates; P.O. Box 248, Hamad Bin Abdulla St, Fujairah, United Arab Emirates; P.O. Box 1888, Clock Tower, Industrial Rd, Al Ain Club Bldg, Al Ain, Abu Dhabi, United Arab Emirates; P.O. Box 1894, Baniyas St, Deira, Dubai City, United Arab Emirates; P.O. Box 5270, Oman Street Al Nakheel, Ras Al- Khaimah, United Arab Emirates; P.O. Box 459, Al Borj St, Sharjah, United Arab Emirates; P.O. Box 3093, Ahmed Seddiqui Bldg, Khalid Bin El-Walid St, Bur-Dubai, Dubai City 3093, United Arab Emirates; P.O. Box 1894, Al Wasl Rd, Jumeirah, Dubai, United Arab Emirates; Postfach 112 129, Holzbruecke 2, D-20459, Hamburg, Germany; Nobel Ave. 14, Baku, Azerbaijan; Unit 1703-4, 17th Floor, Hong Kong Club Building, 3 A Chater Road Central, Hong Kong; Esteghlal St., Opposite to Otbeh Ibn Ghazvan Hall, Basrah, Iraq; Additional Sanctions Information—Subject to Secondary Sanctions; all offices worldwide [IRAN] [NPWMD] [IFSR].

18. BANK OF INDUSTRY AND MINE (OF IRAN) (a.k.a. BANK SANAD VA MADAN; a.k.a. “BIM”), P.O. Box 15875-4456, Firouzeh Tower, No 1655 Vali-Asr Ave after Chamran Crossroads, Tehran 1965643511, Iran; No 1655, Firouzeh Building, Mahmoudiye Street, Valiasr Ave, Tehran, Iran; Additional Sanctions Information—Subject to Secondary Sanctions; all offices worldwide [IRAN] [NPWMD] [IFSR].

19. BANK REFAH KARGARAN (a.k.a. BANK REFAH; a.k.a. WORKERS' WELFARE BANK (OF IRAN)), No. 40 North Shiraz Street, Mollasadra Ave, Vanak Sq, Tehran 19917, Iran; Additional Sanctions Information—Subject to Secondary Sanctions; all offices worldwide [IRAN] [NPWMD] [IFSR].

20. BANK SEPAH, Imam Khomeini Square, Tehran 1136953412, Iran; 64 Rue de Miromesnil, Paris 75008, France; Hafenstrasse 54, D-60327, Frankfurt am Main, Germany; Via Barberini 50, Rome, RM 00187, Italy; 17 Place Vendome, Paris 75008, France; Additional Sanctions Information—Subject to Secondary Sanctions; all offices worldwide [IRAN] [NPWMD] [IFSR].

21. BANK TEJARAT, P.O. Box 11365-5416, 152 Taleghani Avenue, Tehran 15994, Iran; 130, Zandi Alley, Taleghani Avenue, No 152, Ostad Nejat Ollahi Cross, Tehran 14567, Iran; 124-126 Rue de Provence, Angle 76 bd Haussman, Paris 75008, France; P.O. Box 734001, Rudaki Ave 88, Dushanbe 734001, Tajikistan; Office C208, Beijing Lufthansa Center No 50, Liangmaqiao Rd, Chaoyang District, Beijing 100016, China; c/o Europaisch-Iranische Handelsbank AG, Depenau 2, D-20095, Hamburg, Germany; P.O. Box 119871, 4th Floor, c/o Persia International Bank PLC, The Gate Bldg, Dubai City, United Arab Emirates; c/o Persia International Bank, 6 Lothbury, London EC2R 7HH, United Kingdom; SWIFT/BIC BTEJ IR TH; Additional Sanctions Information—Subject to Secondary Sanctions; all offices worldwide [IRAN] [NPWMD] [IFSR].

22. BANK TORGOVOY KAPITAL ZAO (a.k.a. TC BANK; a.k.a. TK BANK; a.k.a. TK BANK ZAO; a.k.a. TORGOVY KAPITAL (TK BANK); a.k.a. TRADE CAPITAL BANK; a.k.a. TRADE CAPITAL BANK (TC BANK); a.k.a. ZAO BANK TORGOVY KAPITAL), 3 Kozlova Street, Minsk 220005, Belarus; SWIFT/BIC BBTK BY 2X; Additional Sanctions Information—Subject to Secondary Sanctions; Registration ID 30 (Belarus); all offices worldwide [IRAN] [NPWMD] [IFSR].

23. BANK-E SHAHR, Sepahod Gharani, Corner of Khosro St., No. 147, Tehran, Iran [IRAN].

24. BEHSAZ KASHANE TEHRAN CONSTRUCTION CO. (a.k.a. BEHSAZ KASHANEH CO.), No. 40, East Street Journal, North Shiraz Street, Sadra Avenue, Tehran, Iran; Web site http://www.behsazco.ir; Additional Sanctions Information—Subject to Secondary Sanctions [IRAN].

25. BIMEH IRAN INSURANCE COMPANY (U.K.) LIMITED (a.k.a. BIUK), 4/5 Fenchurch Buildings, London EC3M 5HN, United Kingdom; Additional Sanctions Information—Subject to Secondary Sanctions; UK Company Number 01223433 (United Kingdom); all offices worldwide [IRAN].

26. BLUE TANKER SHIPPING SA, Care of Sambouk Shipping FCZ, Office 101, 1st Floor, FITCO Building No 3, Inside Fujairah Port, P.O. Box 50044, Fujairah, United Arab Emirates; Majuro MH, Marshall Islands; Liberia; Additional Sanctions Information—Subject to Secondary Sanctions [IRAN].

27. BOU ALI SINA PETROCHEMICAL COMPANY (a.k.a. BUALI SINA PETROCHEMICAL COMPANY), No. 17, 1st Floor, Daman Afshar St., Vanak Sq., Vali-e-Asr Ave, Tehran 19697, Iran; Petrochemical Special Economic Zone (PETZONE), Iran; Additional Sanctions Information—Subject to Secondary Sanctions [IRAN].

28. BREYELLER STAHL TECHNOLOGY GMBH & CO. KG (a.k.a. BREYELLER STAHL TECHNOLOGY GMBH AND CO. KG; f.k.a. ROETZEL-STAHL GMBH & CO. KG; f.k.a. ROETZEL-STAHL GMBH AND CO. KG), Josefstrasse 82, Nettetal 41334, Germany; Additional Sanctions Information—Subject to Secondary Sanctions; Registration ID HRA 4528 (Germany); all offices worldwide [IRAN].

29. CASPIAN MARITIME LIMITED, Fortuna Court, Block B, 284 Archbishop Makarios II Avenue, Limassol 3105, Cyprus; Additional Sanctions Information—Subject to Secondary Sanctions; Telephone (357)(25800000); Fax (357)(25588055) [IRAN] (Linked To: NATIONAL IRANIAN TANKER COMPANY).

30. COMMERCIAL PARS OIL CO., 9th Floor, No. 346, Mirdamad Avenue, Tehran, Iran; Additional Sanctions Information—Subject to Secondary Sanctions [IRAN].

31. CREDIT INSTITUTION FOR DEVELOPMENT, 53 Saanee, Jahan-e Koodak, Crossroads Africa St., Tehran, Iran [IRAN].

32. CYLINDER SYSTEM L.T.D. (a.k.a. CILINDER SISTEM D.O.O.; a.k.a. CILINDER SISTEM D.O.O. ZA PROIZVODNJU I USLUGE), Dr. Mile Budaka 1, Slavonski Brod 35000, Croatia; 1 Mile Budaka, Slavonski Brod 35000, Croatia; Web site http://www.csc-sb.hr; Additional Sanctions Information—Subject to Secondary Sanctions; Registration ID 050038884 (Croatia); Tax ID No. 27694384517 (Croatia) [IRAN].

33. DANESH SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

34. DAVAR SHIPPING CO LTD, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

35. DENA TANKERS FZE, Free Zone, P.O. Box 5232, Fujairah, United Arab Emirates; Additional Sanctions Information—Subject to Secondary Sanctions [IRAN] (Linked To: NATIONAL IRANIAN TANKER COMPANY).

36. DEY BANK (a.k.a. BANK-E DEY), Bokharest St., 1st St., No. 13, Tehran, Iran [IRAN].

37. EGHTESAD NOVIN BANK (a.k.a. BANK-E EGHTESAD NOVIN; a.k.a. EN BANK PJSC), Vali Asr Street, Above Vanak Circle, across Niayesh, Esfandiari Blvd., No. 24, Tehran, Iran; SWIFT/BIC BEGN IR TH [IRAN].

38. EUROPAISCH-IRANISCHE HANDELSBANK AG (f.k.a. DEUTSCH-IRANISCHE HANDELSBANK AG; a.k.a. EUROPAEISCH-IRANISCHE HANDELSBANK; a.k.a. EUROPAESCH-IRANISCHE HANDELSBANK AKTIENGESELLSCHAFT; a.k.a. GERMAN-IRANIAN TRADE BANK), Hamburg Head Office, Depenau 2, D-20095 Hamburg, P.O. Box 101304, D-20008 Hamburg, Hamburg, Germany; Kish Branch, Sanaee Avenue, P.O. Box 79415/148, Kish Island 79415, Iran; Tehran Branch, No. 1655/1, Valiasr Avenue, P.O. Box 19656 43 511, Tehran, Iran; Additional Sanctions Information—Subject to Secondary Sanctions; all offices worldwide [IRAN] [NPWMD] [IFSR].

39. EXECUTION OF IMAM KHOMEINI'S ORDER (a.k.a. EIKO; a.k.a. SETAD; a.k.a. SETAD EJRAEI EMAM; a.k.a. SETAD-E EJRAEI-E FARMAN-E HAZRAT-E EMAM; a.k.a. SETAD-E FARMAN-EJRAEI-YE EMAM), Khaled Stamboli St., Tehran, Iran; Additional Sanctions Information—Subject to Secondary Sanctions [IRAN].

40. EXPORT DEVELOPMENT BANK OF IRAN (a.k.a. BANK TOSEH SADERAT IRAN; a.k.a. BANK TOWSEEH SADERAT IRAN; a.k.a. BANK TOWSEH SADERAT IRAN; a.k.a. EDBI), Tose'e Tower, Corner of 15th St., Ahmed Qasir Ave., Argentine Square, Tehran, Iran; No. 129, 21's Khaled Eslamboli, No. 1 Building, Tehran, Iran; Export Development Building, Next to the 15th Alley, Bokharest Street, Argentina Square, Tehran, Iran; No. 26, Tosee Tower, Arzhantine Square, P.O. Box 15875-5964, Tehran 15139, Iran; No. 4, Gandi Ave., Tehran 1516747913, Iran; Additional Sanctions Information—Subject to Secondary Sanctions; Registration ID 86936 (Iran) issued 10 Jul 1991; all offices worldwide [IRAN] [NPWMD] [IFSR].

41. FUTURE BANK B.S.C. (a.k.a. BANK-E AL-MOSTAGHBAL; a.k.a. FUTURE BANK), P.O. Box 785, City Centre Building, Government Avenue, Manama, Bahrain; Block 304, City Centre Building, Building 199, Government Avenue, Road 383, Manama, Bahrain; Free Trade Zone, Sanaati-e Kish, Vilay-e Ferdos 2, Corner of Klinik-e Khanevadeh, No 1/5 and 3/5, Kish, Iran; Additional Sanctions Information—Subject to Secondary Sanctions; Business Registration Document #54514-1 (Bahrain) expires 09 Jun 2009; Trade License No. 13388 (Bahrain); All branches worldwide [IRAN] [NPWMD] [IFSR].

42. GARBIN NAVIGATION LTD, Care of Sambouk Shipping FCZ, Office 101, 1st Floor, FITCO Building No 3, Inside Fujairah Port, P.O. Box 50044, Fujairah, United Arab Emirates; 80 Broad Street, Monrovia, Liberia; Additional Sanctions Information—Subject to Secondary Sanctions [IRAN].

43. GHADIR INVESTMENT COMPANY, 341 West Mirdamad Boulevard, Tehran, Iran; P.O. Box 19696, Tehran, Iran; Web site http://www.ghadir-invest.com; Additional Sanctions Information—Subject to Secondary Sanctions [IRAN].

44. GHAED BASSIR PETROCHEMICAL PRODUCTS COMPANY (a.k.a. GHAED BASSIR), No. 15, Palizvani (7th) Street, Gandhi (South) Avenue, Tehran 1517655711, Iran; Km 10 of Khomayen Road, Golpayegan, Iran; Web site http://www.gbpc.net; Additional Sanctions Information—Subject to Secondary Sanctions [IRAN].

45. GHARZOLHASANEH RESALAT BANK, Biside the No. 1 Baghestan Alley, Saadat Abad Ave., Kaj Sq., Tehran, Iran; All offices worldwide [IRAN].

46. GHAVAMIN BANK (a.k.a. “GHAVAMIN FINANCIAL & CREDIT INS.”), No. 252 Milad Tower, Beginning of Africa Blvd., Argentina Sq, Tehran, Iran; All offices worldwide [IRAN].

47. GOLDEN RESOURCES TRADING COMPANY L.L.C. (a.k.a. “GRTC”), 9th Floor, Office No. 905, Khalid Al Attar Tower 1, Sheikh Zayed Road, After Crown Plaza Hotel, Al Wasl Area, Dubai, United Arab Emirates; Postal Box 34489, Dubai, United Arab Emirates; Postal Box 14358, Dubai, United Arab Emirates; Additional Sanctions Information—Subject to Secondary Sanctions [IRAN].

48. GRACE BAY SHIPPING INC, Care of Sambouk Shipping FCZ, 1st Floor, FITCO Building No 3, Inside Fujairah Port, P.O. Box 50044, Fujairah, United Arab Emirates; Trust Company Complex, Ajeltake Road, Ajeltake Island, Majuro MH96960, Marshall Islands; Additional Sanctions Information—Subject to Secondary Sanctions [IRAN].

49. HADI SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

50. HARAZ SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

51. HATEF SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

52. HEKMAT IRANIAN BANK (a.k.a. BANK-E HEKMAT IRANIAN), Argentine Circle, beginning of Africa St., Corner of 37th St., (Dara Cul-de-sac), No.26, Tehran, Iran [IRAN].

53. HERCULES INTERNATIONAL SHIP, Care of Sambouk Shipping FCZ, Office 101, 1st Floor, FITCO Building No 3, Inside Fujairah Port, P.O. Box 50044, Fujairah, United Arab Emirates; 80 Broad Street, Monrovia, Liberia; Additional Sanctions Information—Subject to Secondary Sanctions [IRAN].

54. HERMIS SHIPPING SA, Care of Sambouk Shipping FCZ, Office 101, 1st Floor, FITCO Building No 3, Inside Fujairah Port, P.O. Box 50044, Fujairah, United Arab Emirates; Panama City, Panama; Monrovia, Liberia; Additional Sanctions Information—Subject to Secondary Sanctions [IRAN].

55. HIRMAND SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

56. HODA SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

57. HOMA SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

58. HONAR SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

59. HONG KONG INTERTRADE COMPANY, Hong Kong; Additional Sanctions Information—Subject to Secondary Sanctions [IRAN].

60. HORMOZ OIL REFINING COMPANY, Next to the Current Bandar Abbas Refinery, Bandar Abbas City, Iran; Additional Sanctions Information—Subject to Secondary Sanctions [IRAN].

61. IFIC HOLDING AG (a.k.a. IHAG), Koenigsallee 60 D, Dusseldorf 40212, Germany; Additional Sanctions Information—Subject to Secondary Sanctions; Registration ID HRB 48032 (Germany); all offices worldwide [IRAN].

62. IHAG TRADING GMBH, Koenigsallee 60 D, Dusseldorf 40212, Germany; Additional Sanctions Information—Subject to Secondary Sanctions; Registration ID HRB 37918 (Germany); all offices worldwide [IRAN].

63. IMPIRE SHIPPING COMPANY (a.k.a. IMPIRE SHIPPING; a.k.a. IMPIRE SHIPPING LIMITED), Greece; Additional Sanctions Information—Subject to Secondary Sanctions [IRAN] [ISA].¹²

¹² On Implementation Day, the Secretary of State took administrative action under ISA, allowing for the removal of this entity from the SDN List. See Section I.B.

64. INDUSTRIAL DEVELOPMENT AND RENOVATION ORGANIZATION OF IRAN (a.k.a. IDRO; a.k.a. IRAN DEVELOPMENT & RENOVATION ORGANIZATION COMPANY; a.k.a. IRAN DEVELOPMENT AND RENOVATION ORGANIZATION COMPANY; a.k.a. SAWZEMANE GOSTARESH VA NOWSAZI SANAYE IRAN), Vali Asr Building, Jam e Jam Street, Vali Asr Avenue, Tehran 15815-3377, Iran; Additional Sanctions Information—Subject to Secondary Sanctions; all offices worldwide [IRAN].

65. INTRA CHEM TRADING GMBH (a.k.a. INTRA-CHEM TRADING CO. (GMBH)), Schottweg 3, Hamburg 22087, Germany; Additional Sanctions Information—Subject to Secondary Sanctions; Registration ID HRB48416 (Germany); all offices worldwide [IRAN].

66. IRAN & SHARGH COMPANY (a.k.a. IRAN AND EAST COMPANY; a.k.a. IRAN AND SHARGH COMPANY; a.k.a. IRANOSHARGH COMPANY; a.k.a. SHERKAT-E IRAN VA SHARGH), 827, North of Seyedkhandan Bridge, Shariati Street, P.O. Box 13185-1445, Tehran 16616, Iran; No. 41, Next to 23rd Alley, South Gandi St., Vanak Square, Tehran 15179, Iran; Web site http://www.iranoshargh.com; Additional Sanctions Information—Subject to Secondary Sanctions [IRAN].

67. IRAN & SHARGH LEASING COMPANY (a.k.a. IRAN AND EAST LEASING COMPANY; a.k.a. IRAN AND SHARGH LEASING COMPANY; a.k.a. SHERKAT-E LIZING-E IRAN VA SHARGH), 1st Floor, No. 33, Shahid Atefi Alley, Opposite Mellat Park, Vali-e-Asr Street, Tehran 1967933759, Iran; Web site http://www.isleasingco.com; Additional Sanctions Information—Subject to Secondary Sanctions [IRAN].

68. IRAN FOREIGN INVESTMENT COMPANY (a.k.a. IFIC), No. 4, Saba Blvd., Africa Blvd., Tehran 19177, Iran; P.O. Box 19395-6947, Tehran, Iran; Additional Sanctions Information—Subject to Secondary Sanctions; all offices worldwide [IRAN].

69. IRAN INSURANCE COMPANY (a.k.a. BIMEH IRAN), 107 Dr Fatemi Avenue, Tehran 14155/6363, Iran; Abdolaziz-Al-Masaeed Building, Sheikh Maktoom St., Deira, P.O. Box 2004, Dubai, United Arab Emirates; P.O. Box 1867, Al Ain, Abu Dhabi, United Arab Emirates; P.O. Box 3281, Abu Dhabi, United Arab Emirates; P.O. Box 1666, Sharjah, United Arab Emirates; P.O. Box 849, Ras-Al-Khaimah, United Arab Emirates; P.O. Box 417, Muscat 113, Oman; P.O. Box 676, Salalah 211, Oman; P.O. Box 995, Manama, Bahrain; Al-Lami Center, Ali-Bin-Abi Taleb St. Sharafia, P.O. Box 11210, Jeddah 21453, Saudi Arabia; Al Alia Center, Salaheddine Rd., Al Malaz, P.O. Box 21944, Riyadh 11485, Saudi Arabia; Al Rajhi Bldg., 3rd Floor, Suite 23, Dhahran St., P.O. Box 1305, Dammam 31431, Saudi Arabia; Additional Sanctions Information—Subject to Secondary Sanctions; all offices worldwide [IRAN].

70. IRAN PETROCHEMICAL COMMERCIAL COMPANY (a.k.a. PETROCHEMICAL COMMERCIAL COMPANY; a.k.a. SHERKATE BASARGANI PETROCHEMIE (SAHAMI KHASS); a.k.a. SHERKATE BAZARGANI PETRCHEMIE; a.k.a. “IPCC”; a.k.a. “PCC”), No. 1339, Vali Nejad Alley, Vali-e-Asr St., Vanak Sq., Tehran, Iran; INONU CAD. SUMER Sok., Zitas Bloklari C.2 Bloc D.H, Kozyatagi, Kadikoy, Istanbul, Turkey; Topcu Ibrahim Sokak No: 13 D: 7 Icerenkoy-Kadikoy, Istanbul, Turkey; 99-A, Maker Tower F, 9th Floor, Cuffe Parade, Colabe, Mumbai 400 005, India; No. 1014, Doosan We've Pavilion, 58, Soosong-Dong, Jongno-Gu, Seoul, Korea, South; Office No. 707, No. 10, Chao Waidajie, Chao Tang District, Beijing 100020, China; Additional Sanctions Information—Subject to Secondary Sanctions; all offices worldwide [IRAN].

71. IRAN ZAMIN BANK (a.k.a. BANK-E IRAN ZAMIN), Seyyed Jamal-oldin Asadabadi St., Corner of 68th St., No. 472, Tehran, Iran [IRAN].

72. IRANIAN MINES AND MINING INDUSTRIES DEVELOPMENT AND RENOVATION ORGANIZATION (a.k.a. IMIDRO; a.k.a. IRAN MINING INDUSTRIES DEVELOPMENT AND RENOVATION ORGANIZATION; a.k.a. IRANIAN MINES AND MINERAL INDUSTRIES DEVELOPMENT AND RENOVATION), No. 39, Sepahbod Gharani Avenue, Ferdousi Square, Tehran, Iran; Additional Sanctions Information—Subject to Secondary Sanctions; all offices worldwide [IRAN].

73. IRANIAN OIL COMPANY (U.K.) LIMITED (a.k.a. IOC UK LTD), Riverside House, Riverside Drive, Aberdeen AB11 7LH, United Kingdom; Additional Sanctions Information—Subject to Secondary Sanctions; UK Company Number 01019769 (United Kingdom); all offices worldwide [IRAN].

74. IRASCO S.R.L. (a.k.a. IRASCO ITALY), Via Di Francia 3, Genoa 16149, Italy; Additional Sanctions Information—Subject to Secondary Sanctions; Registration ID GE 348075 (Italy); all offices worldwide [IRAN].

75. ISLAMIC REGIONAL COOPERATION BANK (a.k.a. BANK-E TAAWON MANTAGHEEY-E ESLAMI; a.k.a. REGIONAL COOPERATION OF THE ISLAMIC BANK FOR DEVELOPMENT & INVESTMENT), Building No. 59, District 929, Street No. 17, Arsat Al-Hindia, Al Masbah, Baghdad, Iraq; Tohid Street, Before Tohid Circle, No. 33, Upper Level of Eghtesad-e Novin Bank, Tehran 1419913464, Iran; SWIFT/BIC RCDF IQ BA [IRAN].

76. JOINT IRAN-VENEZUELA BANK (a.k.a. BANK MOSHTAREK-E IRAN VENEZUELA), Ahmad Ghasir St. (Bokharest), Corner of 15th St., Tose Tower, No.44-46, Tehran 1013830711, Iran [IRAN].

77. JUPITER SEAWAYS SHIPPING, Care of Sambouk Shipping FCZ, Office 101, 1st Floor, FITCO Building No 3, Inside Fujairah Port, P.O. Box 50044, Fujairah, United Arab Emirates; 80 Broad Street, Monrovia, Liberia; Additional Sanctions Information—Subject to Secondary Sanctions [IRAN].

78. KAFOLATBANK (a.k.a. CJSC KAFOLATBANK), Apartment 4/1, Academics Rajabovs Street, Dushanbe, Tajikistan; SWIFT/BIC KACJ TJ 22; All offices worldwide [IRAN].

79. KALA LIMITED (a.k.a. KALA NAFT LONDON LTD), NIOC House, 4 Victoria Street, Westminster, London SW1H 0NE, United Kingdom; Additional Sanctions Information—Subject to Secondary Sanctions; UK Company Number 01517853 (United Kingdom); all offices worldwide [IRAN].

80. KALA PENSION TRUST LIMITED, C/O Kala Limited, N.I.O.C. House, 4 Victoria Street, London SW1H 0NE, United Kingdom; Additional Sanctions Information—Subject to Secondary Sanctions; UK Company Number 01573317 (United Kingdom); all offices worldwide [IRAN].

81. KARAFARIN BANK (a.k.a. BANK-E KARAFARIN), Zafar St. No. 315, Between Vali Asr and Jordan, Tehran, Iran; SWIFT/BIC KBID IR TH [IRAN].

82. KASB INTERNATIONAL LLC (a.k.a. FIRST FURAT TRADING LLC), 10th Floor, Citi Bank Building, Oud Metha Road, Oud Metha, Dubai, United Arab Emirates; Additional Sanctions Information—Subject to Secondary Sanctions; Telephone Number: (971) (4) (3248000) [IRAN].

83. KHAVARMIANEH BANK (a.k.a. MIDDLE EAST BANK), No. 22, Second Floor Sabounchi St., Shahid Beheshti Ave., Tehran, Iran; SWIFT/BIC KHMI IR TH; All offices worldwide [IRAN].

84. KISH INTERNATIONAL BANK (a.k.a. KISH INTERNATIONAL BANK OFFSHORE COMPANY PJS), NBO-9, Andisheh Blvd., Sanayi Street, Kish Island, Iran; All offices worldwide [IRAN].

85. KONING MARINE CORP, Care of Sambouk Shipping FCZ, Office 101, 1st Floor, FITCO Building No 3, Inside Fujairah Port, P.O. Box 50044, Fujairah, United Arab Emirates; 80 Broad Street, Monrovia, Liberia; Additional Sanctions Information—Subject to Secondary Sanctions [IRAN].

86. MACHINE SAZI ARAK CO. LTD. (a.k.a. MACHINE SAZI ARAK COMPANY P J S C; a.k.a. MACHINE SAZI ARAK SSA; a.k.a. MASHIN SAZI ARAK; a.k.a. “MSA”), P.O. Box 148, Arak 351138, Iran; Arak, Km 4 Tehran Road, Arak, Markazi Province, Iran; No. 1, Northern Kargar Street, Tehran 14136, Iran; Additional Sanctions Information—Subject to Secondary Sanctions; all offices worldwide [IRAN].

87. MAHAB GHODSS CONSULTING ENGINEERING COMPANY (a.k.a. MAHAB GHODSS CONSULTING ENGINEERING CO.; a.k.a. MAHAB GHODSS CONSULTING ENGINEERS SSK; a.k.a. MAHAB QODS ENGINEERING CONSULTING CO.), No. 17, Dastgerdy Avenue, Takharestan Alley, 19395-6875, Tehran 1918781185, Iran; 16 Takharestan Alley, Dastgerdy Avenue, P.O. Box 19395-6875, Tehran 19187 81185, Iran; Additional Sanctions Information—Subject to Secondary Sanctions; Registration ID 48962 (Iran) issued 1983; all offices worldwide [IRAN].

88. MARJAN PETROCHEMICAL COMPANY (a.k.a. MARJAN METHANOL COMPANY), Ground Floor, No. 39, Meftah/Garmsar West Alley, Shiraz (South) Street, Molla Sadra Avenue, Tehran, Iran; Post Office Box 19935-561, Tehran, Iran; Additional Sanctions Information—Subject to Secondary Sanctions [IRAN].

89. MCS ENGINEERING (a.k.a. EFFICIENT PROVIDER SERVICES GMBH), Karlstrasse 21, Dinslaken, Nordrhein-Westfalen 46535, Germany; Additional Sanctions Information—Subject to Secondary Sanctions [IRAN].

90. MCS INTERNATIONAL GMBH (a.k.a. MANNESMAN CYLINDER SYSTEMS; a.k.a. MCS TECHNOLOGIES GMBH), Karlstrasse 23-25, Dinslaken, Nordrhein-Westfalen 46535, Germany; Web site http://www.mcs-tch.com; Additional Sanctions Information—Subject to Secondary Sanctions [IRAN].

91. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran [IRAN].

92. MEHRAN SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

93. MELLAT INSURANCE COMPANY, No. 48, Haghani Street, Vanak Square, Before Jahan-Kodak Cross, Tehran 1517973913, Iran; No. 40, Shahid Haghani Express Way, Vanak Square, Tehran, Iran; No. 9, Niloofar Street, Sharabyani Avenue, Taavon Boulevard, Shahr-e-Ziba, Tehran, Iran; 72 Hillview Court, Woking, Surrey GU22 7QW, United Kingdom; No. 697 Saeeidi Alley, Crossroads College, Enghelab St., Tehran, Iran; Web site http://www.mellatinsurance.com; Additional Sanctions Information—Subject to Secondary Sanctions [IRAN].

94. MERSAD SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

95. METAL & MINERAL TRADE S.A.R.L. (a.k.a. METAL & MINERAL TRADE (MMT); a.k.a. METAL AND MINERAL TRADE (MMT); a.k.a. METAL AND MINERAL TRADE S.A.R.L.; a.k.a. MMT LUXEMBURG; a.k.a. MMT SARL), 11b, Boulevard Joseph II L-1840, Luxembourg; Additional Sanctions Information—Subject to Secondary Sanctions; Registration ID B 59411 (Luxembourg); all offices worldwide [IRAN].

96. MINAB SHIPPING COMPANY LIMITED (f.k.a. MIGHAT SHIPPING COMPANY LIMITED), Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

97. MINES AND METALS ENGINEERING GMBH (a.k.a. “M.M.E.”), Georg-Glock-Str. 3, Dusseldorf 40474, Germany; Additional Sanctions Information—Subject to Secondary Sanctions; Registration ID HRB 34095 (Germany); all offices worldwide [IRAN].

98. MOBIN PETROCHEMICAL COMPANY, South Pars Special Economic Energy Zone, Postal Box: 75391-418, Assaluyeh, Bushehr, Iran; P.O. Box, Mashhad, Iran; Additional Sanctions Information—Subject to Secondary Sanctions [IRAN].

99. MODABER (a.k.a. MODABER INVESTMENT COMPANY; a.k.a. TADBIR INDUSTRIAL HOLDING COMPANY); Additional Sanctions Information—Subject to Secondary Sanctions [IRAN].

100. MONSOON SHIPPING LTD, Care of Sambouk Shipping FCZ, Office 101, 1st Floor, FITCO Building No 3, Inside Fujairah Port, P.O. Box 50044, Fujairah, United Arab Emirates; Valletta, Malta; Trust Company Complex, Ajeltake Road, Ajeltake Island, Majuro MH96960, Marshall Islands; Additional Sanctions Information—Subject to Secondary Sanctions [IRAN].

101. MSP KALA NAFT CO. TEHRAN (a.k.a. KALA NAFT CO SSK; a.k.a. KALA NAFT COMPANY LTD; a.k.a. KALA NAFT TEHRAN; a.k.a. KALA NAFT TEHRAN COMPANY; a.k.a. KALAYEH NAFT CO; a.k.a. M.S.P.-KALA; a.k.a. MANUFACTURING SUPPORT & PROCUREMENT CO.-KALA NAFT; a.k.a. MANUFACTURING SUPPORT AND PROCUREMENT (M.S.P.) KALA NAFT CO. TEHRAN; a.k.a. MANUFACTURING, SUPPORT AND PROCUREMENT KALA NAFT COMPANY; a.k.a. MSP KALA NAFT TEHRAN COMPANY; a.k.a. MSP KALANAFT; a.k.a. MSP-KALANAFT COMPANY; a.k.a. SHERKAT SAHAMI KHASS KALA NAFT; a.k.a. SHERKAT SAHAMI KHASS POSHTIBANI VA TEHIYEH KALAYE NAFT TEHRAN; a.k.a. SHERKATE POSHTIBANI SAKHT VA TAHEIH KALAIE NAFTE TEHRAN), 242 Sepahbod Gharani Street, Karim Khan Zand Bridge, Corner Kalantari Street, 8th Floor, P.O. Box 15815-1775/15815-3446, Tehran 15988, Iran; Building No. 226, Corner of Shahid Kalantari Street, Sepahbod Gharani Avenue, Karimkhan Avenue, Tehran 1598844815, Iran; No. 242, Shahid Kalantari St., Near Karimkhan Bridge, Sepahbod Gharani Avenue, Tehran, Iran; Head Office Tehran, Sepahbod Gharani Ave., P.O. Box 15815/1775 15815/3446, Tehran, Iran; P.O. Box 2965, Sharjah, United Arab Emirates; 333 7th Ave SW #1102, Calgary, AB T2P 2Z1, Canada; Chekhov St., 24.2, AP 57, Moscow, Russia; Room No. 704—No. 10 Chao Waidajie Chao Yang District, Beijing 10020, China; Sanaee Ave., P.O. Box 79417-76349, N.I.O.C., Kish, Iran; 10th Floor, Sadaf Tower, Kish Island, Iran; Additional Sanctions Information—Subject to Secondary Sanctions; all offices worldwide [IRAN].

102. N.I.T.C. REPRESENTATIVE OFFICE (a.k.a. NATIONAL IRANIAN TANKER COMPANY), Droogdokweg 71, Rotterdam 3089 JN, Netherlands; Email Address nitcrdam@tiscali.net; Additional Sanctions Information—Subject to Secondary Sanctions; Telephone +31 010-4951863; Telephone +31 10-4360037; Fax +31 10-4364096 [IRAN] (Linked To: NATIONAL IRANIAN TANKER COMPANY).

103. NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 41, 1st Floor, International House, The Parade, St Helier JE2 3QQ, Jersey; Petro Pars Building, Saadat Abad Ave, No 35, Farhang Blvd., Tehran, Iran; Additional Sanctions Information—Subject to Secondary Sanctions; all offices worldwide [IRAN] [NPWMD] [IRGC] [IFSR] (Linked To: NIOC INTERNATIONAL AFFAIRS (LONDON) LIMITED).

104. NAFTIRAN INTERTRADE CO. (NICO) SARL (a.k.a. NICO), 6, Avenue de la Tour-Haldimand, Pully, VD 1009, Switzerland; Additional Sanctions Information—Subject to Secondary Sanctions; all offices worldwide [IRAN].

105. NAFTIRAN TRADING SERVICES CO. (NTS) LIMITED, 47 Queen Anne Street, London W1G 9JG, United Kingdom; 6th Floor NIOC Ho, 4 Victoria St, London SW1H 0NE, United Kingdom; Additional Sanctions Information—Subject to Secondary Sanctions; UK Company Number 02600121 (United Kingdom); all offices worldwide [IRAN].

106. NATIONAL IRANIAN OIL COMPANY PTE LTD, 7 Temasek Boulevard #07-02, Suntec Tower One 038987, Singapore; Additional Sanctions Information—Subject to Secondary Sanctions; Registration ID 199004388C (Singapore); all offices worldwide [IRAN].

107. NATIONAL IRANIAN OIL COMPANY (a.k.a. NIOC), Hafez Crossing, Taleghani Avenue, P.O. Box 1863 and 2501, Tehran, Iran; National Iranian Oil Company Building, Taleghani Avenue, Hafez Street, Tehran, Iran; Web site www.nioc.ir; IFCA Determination—Involved in Energy Sector; Additional Sanctions Information—Subject to Secondary Sanctions; all offices worldwide [IRAN] [NPWMD] [IRGC] [IFSR].¹³

¹³ See Note 4 above.

108. NATIONAL IRANIAN TANKER COMPANY (a.k.a. NITC), NITC Building, 67-88, Shahid Atefi Street, Africa Avenue, Tehran, Iran; Web site www.nitc.co.ir; Email Address info@nitc.co.ir; alt. Email Address administrator@nitc.co.ir; IFCA Determination—Involved in the Shipping Sector; Additional Sanctions Information—Subject to Secondary Sanctions; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN].¹⁴

¹⁴ See Note 4 above.

109. NATIONAL IRANIAN TANKER COMPANY LLC (a.k.a. NATIONAL IRANIAN TANKER COMPANY LLC SHARJAH BRANCH; a.k.a. NITC SHARJAH), Al Wahda Street, Street No. 4, Sharjah, United Arab Emirates; P.O. Box 3267, Sharjah, United Arab Emirates; Web site http://nitcsharjah.com/index.html; Additional Sanctions Information—Subject to Secondary Sanctions; Telephone +97165030600; Telephone + 97165749996; Telephone +971506262258; Fax +97165394666; Fax +97165746661 [IRAN] (Linked To: NATIONAL IRANIAN TANKER COMPANY).

110. NATIONAL PETROCHEMICAL COMPANY (a.k.a. “NPC”), No. 104, North Sheikh Bahaei Blvd., Molla Sadra Ave., Tehran, Iran; Additional Sanctions Information—Subject to Secondary Sanctions; all offices worldwide [IRAN].

111. NICO ENGINEERING LIMITED, 41, 1st Floor, International House, The Parade, St. Helier JE2 3QQ, Jersey; Additional Sanctions Information—Subject to Secondary Sanctions; Registration ID 75797 (Jersey); all offices worldwide [IRAN].

112. NIOC INTERNATIONAL AFFAIRS (LONDON) LIMITED, NIOC House, 4 Victoria Street, London SW1H 0NE, United Kingdom; Additional Sanctions Information—Subject to Secondary Sanctions; UK Company Number 02772297 (United Kingdom); all offices worldwide [IRAN].

113. NOOR ENERGY (MALAYSIA) LTD., Labuan, Malaysia; Additional Sanctions Information—Subject to Secondary Sanctions; Company Number LL08318 [IRAN].

114. NOURI PETROCHEMICAL COMPANY (a.k.a. BORZUYEH PETROCHEMICAL COMPANY; a.k.a. NOURI PETROCHEMICAL COMPLEX), Pars Special Economic Energy Zone, Assaluyeh Port, Bushehr, Iran; Additional Sanctions Information—Subject to Secondary Sanctions [IRAN].

115. NPC INTERNATIONAL LIMITED (a.k.a. N P C INTERNATIONAL LTD; a.k.a. NPC INTERNATIONAL COMPANY), 5th Floor NIOC House, 4 Victoria Street, London SW1H 0NE, United Kingdom; Additional Sanctions Information—Subject to Secondary Sanctions; UK Company Number 02696754 (United Kingdom); all offices worldwide [IRAN].

116. OIL INDUSTRY INVESTMENT COMPANY (a.k.a. “O.I.I.C.”), No. 83, Sepahbod Gharani Street, Tehran, Iran; Web site http://www.oiic-ir.com; Additional Sanctions Information—Subject to Secondary Sanctions [IRAN].

117. OMID REY CIVIL & CONSTRUCTION COMPANY (a.k.a. OMID DEVELOPMENT AND CONSTRUCTION; a.k.a. OMID REY CIVIL AND CONSTRUCTION COMPANY; a.k.a. OMID REY RENOVATION AND DEVELOPMENT CO.); Web site http://www.omidrey.com; Additional Sanctions Information—Subject to Secondary Sanctions [IRAN].

118. ONE CLASS PROPERTIES (PTY) LTD. (a.k.a. ONE CLASS INCORPORATED), Cape Town, South Africa; Additional Sanctions Information—Subject to Secondary Sanctions [IRAN].

119. ONE VISION INVESTMENTS 5 (PTY) LTD. (a.k.a. ONE VISION 5), 3rd Floor, Tygervalley Chambers, Bellville, Cape Town 7530, South Africa; Canal Walk, P.O. Box 17, Century City, Milnerton 7446, South Africa; Additional Sanctions Information—Subject to Secondary Sanctions; Registration ID 2002/022757/07 (South Africa) [IRAN].

120. ONERBANK ZAO (a.k.a. EFTEKHAR BANK; a.k.a. HONOR BANK; a.k.a. HONORBANK; a.k.a. HONORBANK ZAO; a.k.a. ONER BANK; a.k.a. ONERBANK; a.k.a. ONER-BANK), Ulitsa Klary Tsetkin 51, Minsk 220004, Belarus; SWIFT/BIC HNRBBY2X; Registration ID 807000227 (Belarus) issued 16 Oct 2009; all offices worldwide [IRAN].

121. P.C.C. (SINGAPORE) PRIVATE LIMITED (a.k.a. P.C.C. SINGAPORE BRANCH; a.k.a. PCC SINGAPORE PTE LTD), 78 Shenton Way, #08-02 079120, Singapore; 78 Shenton Way, 26-02A Lippo Centre 079120, Singapore; Additional Sanctions Information—Subject to Secondary Sanctions; Registration ID 199708410K (Singapore); all offices worldwide [IRAN].

122. PARDIS INVESTMENT COMPANY (a.k.a. SHERKAT-E SARMAYEGOZARI-E PARDIS), Iran; Unit D4 and C4, 4th Floor, Building 29 Africa, Corner of 25th Street, Africa Boulevard, Tehran, Iran; Additional Sanctions Information—Subject to Secondary Sanctions [IRAN].

123. PARS MCS (a.k.a. PARS MCS CO.; a.k.a. PARS MCS COMPANY), 2nd Floor, No. 4, Sasan Dead End, Afriqa Avenue, After Esfandiar, Crossroads, Tehran, Iran; No. 5 Sasan Alley, Atefi Sharghi St., Afrigha Boulevard, Tehran, Iran; Oshtorjan Industrial Zone, Zob-e Ahan Highway, Isafahan, Iran; Web site http://www.parsmcs.com; Additional Sanctions Information—Subject to Secondary Sanctions [IRAN].

124. PARS OIL AND GAS COMPANY (a.k.a. POGC), No. 133, Side of Parvin Etesami Alley, opposite Sazman Ab—Dr. Fatemi Avenue, Tehran, Iran; No. 1 Parvin Etesami Street, Fatemi Avenue, Tehran, Iran; Additional Sanctions Information—Subject to Secondary Sanctions [IRAN].

125. PARS OIL CO. (a.k.a. PARS OIL; a.k.a. SHERKAT NAFT PARS SAHAMI AAM), Iran; No. 346, Pars Oil Company Building, Modarres Highway, East Mirdamad Boulevard, Tehran 1549944511, Iran; Postal Box 14155-1473, Tehran 159944511, Iran; Web site http://www.parsoilco.com; Additional Sanctions Information—Subject to Secondary Sanctions [IRAN].

126. PARS PETROCHEMICAL COMPANY, Pars Special Economic Energy Zone, P.O. Box 163-75391, Assaluyeh, Bushehr, Iran; Additional Sanctions Information—Subject to Secondary Sanctions [IRAN].

127. PARS PETROCHEMICAL SHIPPING COMPANY, 1st Floor, No. 19, Shenasa Street, Vali E Asr Avenue, Tehran, Iran; Web site www.parsshipping.com; Additional Sanctions Information—Subject to Secondary Sanctions [IRAN] (Linked To: NATIONAL IRANIAN TANKER COMPANY).

128. PARSIAN BANK (a.k.a. BANK-E PARSIAN), Keshavarz Blvd., No. 65, Corner of Shahid Daemi St., P.O. Box 141553163, Tehran 1415983111, Iran; No. 4 Zarafshan St, Farahzadi Blvd., Shahrak-e Ghods, 1467793811, Tehran, Iran; SWIFT/BIC BKPA IR TH [IRAN].

129. PASARGAD BANK (a.k.a. BANK-E PASARGAD), Valiasr St., Mirdamad St., No. 430, Tehran, Iran; SWIFT/BIC BKBP IR TH [IRAN].

130. PERSIA OIL & GAS INDUSTRY DEVELOPMENT CO. (a.k.a. PERSIA OIL AND GAS INDUSTRY DEVELOPMENT CO.; a.k.a. TOSE SANAT-E NAFT VA GAS PERSIA), 7th Floor, No. 346, Mirdamad Avenue, Tehran, Iran; Ground Floor, No. 14, Saba Street, Africa Boulevard, Tehran, Iran; Web site http://www.pogidc.com; Additional Sanctions Information—Subject to Secondary Sanctions [IRAN].

131. PETRO ENERGY INTERTRADE COMPANY, Dubai, United Arab Emirates; Additional Sanctions Information—Subject to Secondary Sanctions [IRAN].

132. PETRO ROYAL FZE, United Arab Emirates; Additional Sanctions Information—Subject to Secondary Sanctions [IRAN].

133. PETRO SUISSE INTERTRADE COMPANY SA, 6 Avenue de la Tour-Haldimand, Pully 1009, Switzerland; Additional Sanctions Information—Subject to Secondary Sanctions [IRAN].

134. PETROCHEMICAL COMMERCIAL COMPANY (U.K.) LIMITED (a.k.a. PCC (UK); a.k.a. PCC UK; a.k.a. PCC UK LTD), 4 Victoria Street, London SW1H 0NE, United Kingdom; Additional Sanctions Information—Subject to Secondary Sanctions; UK Company Number 02647333 (United Kingdom); all offices worldwide [IRAN].

135. PETROCHEMICAL COMMERCIAL COMPANY FZE (a.k.a. PCC FZE), 1703, 17th Floor, Dubai World Trade Center Tower, Sheikh Zayed Road, Dubai, United Arab Emirates; Office No. 99-A, Maker Tower “F” 9th Floor Cutte Pavade, Colabe, Mumbai 700005, India; Additional Sanctions Information—Subject to Secondary Sanctions; all offices worldwide [IRAN].

136. PETROCHEMICAL COMMERCIAL COMPANY INTERNATIONAL (a.k.a. PETROCHEMICAL COMMERCIAL COMPANY INTERNATIONAL LIMITED; a.k.a. PETROCHEMICAL COMMERCIAL COMPANY INTERNATIONAL LTD; a.k.a. PETROCHEMICAL TRADING COMPANY LIMITED; a.k.a. “PCCI”), 41, 1st Floor, International House, The Parade, St. Helier JE2 3QQ, Jersey; Ave. 54, Yimpash Business Center, No. 506, 507, Ashkhabad 744036, Turkmenistan; P.O. Box 261539, Jebel Ali, Dubai, United Arab Emirates; No. 21 End of 9th St, Gandi Ave, Tehran, Iran; 21, Africa Boulevard, Tehran, Iran; Additional Sanctions Information—Subject to Secondary Sanctions; Registration ID 77283 (Jersey); all offices worldwide [IRAN] [ISA].¹⁵

¹⁵ On Implementation Day, the Secretary of State took administrative action under ISA, allowing for the removal of this entity from the SDN List. See Section I.B.

137. PETROIRAN DEVELOPMENT COMPANY (PEDCO) LIMITED (a.k.a. PETRO IRAN DEVELOPMENT COMPANY; a.k.a. “PEDCO”), 41, 1st Floor, International House, The Parade, St. Helier JE2 3QQ, Jersey; National Iranian Oil Company—PEDCO, P.O. Box 2965, Al Bathaa Tower, 9th Floor, Apt. 905, Al Buhaira Corniche, Sharjah, United Arab Emirates; P.O. Box 15875-6731, Tehran, Iran; No. 22, 7th Lane, Khalid Eslamboli Street, Shahid Beheshti Avenue, Tehran, Iran; No. 102, Next to Shahid Amir Soheil Tabrizian Alley, Shahid Dastgerdi (Ex Zafar) Street, Shariati Street, Tehran 19199/45111, Iran; Kish Harbour, Bazargan Ferdos Warehouses, Kish Island, Iran; Additional Sanctions Information—Subject to Secondary Sanctions; Registration ID 67493 (Jersey); all offices worldwide [IRAN].

138. PETROPARS INTERNATIONAL FZE (a.k.a. PPI FZE), P.O. Box 72146, Dubai, United Arab Emirates; Additional Sanctions Information—Subject to Secondary Sanctions; all offices worldwide [IRAN].

139. PETROPARS LTD. (a.k.a. PETROPARS LIMITED; a.k.a. “PPL”), No. 35, Farhang Blvd., Saadat Abad, Tehran, Iran; Calle La Guairita, Centro Profesional Eurobuilding, Piso 8, Oficina 8E, Chuao, Caracas 1060, Venezuela; P.O. Box 3136, Road Town, Tortola, Virgin Islands, British; Additional Sanctions Information—Subject to Secondary Sanctions; all offices worldwide [IRAN].

140. PETROPARS UK LIMITED, 47 Queen Anne Street, London W1G 9JG, United Kingdom; Additional Sanctions Information—Subject to Secondary Sanctions; UK Company Number 03503060 (United Kingdom); all offices worldwide [IRAN].

141. POLINEX GENERAL TRADING LLC, Health Care City, Umm Hurair Rd., Oud Mehta Offices, Block A, 4th Floor 420, Dubai, United Arab Emirates; Additional Sanctions Information—Subject to Secondary Sanctions [IRAN].

142. POLYNAR COMPANY, No. 58, St. 14, Qanbarzadeh Avenue, Resalat Highway, Tehran, Iran; Web site http://www.polynar.com; Additional Sanctions Information—Subject to Secondary Sanctions [IRAN].

143. POST BANK OF IRAN (a.k.a. SHERKAT-E DOLATI-E POST BANK; a.k.a. “PBI”), 237 Motahari Avenue, Tehran 1587618118, Iran; Motahari Street, No. 237, Past Darya-e Noor, Tehran, Iran; Additional Sanctions Information—Subject to Secondary Sanctions [IRAN] [NPWMD] [IFSR].

144. PROTON PETROCHEMICALS SHIPPING LIMITED (a.k.a. PROTON SHIPPING CO; a.k.a. “PSC”), Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

145. REY INVESTMENT COMPANY, 2nd and 3rd Floors, No. 14, Saba Boulevard, After Esfandiar Crossroad, Africa Boulevard, Tehran 1918973657, Iran; Web site http://www.rey-co.com; Additional Sanctions Information—Subject to Secondary Sanctions [IRAN].

146. REY NIRU ENGINEERING COMPANY (a.k.a. REY NIROO ENGINEERING COMPANY); Web site http://www.reyniroo.com; Additional Sanctions Information—Subject to Secondary Sanctions [IRAN].

147. REYCO GMBH. (a.k.a. REYCO GMBH GERMANY), Karlstrasse 19, Dinslaken, Nordrhein-Westfalen 46535, Germany; Additional Sanctions Information—Subject to Secondary Sanctions [IRAN].

148. RISHMAK PRODUCTIVE & EXPORTS COMPANY (a.k.a. RISHMAK COMPANY; a.k.a. RISHMAK EXPORT AND MANUFACTURING P.J.S.; a.k.a. RISHMAK PRODUCTION AND EXPORT COMPANY; a.k.a. RISHMAK PRODUCTIVE AND EXPORTS COMPANY; a.k.a. SHERKAT-E TOLID VA SADERAT-E RISHMAK), Rishmak Cross Rd., 3rd Km. of Amir Kabir Road, Shiraz 71365, Iran; Additional Sanctions Information—Subject to Secondary Sanctions [IRAN].

149. ROYAL ARYA CO. (a.k.a. ARIA ROYAL CONSTRUCTION COMPANY), Iran; Additional Sanctions Information—Subject to Secondary Sanctions [IRAN].

150. SADAF PETROCHEMICAL ASSALUYEH COMPANY (a.k.a. SADAF ASALUYEH CO.; a.k.a. SADAF CHEMICAL ASALUYEH COMPANY; a.k.a. SADAF PETROCHEMICAL ASSALUYEH INVESTMENT SERVICE), Assaluyeh, Iran; South Pars Special Economy/Energy Zone, Iran; Additional Sanctions Information—Subject to Secondary Sanctions [IRAN].

151. SAMAN BANK (a.k.a. BANK-E SAMAN), Vali Asr. St. No. 3, Before Vey Park intersection, corner of Tarakesh Dooz St., Tehran, Iran; SWIFT/BIC SABC IR TH [IRAN].

152. SAMAN SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

153. SAMBOUK SHIPPING FZC, FITCO Building No. 3, Office 101, 1st Floor, P.O. Box 50044, Fujairah, United Arab Emirates; Office 1202, Crystal Plaza, P.O. Box 50044, Buhaira Corniche, Sharjah, United Arab Emirates; Additional Sanctions Information—Subject to Secondary Sanctions [IRAN] (Linked To: CAMBIS, Dimitris).

154. SARMAYEH BANK (a.k.a. BANK-E SARMAYEH), Sepahod Gharani No. 24, Corner of Arak St., Tehran, Iran [IRAN].

155. SARV SHIPPING COMPANY LIMITED, 198 Old Bakery Street, Valletta VLT 1455, Malta; Additional Sanctions Information—Subject to Secondary Sanctions; Telephone (356)(21241232) [IRAN] (Linked To: NATIONAL IRANIAN TANKER COMPANY).

156. SEPID SHIPPING COMPANY LIMITED, 198 Old Bakery Street, Valletta VLT 1455, Malta; Additional Sanctions Information—Subject to Secondary Sanctions; Telephone (356)(21241232) [IRAN] (Linked To: NATIONAL IRANIAN TANKER COMPANY).

157. SHAHID TONDGOOYAN PETROCHEMICAL COMPANY (a.k.a. SHAHID TONDGUYAN PETROCHEMICAL COMPANY), Petrochemical Special Economic Zone (PETZONE), Iran; Additional Sanctions Information—Subject to Secondary Sanctions [IRAN].

158. SHAZAND PETROCHEMICAL COMPANY (a.k.a. AR.P.C.; a.k.a. ARAK PETROCHEMICAL COMPANY; a.k.a. SHAZAND PETROCHEMICAL CORPORATION), No. 68, Taban St., Vali Asr Ave., Tehran, Iran; Additional Sanctions Information—Subject to Secondary Sanctions [IRAN].

159. SIMA GENERAL TRADING CO FZE (a.k.a. SIMA GENERAL TRADING & INDUSTRIALS FOR BUILDING MATERIAL CO FZE), Office No. 703 Office Tower, Twin Tower, Baniyas Rd., Deira, P.O. Box 49754, Dubai, United Arab Emirates; Additional Sanctions Information—Subject to Secondary Sanctions [IRAN].

160. SIMA SHIPPING COMPANY LIMITED, 198 Old Bakery Street, Valletta VLT 1455, Malta; Additional Sanctions Information—Subject to Secondary Sanctions; Telephone (356)(21241232) [IRAN] (Linked To: NATIONAL IRANIAN TANKER COMPANY).

161. SINA BANK (f.k.a. BFCC; f.k.a. BONYAD FINANCE AND CREDIT COMPANY; f.k.a. SINA FINANCE AND CREDIT COMPANY), 187 Motahhari Avenue, P.O. Box 1587998411, Tehran, Iran; Kish Financial Center, Sahel, Kish Island, Iran; SWIFT/BIC SINAIRTH; alt. SWIFT/BIC SINAIRTH418; all offices worldwide [IRAN].

162. SINA SHIPPING COMPANY LIMITED, 198 Old Bakery Street, Valletta VLT 1455, Malta; Additional Sanctions Information—Subject to Secondary Sanctions; Telephone (356)(21241232) [IRAN] (Linked To: NATIONAL IRANIAN TANKER COMPANY).

163. SWISS MANAGEMENT SERVICES SARL, 28C, Route de Denges, Lonay 1027, Switzerland; Additional Sanctions Information—Subject to Secondary Sanctions [IRAN].

164. SYNERGY GENERAL TRADING FZE, Sharjah—Saif Zone, Sharjah Airport International Free Zone, United Arab Emirates; Additional Sanctions Information—Subject to Secondary Sanctions [IRAN].

165. TABRIZ PETROCHEMICAL COMPANY, Off Km 8, Azarshahr Road, Kojuvar Road, Tabriz, Iran; Additional Sanctions Information—Subject to Secondary Sanctions [IRAN].

166. TADBIR BROKERAGE COMPANY (a.k.a. SHERKAT-E KARGOZARI-E TADBIRGARAN-E FARDA; a.k.a. TADBIRGARAN FARDA BROKERAGE COMPANY; a.k.a. TADBIRGARAN-E FARDA BROKERAGE COMPANY; a.k.a. TADBIRGARANE FARDA MERCANTILE EXCHANGE CO.), Unit C2, 2nd Floor, Building No. 29, Corner of 25th Street, After Jahan Koudak, Cross Road Africa Street, Tehran 15179, Iran; Web site http://www.tadbirbroker.com; Additional Sanctions Information—Subject to Secondary Sanctions [IRAN].

167. TADBIR CONSTRUCTION DEVELOPMENT COMPANY (a.k.a. GORUH-E TOSE-E SAKHTEMAN-E TADBIR; a.k.a. TADBIR BUILDING EXPANSION GROUP; a.k.a. TADBIR HOUSING DEVELOPMENT GROUP), Block 1, Mehr Passage, 4th Street, Iran Zamin Boulevard, Shahrak Qods, Tehran, Iran; Additional Sanctions Information—Subject to Secondary Sanctions [IRAN].

168. TADBIR ECONOMIC DEVELOPMENT GROUP (a.k.a. TADBIR GROUP), 16 Avenue Bucharest, Tehran, Iran; Additional Sanctions Information—Subject to Secondary Sanctions [IRAN].

169. TADBIR ENERGY DEVELOPMENT GROUP CO., 6th Floor, Mirdamad Avenue, No. 346, Tehran, Iran; Web site http://www.tadbirenergy.com; Additional Sanctions Information—Subject to Secondary Sanctions [IRAN].

170. TADBIR INVESTMENT COMPANY, Tehran, Iran; Additional Sanctions Information—Subject to Secondary Sanctions [IRAN].

171. TAT BANK (a.k.a. BANK-E TAT), Shahid Ahmad Ghasir (Bocharest), Shahid Ahmadian (15th) St., No. 1, Tehran, Iran; No. 1 Ahmadian Street, Bokharest Avenue, Tehran, Iran; SWIFT/BIC TATB IR TH [IRAN].

172. TC SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

173. TOSEE EGHTESAD AYANDEHSAZAN COMPANY (a.k.a. TEACO; a.k.a. TOSEE EQTESAD AYANDEHSAZAN COMPANY), 39 Gandhi Avenue, Tehran 1517883115, Iran; Additional Sanctions Information—Subject to Secondary Sanctions [IRAN].

174. TOSEE TAAVON BANK (a.k.a. BANK-E TOSE'E TA'AVON; a.k.a. COOPERATIVE DEVELOPMENT BANK), Mirdamad Blvd., North East Corner of Mirdamad Bridge, No. 271, Tehran, Iran [IRAN].

175. TOURISM BANK (a.k.a. BANK-E GARDESHGARI), Vali Asr St., above Vey Park, Shahid Fiazi St., No. 51, first floor, Tehran, Iran [IRAN].

176. WEST SUN TRADE GMBH (a.k.a. WEST SUN TRADE), Winterhuder Weg 8, Hamburg 22085, Germany; Arak Machine Mfg. Bldg., 2nd Floor, opp. of College Economy, Northern Kargar Ave., Tehran 14136, Iran; Mundsburger Damm 16, Hamburg 22087, Germany; Additional Sanctions Information—Subject to Secondary Sanctions; Registration ID HRB 45757 (Germany); all offices worldwide [IRAN].

177. ZARIN RAFSANJAN CEMENT COMPANY (a.k.a. RAFSANJAN CEMENT COMPANY; a.k.a. ZARRIN RAFSANJAN CEMENT COMPANY), 2nd Floor, No. 67, North Sindokht Street, West Dr. Fatemi Avenue, Tehran 1411953943, Iran; Web site http://www.zarrincement.com; Additional Sanctions Information—Subject to Secondary Sanctions [IRAN].

Vessels

1. ABELIA (f.k.a. ASTARA; f.k.a. JUPITER) (9HDS9) Crude/Oil Products Tanker 99,087DWT 56,068GRT None Identified flag; Former Vessel Flag Tuvalu; alt. Former Vessel Flag Malta; Vessel Registration Identification IMO 9187631; MMSI 256845000 (vessel) [IRAN] (Linked To: NATIONAL IRANIAN TANKER COMPANY).

2. ALERT (f.k.a. ASTANEH; f.k.a. NEPTUNE; f.k.a. SEAPRIDE) (T2ES4) Crude/Oil Products Tanker 99,144DWT 56,068GRT None Identified flag; Former Vessel Flag Malta; alt. Former Vessel Flag Tuvalu; alt. Former Vessel Flag Tanzania; Vessel Registration Identification IMO 9187643; MMSI 572467210 (vessel) [IRAN] (Linked To: NATIONAL IRANIAN TANKER COMPANY).

3. AMBER (f.k.a. FREEDOM; f.k.a. HARAZ) (5IM 597) Crude Oil Tanker 317,356DWT 163,660GRT None Identified flag; Former Vessel Flag Cyprus; alt. Former Vessel Flag Tanzania; Vessel Registration Identification IMO 9357406; MMSI 677049700 (vessel) [IRAN] (Linked To: NATIONAL IRANIAN TANKER COMPANY).

4. ATLANTIC (f.k.a. SEAGULL) Crude Oil Tanker Liberia flag; Vessel Registration Identification IMO 9107655 (vessel) [IRAN].

5. ATLANTIS (5IM316) Crude Oil Tanker Tanzania flag (NITC); Vessel Registration Identification IMO 9569621 (vessel) [IRAN].

6. AURA (f.k.a. OCEAN PERFORMER) Crude Oil Tanker Mongolia flag; Former Vessel Flag Liberia; Vessel Registration Identification IMO 9013749 (vessel) [IRAN].

7. BADR (EQJU) Iran flag; Vessel Registration Identification IMO 8407345 (vessel) [IRAN] (Linked To: NATIONAL IRANIAN TANKER COMPANY).

8. BANEH (EQKF) Landing Craft 640DWT 478GRT Iran flag; Vessel Registration Identification IMO 8508462; MMSI 422141000 (vessel) [IRAN] (Linked To: NATIONAL IRANIAN TANKER COMPANY).

9. BICAS (f.k.a. GLAROS) Crude Oil Tanker Liberia flag; Vessel Registration Identification IMO 9077850 (vessel) [IRAN].

10. BRIGHT (f.k.a. ZAP) Crude Oil Tanker Mongolia flag; Former Vessel Flag Liberia; Vessel Registration Identification IMO 9005235 (vessel) [IRAN].

11. CARIBO (f.k.a. NEREYDA) Crude Oil Tanker Panama flag; Vessel Registration Identification IMO 9011246 (vessel) [IRAN].

12. COURAGE (f.k.a. HOMA) (5IM 596) Crude Oil Tanker 317,367DWT 163,660GRT None Identified flag; Former Vessel Flag Cyprus; alt. Former Vessel Flag Tanzania; Vessel Registration Identification IMO 9357389; MMSI 677049600 (vessel) [IRAN] (Linked To: NATIONAL IRANIAN TANKER COMPANY).

13. DAL LAKE (f.k.a. COMPANION; f.k.a. DAVAR) (5IM 593) Crude Oil Tanker 317,850DWT 164,241GRT None Identified flag; Former Vessel Flag Cyprus; alt. Former Vessel Flag Tanzania; Vessel Registration Identification IMO 9357717; MMSI 677049300 (vessel) [IRAN] (Linked To: NATIONAL IRANIAN TANKER COMPANY).

14. DAMAVAND (9HEG9) Crude Oil Tanker 297,013DWT 160,576GRT None Identified flag; Former Vessel Flag Malta; Vessel Registration Identification IMO 9218478; MMSI 256865000 (vessel) [IRAN] (Linked To: NATIONAL IRANIAN TANKER COMPANY).

15. DARAB (9HEE9) Crude Oil Tanker 296,803DWT 160,576GRT None Identified flag; Former Vessel Flag Malta; Vessel Registration Identification IMO 9218492; MMSI 256862000 (vessel) [IRAN] (Linked To: NATIONAL IRANIAN TANKER COMPANY).

16. DAYLAM (9HEU9) Crude Oil Tanker 299,500DWT 160,576GRT None Identified flag; Former Vessel Flag Malta; Vessel Registration Identification IMO 9218466; MMSI 256872000 (vessel) [IRAN] (Linked To: NATIONAL IRANIAN TANKER COMPANY).

17. DECESIVE (f.k.a. DANESH; f.k.a. LEADERSHIP) (5IM 592) Crude Oil Tanker 319,988DWT 164,241GRT None Identified flag; Former Vessel Flag Cyprus; alt. Former Vessel Flag Tanzania; Vessel Registration Identification IMO 9356593; MMSI 677049200 (vessel) [IRAN] (Linked To: NATIONAL IRANIAN TANKER COMPANY).

18. DELVAR (9HEF9) Crude Oil Tanker 299,500DWT 160,576GRT None Identified flag; Former Vessel Flag Malta; Vessel Registration Identification IMO 9218454; MMSI 256864000 (vessel) [IRAN] (Linked To: NATIONAL IRANIAN TANKER COMPANY).

19. DEMOS (5IM656) Crude Oil Tanker Tanzania flag (NITC); Vessel Registration Identification IMO 9569683 (vessel) [IRAN].

20. DENA (9HED9) Crude Oil Tanker 296,894DWT 160,576GRT None Identified flag; Former Vessel Flag Malta; Vessel Registration Identification IMO 9218480; MMSI 256861000 (vessel) [IRAN] (Linked To: NATIONAL IRANIAN TANKER COMPANY).

21. DESTINY (f.k.a. ULYSSES 1) Crude Oil Tanker Mongolia flag; Former Vessel Flag Liberia; Vessel Registration Identification IMO 9177155 (vessel) [IRAN].

22. DOJRAN (f.k.a. RAINBOW; f.k.a. SOUVENIR; a.k.a. YARD NO. 1221 SHANGHAI WAIGAOQIAO) Crude Oil Tanker 318,000DWT 165,000GRT Tanzania flag; Former Vessel Flag Malta; alt. Former Vessel Flag Tuvalu; Vessel Registration Identification IMO 9569619 (vessel) [IRAN] (Linked To: NATIONAL IRANIAN TANKER COMPANY).

23. DOVE (f.k.a. HONAR; f.k.a. JANUS; f.k.a. VICTORY) (T2EA4) Crude Oil Tanker 317,367DWT 163,660GRT None Identified flag; Former Vessel Flag Cyprus; alt. Former Vessel Flag Tuvalu; alt. Former Vessel Flag Tanzania; Vessel Registration Identification IMO 9362061; MMSI 209511000 (vessel) [IRAN] (Linked To: NATIONAL IRANIAN TANKER COMPANY).

24. FIANGA (f.k.a. FAEZ; f.k.a. MAESTRO; f.k.a. SATEEN) (T2DM4) Chemical/Products Tanker 35,124DWT 25,214GRT None Identified flag; Former Vessel Flag Malta; alt. Former Vessel Flag Tuvalu; alt. Former Vessel Flag Tanzania; Vessel Registration Identification IMO 9283760; MMSI 572438210 (vessel) [IRAN] (Linked To: NATIONAL IRANIAN TANKER COMPANY).

25. FORTUN (f.k.a. SONATA; a.k.a. YARD NO. 1222 SHANGHAI WAIGAOQIAO) Crude Oil Tanker 318,000DWT 165,000GRT None Identified flag; Former Vessel Flag Malta; Vessel Registration Identification IMO 9569633 (vessel) [IRAN] (Linked To: NATIONAL IRANIAN TANKER COMPANY).

26. HALISTIC (f.k.a. HAMOON; f.k.a. LENA; f.k.a. TAMAR) (T2EQ4) Crude Oil Tanker 299,242DWT 160,930GRT None Identified flag; Former Vessel Flag Malta; alt. Former Vessel Flag Tuvalu; alt. Former Vessel Flag Tanzania; Vessel Registration Identification IMO 9212929; MMSI 572465210 (vessel) [IRAN] (Linked To: NATIONAL IRANIAN TANKER COMPANY).

27. HAPPINESS (f.k.a. HENGAM; f.k.a. LOYAL; f.k.a. TULAR) (T2ER4) Crude Oil Tanker 299,214DWT 160,930GRT None Identified flag; Former Vessel Flag Malta; alt. Former Vessel Flag Tuvalu; alt. Former Vessel Flag Tanzania; Vessel Registration Identification IMO 9212905; MMSI 256875000 (vessel) [IRAN] (Linked To: NATIONAL IRANIAN TANKER COMPANY).

28. HONESTY (f.k.a. HIRMAND; f.k.a. HONESTY; f.k.a. MILLIONAIRE) (T2DZ4) Crude Oil Tanker 317,356DWT 163,660GRT None Identified flag; Former Vessel Flag Cyprus; alt. Former Vessel Flag Tuvalu; alt. Former Vessel Flag Tanzania; Vessel Registration Identification IMO 9357391; MMSI 572450210 (vessel) [IRAN] (Linked To: NATIONAL IRANIAN TANKER COMPANY).

29. HORIZON (f.k.a. HORMOZ; f.k.a. SCORPIAN) (9HEK9) Crude Oil Tanker 299,261DWT 160,930GRT None Identified flag; Former Vessel Flag Tuvalu; alt. Former Vessel Flag Tanzania; Vessel Registration Identification IMO 9212890; MMSI 256870000 (vessel) [IRAN] (Linked To: NATIONAL IRANIAN TANKER COMPANY).

30. HUMANITY (f.k.a. OCEAN NYMPH) Crude Oil Tanker Mongolia flag; Former Vessel Flag Panama; Vessel Registration Identification IMO 9180281 (vessel) [IRAN].

31. HUWAYZEH (9HEJ9) Crude Oil Tanker 299,242DWT 160,930GRT None Identified flag; Former Vessel Flag Malta; Vessel Registration Identification IMO 9212888; MMSI 256869000 (vessel) [IRAN] (Linked To: NATIONAL IRANIAN TANKER COMPANY).

32. HYDRA (f.k.a. EXPLORER; f.k.a. HODA; f.k.a. PRECIOUS) (T2EH4) Crude Oil Tanker 317,356DWT 163,660GRT None Identified flag; Former Vessel Flag Cyprus; alt. Former Vessel Flag Tuvalu; alt. Former Vessel Flag Tanzania; Vessel Registration Identification IMO 9362059; MMSI 572458210 (vessel) [IRAN] (Linked To: NATIONAL IRANIAN TANKER COMPANY).

33. IMICO NEKA 455 (a.k.a. YARD NO. 455 IRAN MARINE) Shuttle Tanker 63,000DWT 40,800GRT Iran flag; Vessel Registration Identification IMO 9404546 (vessel) [IRAN] (Linked To: NATIONAL IRANIAN TANKER COMPANY).

34. IMICO NEKA 456 (a.k.a. YARD NO. 456 IRAN MARINE) Shuttle Tanker 63,000DWT 40,800GRT Iran flag; Vessel Registration Identification IMO 9404558 (vessel) [IRAN] (Linked To: NATIONAL IRANIAN TANKER COMPANY).

35. IMICO NEKA 457 (a.k.a. YARD NO. 457 IRAN MARINE) Shuttle Tanker 63,000DWT 40,800GRT Iran flag; Vessel Registration Identification IMO 9404560 (vessel) [IRAN] (Linked To: NATIONAL IRANIAN TANKER COMPANY).

36. INFINITY (5IM411) Crude Oil Tanker Tanzania flag (NITC); Vessel Registration Identification IMO 9569671 (vessel) [IRAN].

37. IRAN FAHIM Chemical/Products Tanker 34,900DWT 26,561GRT Iran flag; Vessel Registration Identification IMO 9286140 (vessel) [IRAN] (Linked To: NATIONAL IRANIAN TANKER COMPANY).

38. “IRAN FALAGH Chemical/Products Tanker 34,900DWT 25,000GRT Iran flag; Vessel Registration Identification IMO 9286152 (vessel) [IRAN] (Linked To: NATIONAL IRANIAN TANKER COMPANY).

39. IRAN FAZEL (9BAC) Chemical/Products Tanker 35,155DWT 25,214GRT Iran flag; Vessel Registration Identification IMO 9283746; MMSI 422303000 (vessel) [IRAN] (Linked To: NATIONAL IRANIAN TANKER COMPANY).

40. JUSTICE Crude Oil Tanker None Identified flag; Vessel Registration Identification IMO 9357729 (vessel) [IRAN] (Linked To: NATIONAL IRANIAN TANKER COMPANY).

41. MAHARLIKA (f.k.a. NOOR) (9HES9) Crude Oil Tanker 298,732DWT 156,809GRT Tanzania flag; Former Vessel Flag Malta; alt. Former Vessel Flag Tuvalu; Vessel Registration Identification IMO 9079066; MMSI 256882000 (vessel) [IRAN] (Linked To: NATIONAL IRANIAN TANKER COMPANY).

42. MAJESTIC (f.k.a. GLORY; f.k.a. HATEF) (T2EG4) Crude Oil Tanker 317,367DWT 163,660GRT Tanzania flag; Former Vessel Flag Cyprus; alt. Former Vessel Flag Tuvalu; Vessel Registration Identification IMO 9357183; MMSI 212256000 (vessel) [IRAN] (Linked To: NATIONAL IRANIAN TANKER COMPANY).

43. MARINA (f.k.a. HARSIN; f.k.a. VALOR) (5IM600) Crude Oil Tanker 299,229DWT 160,930GRT None Identified flag; Former Vessel Flag Malta; alt. Former Vessel Flag Tanzania; Vessel Registration Identification IMO 9212917; MMSI 677050000 (vessel) [IRAN] (Linked To: NATIONAL IRANIAN TANKER COMPANY).

44. MARIVAN (EQKH) Tanker 640DWT 478GRT Iran flag; Vessel Registration Identification IMO 8517243; MMSI 422143000 (vessel) [IRAN] (Linked To: NATIONAL IRANIAN TANKER COMPANY).

45. NAINITAL (f.k.a. MIDSEA; f.k.a. MOTION; f.k.a. NAJM) (T2DR4) Crude Oil Tanker 298,731DWT 156,809GRT None Identified flag; Former Vessel Flag Malta; alt. Former Vessel Flag Tuvalu; alt. Former Vessel Flag Tanzania; Vessel Registration Identification IMO 9079092; MMSI 572442210 (vessel) [IRAN] (Linked To: NATIONAL IRANIAN TANKER COMPANY).

46. NAPOLI (f.k.a. ELITE; f.k.a. NOAH; f.k.a. VOYAGER) (T2DQ4) Crude Oil Tanker 298,731DWT 156,809GRT None Identified flag; Former Vessel Flag Malta; alt. Former Vessel Flag Tuvalu; alt. Former Vessel Flag Tanzania; Vessel Registration Identification IMO 9079078; MMSI 572441210 (vessel) [IRAN] (Linked To: NATIONAL IRANIAN TANKER COMPANY).

47. NATIVE LAND (f.k.a. NESA; f.k.a. OCEANIC; f.k.a. TRUTH) (T2DP4) Crude Oil Tanker 298,732DWT 156,809GRT Tanzania flag; Former Vessel Flag Malta; alt. Former Vessel Flag Tuvalu; Vessel Registration Identification IMO 9079107; MMSI 572440210 (vessel) [IRAN] (Linked To: NATIONAL IRANIAN TANKER COMPANY).

48. NYOS (f.k.a. BRAWNY; f.k.a. MARIGOLD; f.k.a. NABI) (T2DS4) Crude Oil Tanker 298,731DWT 156,809GRT None Identified flag; Former Vessel Flag Malta; alt. Former Vessel Flag Tuvalu; alt. Former Vessel Flag Tanzania; Vessel Registration Identification IMO 9079080; MMSI 572443210 (vessel) [IRAN] (Linked To: NATIONAL IRANIAN TANKER COMPANY).

49. ORIENTAL (f.k.a. LEYCOTHEA) Crude Oil Tanker Unknown flag; Former Vessel Flag Panama; Vessel Registration Identification IMO 9183934 (vessel) [IRAN].

50. SABRINA (f.k.a. MAGNOLIA; f.k.a. SARVESTAN) (5IM590) Crude Oil Tanker 159,711DWT 81,479GRT None Identified flag; Former Vessel Flag Malta; alt. Former Vessel Flag Tanzania; Vessel Registration Identification IMO 9172052; MMSI 677049000 (vessel) [IRAN] (Linked To: NATIONAL IRANIAN TANKER COMPANY).

51. SALALEH (f.k.a. SONGBIRD; a.k.a. YARD NO. 1224 SHANGHAI WAIGAOQIAO) Crude Oil Tanker 318,000DWT 165,000GRT None Identified flag; Former Vessel Flag Malta; Vessel Registration Identification IMO 9569645 (vessel) [IRAN] (Linked To: NATIONAL IRANIAN TANKER COMPANY).

52. SANCHI (f.k.a. GARDENIA; f.k.a. SEAHORSE; f.k.a. SEPID) (T2EF4) Crude Oil Tanker 164,154DWT 85,462GRT None Identified flag; Former Vessel Flag Malta; alt. Former Vessel Flag Tuvalu; alt. Former Vessel Flag Tanzania; Vessel Registration Identification IMO 9356608; MMSI 572455210 (vessel) [IRAN] (Linked To: NATIONAL IRANIAN TANKER COMPANY).

53. SARDASHT (EQKG) Landing Craft 640DWT 478GRT Iran flag; Vessel Registration Identification IMO 8517231; MMSI 422142000 (vessel) [IRAN] (Linked To: NATIONAL IRANIAN TANKER COMPANY).

54. SHONA (f.k.a. ABADAN; f.k.a. ALPHA) (T2EU4) Crude/Oil Products Tanker 99,144DWT 56,068GRT Tanzania flag; Former Vessel Flag Malta; alt. Former Vessel Flag Tuvalu; alt. Former Vessel Flag None Identified; Vessel Registration Identification IMO 9187629; MMSI 572469210 (vessel) [IRAN] (Linked To: NATIONAL IRANIAN TANKER COMPANY).

55. SILVER CLOUD (f.k.a. AMOL; f.k.a. CASTOR; f.k.a. CHRISTINA) (T2EM4) Crude/Oil Products Tanker 99,094DWT 56,068GRT None Identified flag; Former Vessel Flag Malta; alt. Former Vessel Flag Tuvalu; alt. Former Vessel Flag Tanzania; Vessel Registration Identification IMO 9187667; MMSI 256843000 (vessel) [IRAN] (Linked To: NATIONAL IRANIAN TANKER COMPANY).

56. SKYLINE (5IM632) Crude Oil Tanker Tanzania flag (NITC); Vessel Registration Identification IMO 9569669 (vessel) [IRAN].

57. SMOOTH (a.k.a. YARD NO. 1225 SHANGHAI WAIGAOQIAO) Crude Oil Tanker 318,000DWT 165,000GRT None Identified flag; Former Vessel Flag Malta; Vessel Registration Identification IMO 9569657 (vessel) [IRAN] (Linked To: NATIONAL IRANIAN TANKER COMPANY).

58. SPARROW (f.k.a. CLOVE; f.k.a. SEMNAN) (5IM 595) Crude Oil Tanker 159,681DWT 81,479GRT None Identified flag; Former Vessel Flag Malta; alt. Former Vessel Flag Tanzania; Vessel Registration Identification IMO 9171450; MMSI 677049500 (vessel) [IRAN] (Linked To: NATIONAL IRANIAN TANKER COMPANY).

59. SPLENDOUR (f.k.a. BLACKSTONE; f.k.a. SARV) (9HNZ9) Crude Oil Tanker 163,870DWT 85,462GRT None Identified flag; Former Vessel Flag Malta; alt. Former Vessel Flag Tuvalu; alt. Former Vessel Flag Seychelles; Vessel Registration Identification IMO 9357377; MMSI 249257000 (vessel) [IRAN] (Linked To: NATIONAL IRANIAN TANKER COMPANY).

60. SPOTLESS (f.k.a. LANTANA; f.k.a. SANANDAJ) (5IM591) Crude Oil Tanker 159,681DWT 81,479GRT None Identified flag; Former Vessel Flag Malta; alt. Former Vessel Flag Tanzania; Vessel Registration Identification IMO 9172040; MMSI 677049100 (vessel) [IRAN] (Linked To: NATIONAL IRANIAN TANKER COMPANY).

61. SUCCESS (f.k.a. BAIKAL; f.k.a. BLOSSOM; f.k.a. SIMA) (T2DY4) Crude Oil Tanker 164,154DWT 85,462GRT None Identified flag; Former Vessel Flag Malta; alt. Former Vessel Flag Tuvalu; alt. Former Vessel Flag Tanzania; Vessel Registration Identification IMO 9357353; MMSI 572449210 (vessel) [IRAN] (Linked To: NATIONAL IRANIAN TANKER COMPANY).

62. SUNDIAL (f.k.a. ABADEH; f.k.a. CRYSTAL) (9HDQ9) Crude/Oil Products Tanker 99,030DWT 56,068GRT None Identified flag; Former Vessel Flag Malta; alt. Former Vessel Flag Tanzania; Vessel Registration Identification IMO 9187655; MMSI 256842000 (vessel) [IRAN] (Linked To: NATIONAL IRANIAN TANKER COMPANY).

63. SUNEAST (f.k.a. AZALEA; f.k.a. SINA) (9HNY9) Crude Oil Tanker 164,154DWT 85,462GRT Seychelles flag; Former Vessel Flag Malta; alt. Former Vessel Flag Tuvalu; alt. Former Vessel Flag None Identified; Vessel Registration Identification IMO 9357365; MMSI 249256000 (vessel) [IRAN] (Linked To: NATIONAL IRANIAN TANKER COMPANY).

64. SUNRISE LPG Tanker None Identified flag (NITC); Vessel Registration Identification IMO 9615092 (vessel) [IRAN].

65. SUNSHINE (f.k.a. CARNATION; f.k.a. SAFE; a.k.a. YARD NO. 1220 SHANGHAI WAIGAOQIAO) Crude Oil Tanker 318,000DWT 165,000GRT None Identified flag; Former Vessel Flag Tuvalu; alt. Former Vessel Flag Malta; alt. Former Vessel Flag Tanzania; Vessel Registration Identification IMO 9569205 (vessel) [IRAN] (Linked To: NATIONAL IRANIAN TANKER COMPANY).

66. SUPERIOR (f.k.a. DAISY; f.k.a. SUSANGIRD) (5IM584) Crude Oil Tanker 159,681DWT 81,479GRT None Identified flag; Former Vessel Flag Malta; alt. Former Vessel Flag Tanzania; Vessel Registration Identification IMO 9172038; MMSI 677048400 (vessel) [IRAN] (Linked To: NATIONAL IRANIAN TANKER COMPANY).

67. SWALLOW (f.k.a. CAMELLIA; f.k.a. SAVEH) (5IM 594) Crude Oil Tanker 159,758DWT 81,479GRT None Identified flag; Former Vessel Flag Malta; alt. Former Vessel Flag Tanzania; Vessel Registration Identification IMO 9171462; MMSI 677049400 (vessel) [IRAN] (Linked To: NATIONAL IRANIAN TANKER COMPANY).

68. TOLOU (EQOD) Crew/Supply Vessel 250DWT 178GRT Iran flag; Vessel Registration Identification IMO 8318178 (vessel) [IRAN] (Linked To: NATIONAL IRANIAN TANKER COMPANY).

69. VALFAJR2 (EQOX) Tug 650DWT 419GRT Iran flag; Vessel Registration Identification IMO 8400103 (vessel) [IRAN] (Linked To: NATIONAL IRANIAN TANKER COMPANY).

70. YAGHOUB (EQOE) Platform Supply Ship 950DWT 1,019GRT Iran flag; Vessel Registration Identification IMO 8316168; MMSI 422150000 (vessel) [IRAN] (Linked To: NATIONAL IRANIAN TANKER COMPANY).

71. YANGZHOU DAYANG DY905 (a.k.a. YARD NO. DY905 YANGZHOU D.) LPG Tanker 11,750DWT 8,750GRT Iran flag; Vessel Registration Identification IMO 9575424 (vessel) [IRAN] (Linked To: NATIONAL IRANIAN TANKER COMPANY).

72. YOUNES (EQYY) Platform Supply Ship Iran flag; Vessel Registration Identification IMO 8212465 (vessel) [IRAN] (Linked To: NATIONAL IRANIAN TANKER COMPANY).

73. YOUSEF (EQOG) Offshore Tug/Supply Ship 1,050DWT 584GRT Iran flag; Vessel Registration Identification IMO 8316106; MMSI 422144000 (vessel) [IRAN] (Linked To: NATIONAL IRANIAN TANKER COMPANY).

74. ZEUS (f.k.a. HADI; f.k.a. PIONEER) (T2EJ4) Crude Oil Tanker 317,355DWT 163,650GRT None Identified flag; Former Vessel Flag Cyprus; alt. Former Vessel Flag Tuvalu; Vessel Registration Identification IMO 9362073; MMSI 572459210 (vessel) [IRAN] (Linked To: NATIONAL IRANIAN TANKER COMPANY).

D. Updates to SDN List Entries for Certain Persons Designated Pursuant to E.O. 13224, E.O. 13382, E.O. 13438, and/or the Foreign Narcotics Kingpin Designation Act

On January 16, 2016, OFAC published the following revised information for 13 individuals and 1 entity on OFAC's SDN List whose property and interests in property are blocked pursuant to one or more of the following authorities: E.O. 13224, E.O. 13382, E.O. 13438, and/or the Foreign Narcotics Kingpin Designation Act:

Individuals

1. AFKHAMI RASHIDI, Mahmud (a.k.a. AFKHAMI RASHIDI, Mahmood; a.k.a. AFKHAMI RASHIDI, Mahmoud); DOB 31 Aug 1962; POB Mashhad, Iran; nationality Iran; Additional Sanctions Information—Subject to Secondary Sanctions; Passport D9005625 issued 11 Jul 2009 expires 11 Jul 2014 (individual) [SDGT] [IRGC] [IFSR].

2. AL-MUHANDIS, Abu Mahdi (a.k.a. AL BASERI, Abu Mahdi; a.k.a. AL-BASARI, Abu Mahdi; a.k.a. AL-BASRI, Abu-Mahdi al-Mohandis; a.k.a. AL-IBRAHIMI, Jamal; a.k.a. AL-IBRAHIMI, Jamal Ja'afar Muhammad Ali; a.k.a. AL-IBRAHIMI, Jamal Ja'far; a.k.a. AL-MADAN, Abu Mahdi; a.k.a. AL-MOHANDAS, Abu-Mahdi; a.k.a. AL-MOHANDESS, Abu Mehdi; a.k.a. AL-MUHANDES, Abu Mahdi; a.k.a. AL-MUHANDIS, Abu Mahdi al-Basri; a.k.a. AL-MUHANDIS, Abu-Muhannad; a.k.a. BIHAJ, Jamal Ja'afar Ibrahim al-Mikna; a.k.a. EBRAHIMI, Jamal Jafaar Mohammed Ali; a.k.a. JAMAL, Ibrahimi; a.k.a. “AL-IBRAHIMI, Jamal Fa'far 'Ali”; a.k.a. “AL-TAMIMI, Jamal al-Madan”; a.k.a. “JAAFAR, Jaafar Jamal”; a.k.a. “MOHAMMED, Jamal Jaafar”), Al Fardoussi Street, Tehran, Iran; Al Maaqal, Al Basrah, Iraq; Velayat Faqih Base, Kenesht Mountain Pass, Northwest of Kermanshah, Iran; Mehran, Iran; DOB 1953; POB Ma'ghal, Basrah, Iraq; nationality Iraq; citizen Iran; alt. citizen Iraq; Additional Sanctions Information—Subject to Secondary Sanctions (individual) [IRAQ3].

3. AL-SHEIBANI, Abu Mustafa (a.k.a. AL-ATTABI, Hameid Thajeil Wareij; a.k.a. AL-SHAYBANI, Abu Mustafa; a.k.a. AL-SHAYBANI, Hamid; a.k.a. AL-SHEBANI, Abu Mustafa; a.k.a. AL-SHEIBANI, Hamid Thajeel; a.k.a. AL-SHEIBANI, Mustafa; a.k.a. THAJIL, Hamid), Tehran, Iran; DOB circa 1959; alt. DOB circa 1960; POB Nasiriyah, Iraq; citizen Iran; alt. citizen Iraq; Additional Sanctions Information—Subject to Secondary Sanctions (individual) [IRAQ3].

4. BAGHBANI, Gholamreza (a.k.a. BAQBANI, Mohammad Akhusa; a.k.a. BAQBANI, Qolam Reza); DOB 05 Jan 1961; alt. DOB 1947; POB Zabol, Iran; citizen Iran; Additional Sanctions Information—Subject to Secondary Sanctions; Islamic Revolutionary Guard Corps—Qods Force General (individual) [SDNTK].

5. FORUZANDEH, Ahmed (a.k.a. FAYRUZI, Ahmad; a.k.a. FOROOZANDEH, Ahmad; a.k.a. FORUZANDEH, Ahmad; a.k.a. FRUZANDAH, Ahmad; a.k.a. “ABU AHMAD ISHAB”; a.k.a. “ABU SHAHAB”; a.k.a. “JAFARI”), Qods Force Central Headquarters, Former U.S. Embassy Compound, Tehran, Iran; DOB circa 1960; alt. DOB 1957; alt. DOB circa 1955; alt. DOB circa 1958; alt. DOB circa 1959; alt. DOB circa 1961; alt. DOB circa 1962; alt. DOB circa 1963; POB Kermanshah, Iran; Additional Sanctions Information—Subject to Secondary Sanctions; Brigadier General, Commanding Officer of the Iranian Islamic Revolutionary Guard Corps-Qods Force Ramazan Corps; Deputy Commander of the Ramazan Headquarters; Chief of Staff of the Iraq Crisis Staff (individual) [IRAQ3] [IRGC].

6. HEMMATI, Alireza; DOB Dec 1955; Additional Sanctions Information—Subject to Secondary Sanctions (individual) [SDGT] [IRGC] [IFSR].

7. MAHMOUDI, Gholamreza (a.k.a. MAHMOUDI, Gholam Reza; a.k.a. MAHMOUDI, Ghulam Reza Khodrat; a.k.a. MAHMUDI, Qolam Reza); DOB 03 Feb 1958; nationality Iran; Additional Sanctions Information—Subject to Secondary Sanctions; Passport 5659068 (individual) [SDGT] [IFSR].

8. MALEKOUTI POUR, Hamidreza (a.k.a. MALAKOTIPOUR, Hamid Reza; a.k.a. MALAKOTIPOUR, Hamidreza; a.k.a. MALAKOUTIPOUR, Hamid Reza; a.k.a. MALAKUTIPUR, Hamid Reza; a.k.a. MALKOTIPOUR, Hamid Reza); DOB 18 Oct 1960; Additional Sanctions Information—Subject to Secondary Sanctions; Passport B5660433 (Iran) (individual) [SDGT] [IFSR].

9. MUHAMMADI, Umid (a.k.a. MUHAMMADI, Omid; a.k.a. MUHAMMADI, 'Umid 'Abd al-Majid Muhammad 'Aziz; a.k.a. “AL-KURDI, Abu Sulayman”; a.k.a. “AL-KURDI, 'Amid”; a.k.a. “AL-KURDI, Hamza”; a.k.a. “AL-KURDI, Umid”; a.k.a. “DARWESH, Arkan Mohammed Hussein”; a.k.a. “MARIVANI, Shahin”; a.k.a. “RAWANSARI, Shahin”); DOB 1967; nationality Syria; alt. nationality Iran; Additional Sanctions Information—Subject to Secondary Sanctions; ethnicity Kurdish (individual) [SDGT].

10. MUSAVI, Sayyed Kamal (a.k.a. JAMALI, Sayyed Kamal); DOB 03 Jan 1958; Additional Sanctions Information—Subject to Secondary Sanctions (individual) [SDGT] [IRGC] [IFSR].

11. NAWAY, Haji Ali (a.k.a. NAVAI, Ali; a.k.a. NAWAE, Ali; a.k.a. NAWA'EE, Ali; a.k.a. NAWAI, Ali; a.k.a. NAWA'I, Ali), Iran; Karachi, Pakistan; United Arab Emirates; DOB circa 1945; alt. DOB circa 1950; POB Sistan Va Baluchistan, Iran; nationality Iran; Additional Sanctions Information—Subject to Secondary Sanctions (individual) [SDNTK].

12. SEYED ALHOSSEINI, Akbar (a.k.a. SAEED HUSAINI, Akbar; a.k.a. SAYED ALHOSSEINI, Akbar; a.k.a. SAYEDOLHUSSEINI, Akbar; a.k.a. SAYYED AL-HOSEINI, Akbar; a.k.a. SEYEDOLHOSEINI, Akbar); DOB 22 Nov 1961; POB Taybad, Iran; Additional Sanctions Information—Subject to Secondary Sanctions; Passport D9004309 issued 12 Nov 2008 expires 13 Nov 2013 (individual) [SDGT] [IRGC] [IFSR].

13. SHAHRIYARI, Behnam (a.k.a. SHAHRIARI, Behnam; a.k.a. SHAHRYARI, Behnam); DOB 1968; nationality Iran; Additional Sanctions Information—Subject to Secondary Sanctions (individual) [SDGT] [IFSR].

Entity

1. TIDEWATER MIDDLE EAST CO. (a.k.a. FARAZ ROYAL QESHM LLC; a.k.a. TIDE WATER COMPANY; a.k.a. TIDE WATER MIDDLE EAST MARINE SERVICE; a.k.a. TIDEWATER CO. (MIDDLE EAST MARINE SERVICES)), No. 80, Tidewater Building, Vozara Street, Next to Saie Park, Tehran, Iran; Web site www.tidewaterco.com; Email Address info@tidewaterco.com; Email Address info@tidewaterco.ir; IFCA Determination—Port Operator; Additional Sanctions Information—Subject to Secondary Sanctions; Business Registration Document # 18745 (Iran); Telephone: 982188553321; Alt. Telephone: 982188554432; Fax: 982188717367; Alt. Fax: 982188708761; Alt. Fax: 982188708911 [NPWMD] [IRGC] [IFSR].

II. Removals From the FSE List

On January 16, 2015, OFAC determined that the circumstances no longer warrant the inclusion on the FSE List of the 4 individuals and 9 entities identified below. Therefore, the persons listed below are no longer subject to the prohibitions on transactions and dealings of Section 1(b) of Executive Order 13608 of May 1, 2012 “Prohibiting Certain Transactions with and Suspending Entry into the United States of Foreign Sanctions Evaders with Respect to Iran and Syria.”¹⁶

¹⁶ The determination to remove these individuals and entities from the FSE List does not represent a determination that they do not meet the definition of the term “Government of Iran” or the term “Iranian financial institution” as set forth in, respectively, Sections 560.304 and 560.324 of the ITSR. Any person meeting the definitions of the term “Government of Iran” or the term “Iranian financial institution” is a person whose property and interests in property are blocked if they are or come within the United States or if they are or come within the possession or control of a U.S. person, wherever located.

Individuals

1. FARSOUDEH, Houshang (a.k.a. FARSOUDEH, Houshang Hossein; a.k.a. FARSOUDEH, Hushang); DOB 10 Oct 1968; POB Tehran, Iran; Passport H2726141 (Iran) (individual) [FSE-IR].

2. HOSSEINPOUR, Houshang (a.k.a. HOSEIN-PUR, Houshang; a.k.a. HOSSEINPOUR, Houshang Shahali); DOB 21 Mar 1967; POB Tehran, Iran; Passport R17550559 (Iran) expires 11 Jul 2015 (individual) [FSE-IR].

3. NAYEBI, Pourya (a.k.a. NAYEBI, Pourya Ali Asghar); DOB 25 Jul 1974; POB Tehran, Iran; Passport V11664675 (Iran) expires 07 Aug 2012 (individual) [FSE-IR].

4. SOKOLENKO, Vitaly (a.k.a. SOKOLENKO, Vitalii; a.k.a. SOKOLENKO, Vitaliy); DOB 16 Jun 1968; Executive Order 13645 Determination—Material Support; Passport EH354160; alt. Passport P0329907; General Manager of Ferland Company Limited (individual) [FSE-IR] [EO13645] (Linked To: FERLAND COMPANY LIMITED).¹⁷

¹⁷ On Implementation Day, OFAC took administrative actions under E.O. 13608 and 13645, allowing for the removal of this individual from the SDN List and FSE List. See also Section I.A.

Entities

1. CAUCASUS ENERGY (a.k.a. CAUCASUS ENERGY OF GEORGIA; a.k.a. LLC CAUCASUS ENERGY), Georgia; Registration ID 406075081 [FSE-IR].

2. EUROPEAN OIL TRADERS (a.k.a. EUROPEAN OIL TRADERS SA), Kaiserstuhlerstrasse 81, 8175, Windlach, Switzerland; 8174 Stadel b., Niederglatt, Switzerland [FSE-IR].

3. FERLAND COMPANY LIMITED (a.k.a. FERLAND CO. LTD), 29 A Anna Komnini St., P.O. Box 2303, Nicosia, Cyprus; 5/7 Sabaneyev Most., Odessa, Ukraine; Executive Order 13645 Determination—Material Support [ISA] [FSE-IR] [EO13645] (Linked To: NATIONAL IRANIAN TANKER COMPANY).¹⁸

¹⁸ On Implementation Day, the Secretary of State and OFAC took administrative actions under, respectively, ISA and E.O.s 13608 and 13645, allowing for the removal of this entity from the SDN List and FSE List. See also Sections I.A and I.B.

4. GEORGIAN BUSINESS DEVELOPMENT (a.k.a. GBD FIZ; a.k.a. GBD FIZ LIMITED; a.k.a. GBD FIZ, LLC), Tbilisi, Georgia; Plot 545, Unit 1B-8D, Free Industrial Zone, Poti, Georgia; Deira, Dubai, United Arab Emirates [FSE-IR].

5. GREAT BUSINESS DEALS, Tbilisi, Georgia; Plot 545, Unit 1B-8D, Free Industrial Zone, Poti, Georgia; Deira, Dubai, United Arab Emirates [FSE-IR].

6. KSN FOUNDATION, Muehleholz 3, Vaduz 94490, Liechtenstein [FSE-IR].

7. NEW YORK GENERAL TRADING (a.k.a. “NYGT”), No. 815, Al Maktoum Building, Al Maktoum St, P.O. Box 42108, Deira, Dubai, United Arab Emirates; Registration ID 547066 [FSE-IR].

8. NEW YORK MONEY EXCHANGE (a.k.a. “NYME”), P.O. Box 85334, Dubai, United Arab Emirates; Shop 14, Al MM Tower, Al Maktoum St, Dubai, United Arab Emirates; P.O. Box 31138, Abu Dhabi, United Arab Emirates; P.O. Box 42108, Dubai, United Arab Emirates; 20 Rustaveli Avenue, Tbilisi, Georgia; Tbilisi International Airport, Tbilisi, Georgia; Batumi Airport, Batumi, Georgia; Commercial Registry Number 549905 (United Arab Emirates) [FSE-IR].

9. ORCHIDEA GULF TRADING (a.k.a. ORCHIDEA GULF EXCHANGE TRADING CO L; a.k.a. ORCHIDEA GULF TRADING ALTIN VE KIYMELTI MADENLER DIS TIC LTD STI; a.k.a. “ORCHIDEA GENERAL TRADING LLC”; a.k.a. “ORCHIDEA GULF COAST TRADING CO L”), P.O. Box 11254, Dubai, United Arab Emirates; P.O. Box 11254, 6305 Zinath Omar Kin Khatab, Dubai, United Arab Emirates; P.O. Box 11256 Zinath Omar Kin Khatab, Dubai, United Arab Emirates; P.O. Box 6305 Zinath Omar Kin Khatab, Dubai, United Arab Emirates; P.O. Box 85334, Dubai, United Arab Emirates; P.O. Box 85334, Office Number 605, Concord Hotel, Al Matoum Street, Dubai, United Arab Emirates; Molla Gurani Mahallesi Sehit Pilot Nedim Sok. Evirgenler Ish, 5/5, Istanbul, Turkey [FSE-IR].

III. Additions to the EO 13599 List

On Implementation Day, to assist U.S. persons in meeting their obligations under the ITSR, OFAC made available on its Web site a List of Persons Identified as Blocked Solely Pursuant to Executive Order 13599 (E.O. 13599 List) and added the following 13 individuals and 177 entities, as well as 74 vessels identified as blocked property of the foregoing, to that list. The purpose of the E.O. 13599 list is to clarify that, regardless of their removal from the SDN List, persons that OFAC previously identified as meeting the definition of the terms “Government of Iran” or “Iranian financial institution” continue to meet those definitions and continue to be persons whose property and interests in property are blocked pursuant to Executive Order 13599 and section 560.211 of the ITSR. Unless an exemption or express OFAC authorization applies, U.S. persons, wherever located, are prohibited from engaging in any transaction with, and must continue to block the property and interests in property of, persons on the E.O. 13599 List, as well as any other person meeting the definition of the Government of Iran or an Iranian financial institution.

Individuals

1. BAHADORI, Masoud; nationality Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport T12828814 (Iran); Managing Director, Petro Suisse Intertrade Company (individual) [IRAN].

2. GHALEBANI, Ahmad (a.k.a. GHALEHBANI, Ahmad; a.k.a. QALEHBANI, Ahmad); DOB 01 Jan 1953 to 31 Dec 1954; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport H20676140 (Iran); Managing Director, National Iranian Oil Company; Director, Hong Kong Intertrade Company; Director, Petro Suisse Intertrade Company (individual) [IRAN].

3. JASHNSAZ, Seifollah (a.k.a. JASHN SAZ, Seifollah; a.k.a. JASHNSAZ, Seyfollah); DOB 22 Mar 1958; POB Behbahan, Iran; nationality Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport R17589399 (Iran); alt. Passport T23700825 (Iran); Chairman & Director, Naftiran Intertrade Co. (NICO) Sarl; Chairman & Director, Naft Iran Intertrade Company Ltd.; Director, Hong Kong Intertrade Company; Chairman of the Board of Directors, Iranian Oil Company (U.K.) Limited; Chairman & Director, Petro Suisse Intertrade Company (individual) [IRAN].

4. POURANSARI, Hashem; nationality Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport B19488852 (Iran); Managing Director, Asia Energy General Trading (individual) [IRAN].

5. CAMBIS, Dimitris (a.k.a. KAMPIS, Dimitrios Alexandros; a.k.a. “KLIMT, Gustav”); DOB 14 Oct 1963; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf (individual) [IRAN].

6. TABATABAEI, Seyyed Mohammad Ali Khatibi; DOB 27 Sep 1955; citizen Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Director, NIOC International Affairs (London) Ltd.; Director of International Affairs, NIOC (individual) [IRAN].

7. MOINIE, Mohammad; DOB 04 Jan 1956; POB Brojerd, Iran; citizen United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport 301762718 (United Kingdom); Commercial Director, Naftiran Intertrade Company Sarl (individual) [IRAN].

8. BAZARGAN, Farzad; DOB 03 Jun 1956; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport D14855558 (Iran); alt. Passport Y21130717 (Iran); Managing Director, Hong Kong Intertrade Company (individual) [IRAN].

9. MOHADDES, Seyed Mahmoud; DOB 07 Jun 1957; citizen Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Managing Director, Iranian Oil Company (U.K.) Ltd. (individual) [IRAN].

10. ZIRACCHIAN ZADEH, Mahmoud; DOB 24 Jul 1959; citizen Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Director, Iranian Oil Company (U.K.) Ltd. (individual) [IRAN].

11. NIKOUSOKHAN, Mahmoud; DOB 01 Jan 1961 to 31 Dec 1962; nationality Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport U14624657 (Iran); Finance Director, National Iranian Oil Company; Director, Hong Kong Intertrade Company; Director, Petro Suisse Intertrade Company (individual) [IRAN].

12. SEYYEDI, Seyed Nasser Mohammad; DOB 21 Apr 1963; citizen Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Passport B14354139 (Iran); alt. Passport L18507193 (Iran); alt. Passport X95321252 (Iran); Managing Director, Sima General Trading (individual) [IRAN].

13. PARSAEI, Reza; DOB 09 Aug 1963; citizen Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Director, NIOC International Affairs (London) Ltd. (individual) [IRAN].

Entities

1. AA ENERGY FZCO, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

2. AMIN INVESTMENT BANK (a.k.a. AMINIB), No. 51 Ghobadiyan Street, Valiasr Street, Tehran 1968917173, Iran; Web site http://www.aminib.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

3. ARASH SHIPPING ENTERPRISES LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22678777) [IRAN] (Linked To: NATIONAL IRANIAN TANKER COMPANY).

4. ARTA SHIPPING ENTERPRISES LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22678777) [IRAN] (Linked To: NATIONAL IRANIAN TANKER COMPANY).

5. ASAN SHIPPING ENTERPRISE LIMITED, 85 St. John Street, Valletta VLT 1165, Malta; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (356)(21241817); Fax (356)(25990640) [IRAN] (Linked To: NATIONAL IRANIAN TANKER COMPANY).

6. ASCOTEC HOLDING GMBH (f.k.a. AHWAZ STEEL COMMERCIAL & TECHNICAL SERVICE GMBH ASCOTEC; f.k.a. AHWAZ STEEL COMMERCIAL AND TECHNICAL SERVICE GMBH ASCOTEC; a.k.a. ASCOTEC GMBH), Tersteegen Strasse 10, Dusseldorf 40474, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 26136 (Germany); all offices worldwide [IRAN].

7. ASCOTEC JAPAN K.K., 8th Floor, Shiba East Building, 2-3-9 Shiba, Minato-ku, Tokyo 105-0014, Japan; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

8. ASCOTEC MINERAL & MACHINERY GMBH (a.k.a. ASCOTEC MINERAL AND MACHINERY GMBH; f.k.a. BREYELLER KALTBAND GMBH), Tersteegenstr. 10, Dusseldorf 40474, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 55668 (Germany); all offices worldwide [IRAN].

9. ASCOTEC SCIENCE & TECHNOLOGY GMBH (a.k.a. ASCOTEC SCIENCE AND TECHNOLOGY GMBH), Tersteegenstrasse 10, Dusseldorf D 40474, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 58745 (Germany); all offices worldwide [IRAN].

10. ASCOTEC STEEL TRADING GMBH (a.k.a. ASCOTEC STEEL), Tersteegenstr. 10, Dusseldorf 40474, Germany; Georg-Glock-Str. 3, Dusseldorf 40474, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 48319 (Germany); all offices worldwide [IRAN].

11. ASIA ENERGY GENERAL TRADING (LLC), Suite 703, Twin Tower, Baniyas Street, Deira, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

12. BANDAR IMAM PETROCHEMICAL COMPANY, North Kargar Street, Tehran, Iran; Mahshahr, Bandar Imam, Khuzestan Province, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

13. BANK KESHAVARZI IRAN (a.k.a. AGRICULTURAL BANK OF IRAN; a.k.a. BANK KESHAVARZI), P.O. Box 14155-6395, 129 Patrice Lumumba St, Jalal-al-Ahmad Expressway, Tehran 14454, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

14. BANK MARKAZI JOMHOURI ISLAMI IRAN (a.k.a. BANK MARKAZI IRAN; a.k.a. CENTRAL BANK OF IRAN; a.k.a. CENTRAL BANK OF THE ISLAMIC REPUBLIC OF IRAN), P.O. Box 15875/7177, 144 Mirdamad Blvd., Tehran, Iran; 213 Ferdowsi Avenue, Tehran 11365, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

15. BANK MASKAN (a.k.a. HOUSING BANK (OF IRAN)), P.O. Box 11365/5699, No 247 3rd Floor Fedowsi Ave, Cross Sarhang Sakhaei St, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

16. BANK MELLAT, Head Office Bldg, 327 Taleghani Ave, Tehran 15817, Iran; 327 Forsat and Taleghani Avenue, Tehran 15817, Iran; P.O. Box 375010, Amiryan Str #6, P/N-24, Yerevan, Armenia; Keumkang Tower—13th & 14th Floor, 889-13 Daechi-Dong, Gangnam-Ku, Seoul 135-280, Korea, South; P.O. Box 79106425, Ziya Gokalp Bulvari No 12, Kizilay, Ankara, Ankara, Turkey; Cumhuriyet Bulvari No 88/A, PK 7103521, Konak, Izmir, Turkey; Buyukdere Cad, Cicek Sokak No 1—1 Levent, Levent, Istanbul, Turkey; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

17. BANK MELLI IRAN (a.k.a. BANK MELLI; a.k.a. NATIONAL BANK OF IRAN), P.O. Box 11365-171, Ferdowsi Avenue, Tehran, Iran; 43 Avenue Montaigne, Paris 75008, France; Room 704-6, Wheelock Hse, 20 Pedder St, Central, Hong Kong; Bank Melli Iran Bldg, 111 St 24, 929 Arasat, Baghdad, Iraq; P.O. Box 2643, Ruwi, Muscat 112, Oman; P.O. Box 2656, Liva Street, Abu Dhabi, United Arab Emirates; P.O. Box 248, Hamad Bin Abdulla St, Fujairah, United Arab Emirates; P.O. Box 1888, Clock Tower, Industrial Rd, Al Ain Club Bldg, Al Ain, Abu Dhabi, United Arab Emirates; P.O. Box 1894, Baniyas St, Deira, Dubai City, United Arab Emirates; P.O. Box 5270, Oman Street Al Nakheel, Ras Al-Khaimah, United Arab Emirates; P.O. Box 459, Al Borj St, Sharjah, United Arab Emirates; P.O. Box 3093, Ahmed Seddiqui Bldg, Khalid Bin El-Walid St, Bur-Dubai, Dubai City 3093, United Arab Emirates; P.O. Box 1894, Al Wasl Rd, Jumeirah, Dubai, United Arab Emirates; Postfach 112 129, Holzbruecke 2, D-20459, Hamburg, Germany; Nobel Ave. 14, Baku, Azerbaijan; Unit 1703-4, 17th Floor, Hong Kong Club Building, 3 A Chater Road Central, Hong Kong; Esteghlal St., Opposite to Otbeh Ibn Ghazvan Hall, Basrah, Iraq; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

18. BANK OF INDUSTRY AND MINE (OF IRAN) (a.k.a. BANK SANAD VA MADAN; a.k.a. “BIM”), P.O. Box 15875-4456, Firouzeh Tower, No 1655 Vali-Asr Ave after Chamran Crossroads, Tehran 1965643511, Iran; No 1655, Firouzeh Building, Mahmoudiye Street, Valiasr Ave, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

19. BANK REFAH KARGARAN (a.k.a. BANK REFAH; a.k.a. WORKERS' WELFARE BANK (OF IRAN)), No. 40 North Shiraz Street, Mollasadra Ave, Vanak Sq, Tehran 19917, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

20. BANK SEPAH, Imam Khomeini Square, Tehran 1136953412, Iran; 64 Rue de Miromesnil, Paris 75008, France; Hafenstrasse 54, D-60327, Frankfurt am Main, Germany; Via Barberini 50, Rome, RM 00187, Italy; 17 Place Vendome, Paris 75008, France; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

21. BANK TEJARAT, P.O. Box 11365-5416, 152 Taleghani Avenue, Tehran 15994, Iran; 130, Zandi Alley, Taleghani Avenue, No 152, Ostad Nejat Ollahi Cross, Tehran 14567, Iran; 124-126 Rue de Provence, Angle 76 bd Haussman, Paris 75008, France; P.O. Box 734001, Rudaki Ave 88, Dushanbe 734001, Tajikistan; Office C208, Beijing Lufthansa Center No 50, Liangmaqiao Rd, Chaoyang District, Beijing 100016, China; c/o Europaisch-Iranische Handelsbank AG, Depenau 2, D-20095, Hamburg, Germany; SWIFT/BIC BTEJ IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

22. BANK TORGOVOY KAPITAL ZAO (a.k.a. TC BANK; a.k.a. TK BANK; a.k.a. TK BANK ZAO; a.k.a. TORGOVY KAPITAL (TK BANK); a.k.a. TRADE CAPITAL BANK; a.k.a. TRADE CAPITAL BANK (TC BANK); a.k.a. ZAO BANK TORGOVY KAPITAL), 3 Kozlova Street, Minsk 220005, Belarus; SWIFT/BIC BBTK BY 2X; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 30 (Belarus); all offices worldwide [IRAN].

23. BANK-E SHAHR, Sepahod Gharani, Corner of Khosro St., No. 147, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

24. BEHSAZ KASHANE TEHRAN CONSTRUCTION CO. (a.k.a. BEHSAZ KASHANEH CO.), No. 40, East Street Journal, North Shiraz Street, Sadra Avenue, Tehran, Iran; Web site http://www.behsazco.ir; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

25. BIMEH IRAN INSURANCE COMPANY (U.K.) LIMITED (a.k.a. BIUK), 4/5 Fenchurch Buildings, London EC3M 5HN, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 01223433 (United Kingdom); all offices worldwide [IRAN].

26. BLUE TANKER SHIPPING SA, Care of Sambouk Shipping FCZ, Office 101, 1st Floor, FITCO Building No 3, Inside Fujairah Port, P.O. Box 50044, Fujairah, United Arab Emirates; Majuro MH, Marshall Islands; Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

27. BOU ALI SINA PETROCHEMICAL COMPANY (a.k.a. BUALI SINA PETROCHEMICAL COMPANY), No. 17, 1st Floor, Daman Afshar St., Vanak Sq., Vali-e-Asr Ave, Tehran 19697, Iran; Petrochemical Special Economic Zone (PETZONE), Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

28. BREYELLER STAHL TECHNOLOGY GMBH & CO. KG (a.k.a. BREYELLER STAHL TECHNOLOGY GMBH AND CO. KG; f.k.a. ROETZEL-STAHL GMBH & CO. KG; f.k.a. ROETZEL-STAHL GMBH AND CO. KG), Josefstrasse 82, Nettetal 41334, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRA 4528 (Germany); all offices worldwide [IRAN].

29. CASPIAN MARITIME LIMITED, Fortuna Court, Block B, 284 Archbishop Makarios II Avenue, Limassol 3105, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(25800000); Fax (357)(25588055) [IRAN] (Linked To: NATIONAL IRANIAN TANKER COMPANY).

30. COMMERCIAL PARS OIL CO., 9th Floor, No. 346, Mirdamad Avenue, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

31. CREDIT INSTITUTION FOR DEVELOPMENT, 53 Saanee, Jahan-e Koodak, Crossroads Africa St., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

32. CYLINDER SYSTEM L.T.D. (a.k.a. CILINDER SISTEM D.O.O.; a.k.a. CILINDER SISTEM D.O.O. ZA PROIZVODNJU I USLUGE), Dr. Mile Budaka 1, Slavonski Brod 35000, Croatia; 1 Mile Budaka, Slavonski Brod 35000, Croatia; Web site http://www.csc-sb.hr; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 050038884 (Croatia); Tax ID No. 27694384517 (Croatia) [IRAN].

33. DANESH SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

34. DAVAR SHIPPING CO LTD, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22678777) [IRAN] (Linked To: NATIONAL IRANIAN TANKER COMPANY).

35. DENA TANKERS FZE, Free Zone, P.O. Box 5232, Fujairah, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN] (Linked To: NATIONAL IRANIAN TANKER COMPANY).

36. DEY BANK (a.k.a. BANK-E DEY), Bokharest St., 1st St., No. 13, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

37. EGHTESAD NOVIN BANK (a.k.a. BANK-E EGHTESAD NOVIN; a.k.a. EN BANK PJSC), Vali Asr Street, Above Vanak Circle, across Niayesh, Esfandiari Blvd., No. 24, Tehran, Iran; SWIFT/BIC BEGN IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

38. EUROPAISCH-IRANISCHE HANDELSBANK AG (f.k.a. DEUTSCH-IRANISCHE HANDELSBANK AG; a.k.a. EUROPAEISCH-IRANISCHE HANDELSBANK; a.k.a. EUROPAESCH-IRANISCHE HANDELSBANK AKTIENGESELLSCHAFT; a.k.a. GERMAN-IRANIAN TRADE BANK), Hamburg Head Office, Depenau 2, D-20095 Hamburg, P.O. Box 101304, D-20008 Hamburg, Hamburg, Germany; Kish Branch, Sanaee Avenue, P.O. Box 79415/148, Kish Island 79415, Iran; Tehran Branch, No. 1655/1, Valiasr Avenue, P.O. Box 19656 43 511, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

39. EXECUTION OF IMAM KHOMEINI'S ORDER (a.k.a. EIKO; a.k.a. SETAD; a.k.a. SETAD EJRAEI EMAM; a.k.a. SETAD-E EJRAEI-E FARMAN-E HAZRAT-E EMAM; a.k.a. SETAD-E FARMAN-EJRAEI-YE EMAM), Khaled Stamboli St., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

40. EXPORT DEVELOPMENT BANK OF IRAN (a.k.a. BANK TOSEH SADERAT IRAN; a.k.a. BANK TOWSEEH SADERAT IRAN; a.k.a. BANK TOWSEH SADERAT IRAN; a.k.a. EDBI), Tose'e Tower, Corner of 15th St., Ahmed Qasir Ave., Argentine Square, Tehran, Iran; No. 129, 21's Khaled Eslamboli, No. 1 Building, Tehran, Iran; Export Development Building, Next to the 15th Alley, Bokharest Street, Argentina Square, Tehran, Iran; No. 26, Tosee Tower, Arzhantine Square, P.O. Box 15875-5964, Tehran 15139, Iran; No. 4, Gandi Ave., Tehran 1516747913, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 86936 (Iran) issued 10 Jul 1991; all offices worldwide [IRAN].

41. FUTURE BANK B.S.C. (a.k.a. BANK-E AL-MOSTAGHBAL; a.k.a. FUTURE BANK), P.O. Box 785, City Centre Building, Government Avenue, Manama, Bahrain; Block 304, City Centre Building, Building 199, Government Avenue, Road 383, Manama, Bahrain; Free Trade Zone, Sanaati-e Kish, Vilay-e Ferdos 2, Corner of Klinik-e Khanevadeh, No 1/5 and 3/5, Kish, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Business Registration Document # 54514-1 (Bahrain) expires 09 Jun 2009; Trade License No. 13388 (Bahrain); All branches worldwide [IRAN].

42. GARBIN NAVIGATION LTD, Care of Sambouk Shipping FCZ, Office 101, 1st Floor, FITCO Building No 3, Inside Fujairah Port, P.O. Box 50044, Fujairah, United Arab Emirates; 80 Broad Street, Monrovia, Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

43. GHADIR INVESTMENT COMPANY, 341 West Mirdamad Boulevard, Tehran, Iran; P.O. Box 19696, Tehran, Iran; Web site http://www.ghadir-invest.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

44. GHAED BASSIR PETROCHEMICAL PRODUCTS COMPANY (a.k.a. GHAED BASSIR), No. 15, Palizvani (7th) Street, Gandhi (South) Avenue, Tehran 1517655711, Iran; Km 10 of Khomayen Road, Golpayegan, Iran; Web site http://www.gbpc.net; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

45. GHARZOLHASANEH RESALAT BANK, Biside the No. 1 Baghestan Alley, Saadat Abad Ave., Kaj Sq., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; All offices worldwide [IRAN].

46. GHAVAMIN BANK (a.k.a. “GHAVAMIN FINANCIAL & CREDIT INS.”), No. 252 Milad Tower, Beginning of Africa Blvd., Argentina Sq, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; All offices worldwide [IRAN].

47. GOLDEN RESOURCES TRADING COMPANY L.L.C. (a.k.a. “GRTC”), 9th Floor, Office No. 905, Khalid Al Attar Tower 1, Sheikh Zayed Road, After Crown Plaza Hotel, Al Wasl Area, Dubai, United Arab Emirates; Postal Box 34489, Dubai, United Arab Emirates; Postal Box 14358, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

48. GRACE BAY SHIPPING INC, Care of Sambouk Shipping FCZ, 1st Floor, FITCO Building No 3, Inside Fujairah Port, P.O. Box 50044, Fujairah, United Arab Emirates; Trust Company Complex, Ajeltake Road, Ajeltake Island, Majuro MH96960, Marshall Islands; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

49. HADI SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

50. HARAZ SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

51. HATEF SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

52. HEKMAT IRANIAN BANK (a.k.a. BANK-E HEKMAT IRANIAN), Argentine Circle, beginning of Africa St., Corner of 37th St., (Dara Cul-de-sac), No.26, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

53. HERCULES INTERNATIONAL SHIP, Care of Sambouk Shipping FCZ, Office 101, 1st Floor, FITCO Building No 3, Inside Fujairah Port, P.O. Box 50044, Fujairah, United Arab Emirates; 80 Broad Street, Monrovia, Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

54. HERMIS SHIPPING SA, Care of Sambouk Shipping FCZ, Office 101, 1st Floor, FITCO Building No 3, Inside Fujairah Port, P.O. Box 50044, Fujairah, United Arab Emirates; Panama City, Panama; Monrovia, Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

55. HIRMAND SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

56. HODA SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

57. HOMA SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

58. HONAR SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

59. HONG KONG INTERTRADE COMPANY, Hong Kong; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

60. HORMOZ OIL REFINING COMPANY, Next to the Current Bandar Abbas Refinery, Bandar Abbas City, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

61. IFIC HOLDING AG (a.k.a. IHAG), Koenigsallee 60 D, Dusseldorf 40212, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 48032 (Germany); all offices worldwide [IRAN].

62. IHAG TRADING GMBH, Koenigsallee 60 D, Dusseldorf 40212, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 37918 (Germany); all offices worldwide [IRAN].

63. IMPIRE SHIPPING COMPANY (a.k.a. IMPIRE SHIPPING; a.k.a. IMPIRE SHIPPING LIMITED), Greece; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

64. INDUSTRIAL DEVELOPMENT AND RENOVATION ORGANIZATION OF IRAN (a.k.a. IDRO; a.k.a. IRAN DEVELOPMENT & RENOVATION ORGANIZATION COMPANY; a.k.a. IRAN DEVELOPMENT AND RENOVATION ORGANIZATION COMPANY; a.k.a. SAWZEMANE GOSTARESH VA NOWSAZI SANAYE IRAN), Vali Asr Building, Jam e Jam Street, Vali Asr Avenue, Tehran 15815-3377, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

65. INTRA CHEM TRADING GMBH (a.k.a. INTRA-CHEM TRADING CO. (GMBH)), Schottweg 3, Hamburg 22087, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB48416 (Germany); all offices worldwide [IRAN].

66. IRAN & SHARGH COMPANY (a.k.a. IRAN AND EAST COMPANY; a.k.a. IRAN AND SHARGH COMPANY; a.k.a. IRANOSHARGH COMPANY; a.k.a. SHERKAT-E IRAN VA SHARGH), 827, North of Seyedkhandan Bridge, Shariati Street, P.O. Box 13185-1445, Tehran 16616, Iran; No. 41, Next to 23rd Alley, South Gandi St., Vanak Square, Tehran 15179, Iran; Web site http://www.iranoshargh.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

67. IRAN & SHARGH LEASING COMPANY (a.k.a. IRAN AND EAST LEASING COMPANY; a.k.a. IRAN AND SHARGH LEASING COMPANY; a.k.a. SHERKAT-E LIZING-E IRAN VA SHARGH), 1st Floor, No. 33, Shahid Atefi Alley, Opposite Mellat Park, Vali-e-Asr Street, Tehran 1967933759, Iran; Web site http://www.isleasingco.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

68. IRAN FOREIGN INVESTMENT COMPANY (a.k.a. IFIC), No. 4, Saba Blvd., Africa Blvd., Tehran 19177, Iran; P.O. Box 19395-6947, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

69. IRAN INSURANCE COMPANY (a.k.a. BIMEH IRAN), 107 Dr Fatemi Avenue, Tehran 14155/6363, Iran; Abdolaziz-Al-Masaeed Building, Sheikh Maktoom St., Deira, P.O. Box 2004, Dubai, United Arab Emirates; P.O. Box 1867, Al Ain, Abu Dhabi, United Arab Emirates; P.O. Box 3281, Abu Dhabi, United Arab Emirates; P.O. Box 1666, Sharjah, United Arab Emirates; P.O. Box 849, Ras-Al-Khaimah, United Arab Emirates; P.O. Box 417, Muscat 113, Oman; P.O. Box 676, Salalah 211, Oman; P.O. Box 995, Manama, Bahrain; Al-Lami Center, Ali-Bin-Abi Taleb St. Sharafia, P.O. Box 11210, Jeddah 21453, Saudi Arabia; Al Alia Center, Salaheddine Rd., Al Malaz, P.O. Box 21944, Riyadh 11485, Saudi Arabia; Al Rajhi Bldg., 3rd Floor, Suite 23, Dhahran St., P.O. Box 1305, Dammam 31431, Saudi Arabia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

70. IRAN PETROCHEMICAL COMMERCIAL COMPANY (a.k.a. PETROCHEMICAL COMMERCIAL COMPANY; a.k.a. SHERKATE BASARGANI PETROCHEMIE (SAHAMI KHASS); a.k.a. SHERKATE BAZARGANI PETRCHEMIE; a.k.a. “IPCC”; a.k.a. “PCC”), No. 1339, Vali Nejad Alley, Vali-e-Asr St., Vanak Sq., Tehran, Iran; INONU CAD. SUMER Sok., Zitas Bloklari C.2 Bloc D.H, Kozyatagi, Kadikoy, Istanbul, Turkey; Topcu Ibrahim Sokak No: 13 D: 7 Icerenkoy-Kadikoy, Istanbul, Turkey; 99-A, Maker Tower F, 9th Floor, Cuffe Parade, Colabe, Mumbai 400 005, India; No. 1014, Doosan We've Pavilion, 58, Soosong-Dong, Jongno-Gu, Seoul, Korea, South; Office No. 707, No. 10, Chao Waidajie, Chao Tang District, Beijing 100020, China; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

71. IRAN ZAMIN BANK (a.k.a. BANK-E IRAN ZAMIN), Seyyed Jamal-oldin Asadabadi St., Corner of 68th St., No. 472, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

72. IRANIAN MINES AND MINING INDUSTRIES DEVELOPMENT AND RENOVATION ORGANIZATION (a.k.a. IMIDRO; a.k.a. IRAN MINING INDUSTRIES DEVELOPMENT AND RENOVATION ORGANIZATION; a.k.a. IRANIAN MINES AND MINERAL INDUSTRIES DEVELOPMENT AND RENOVATION), No. 39, Sepahbod Gharani Avenue, Ferdousi Square, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

73. IRANIAN OIL COMPANY (U.K.) LIMITED (a.k.a. IOC UK LTD), Riverside House, Riverside Drive, Aberdeen AB11 7LH, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 01019769 (United Kingdom); all offices worldwide [IRAN].

74. IRASCO S.R.L. (a.k.a. IRASCO ITALY), Via Di Francia 3, Genoa 16149, Italy; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID GE 348075 (Italy); all offices worldwide [IRAN].

75. ISLAMIC REGIONAL COOPERATION BANK (a.k.a. BANK-E TAAWON MANTAGHEEY-E ESLAMI; a.k.a. REGIONAL COOPERATION OF THE ISLAMIC BANK FOR DEVELOPMENT & INVESTMENT), Building No. 59, District 929, Street No. 17, Arsat Al-Hindia, Al Masbah, Baghdad, Iraq; Tohid Street, Before Tohid Circle, No. 33, Upper Level of Eghtesad-e Novin Bank, Tehran 1419913464, Iran; SWIFT/BIC RCDF IQ BA; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

76. JOINT IRAN-VENEZUELA BANK (a.k.a. BANK MOSHTAREK-E IRAN VENEZUELA; a.k.a. IRANIAN-VENEZUELAN BI-NATIONAL BANK), Ahmad Ghasir St. (Bokharest), Corner of 15th St., Tose Tower, No.44-46, Tehran 1013830711, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

77. JUPITER SEAWAYS SHIPPING, Care of Sambouk Shipping FCZ, Office 101, 1st Floor, FITCO Building No 3, Inside Fujairah Port, P.O. Box 50044, Fujairah, United Arab Emirates; 80 Broad Street, Monrovia, Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

78. KAFOLATBANK (a.k.a. CJSC KAFOLATBANK), Apartment 4/1, Academics Rajabovs Street, Dushanbe, Tajikistan; SWIFT/BIC KACJ TJ 22; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; All offices worldwide [IRAN].

79. KALA LIMITED (a.k.a. KALA NAFT LONDON LTD), NIOC House, 4 Victoria Street, Westminster, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 01517853 (United Kingdom); all offices worldwide [IRAN].

80. KALA PENSION TRUST LIMITED, C/O Kala Limited, N.I.O.C. House, 4 Victoria Street, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 01573317 (United Kingdom); all offices worldwide [IRAN].

81. KARAFARIN BANK (a.k.a. BANK-E KARAFARIN), Zafar St. No. 315, Between Vali Asr and Jordan, Tehran, Iran; SWIFT/BIC KBID IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

82. KASB INTERNATIONAL LLC (a.k.a. FIRST FURAT TRADING LLC), 10th Floor, Citi Bank Building, Oud Metha Road, Oud Metha, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone Number: (971) (4) (3248000) [IRAN].

83. KHAVARMIANEH BANK (a.k.a. MIDDLE EAST BANK), No. 22, Second Floor Sabounchi St., Shahid Beheshti Ave., Tehran, Iran; SWIFT/BIC KHMI IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; All offices worldwide [IRAN].

84. KISH INTERNATIONAL BANK (a.k.a. KISH INTERNATIONAL BANK OFFSHORE COMPANY PJS), NBO-9, Andisheh Blvd., Sanayi Street, Kish Island, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; All offices worldwide [IRAN].

85. KONING MARINE CORP, Care of Sambouk Shipping FCZ, Office 101, 1st Floor, FITCO Building No 3, Inside Fujairah Port, P.O. Box 50044, Fujairah, United Arab Emirates; 80 Broad Street, Monrovia, Liberia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

86. MACHINE SAZI ARAK CO. LTD. (a.k.a. MACHINE SAZI ARAK COMPANY P J S C; a.k.a. MACHINE SAZI ARAK SSA; a.k.a. MASHIN SAZI ARAK; a.k.a. “MSA”), P.O. Box 148, Arak 351138, Iran; Arak, Km 4 Tehran Road, Arak, Markazi Province, Iran; No. 1, Northern Kargar Street, Tehran 14136, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

87. MAHAB GHODSS CONSULTING ENGINEERING COMPANY (a.k.a. MAHAB GHODSS CONSULTING ENGINEERING CO.; a.k.a. MAHAB GHODSS CONSULTING ENGINEERS SSK; a.k.a. MAHAB QODS ENGINEERING CONSULTING CO.), No. 17, Dastgerdy Avenue, Takharestan Alley, 19395-6875, Tehran 1918781185, Iran; 16 Takharestan Alley, Dastgerdy Avenue, P.O. Box 19395-6875, Tehran 19187 81185, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 48962 (Iran) issued 1983; all offices worldwide [IRAN].

88. MARJAN PETROCHEMICAL COMPANY (a.k.a. MARJAN METHANOL COMPANY), Ground Floor, No. 39, Meftah/Garmsar West Alley, Shiraz (South) Street, Molla Sadra Avenue, Tehran, Iran; Post Office Box 19935-561, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

89. MCS ENGINEERING (a.k.a. EFFICIENT PROVIDER SERVICES GMBH), Karlstrasse 21, Dinslaken, Nordrhein-Westfalen 46535, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

90. MCS INTERNATIONAL GMBH (a.k.a. MANNESMAN CYLINDER SYSTEMS; a.k.a. MCS TECHNOLOGIES GMBH), Karlstrasse 23-25, Dinslaken, Nordrhein-Westfalen 46535, Germany; Web site http://www.mcs-tch.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

91. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

92. MEHRAN SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

93. MELLAT INSURANCE COMPANY, No. 48, Haghani Street, Vanak Square, Before Jahan-Kodak Cross, Tehran 1517973913, Iran; No. 40, Shahid Haghani Express Way, Vanak Square, Tehran, Iran; No. 9, Niloofar Street, Sharabyani Avenue, Taavon Boulevard, Shahr-e-Ziba, Tehran, Iran; 72 Hillview Court, Woking, Surrey GU22 7QW, United Kingdom; No. 697 Saeeidi Alley, Crossroads College, Enghelab St., Tehran, Iran; Web site http://www.mellatinsurance.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

94. MERSAD SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

95. METAL & MINERAL TRADE S.A.R.L. (a.k.a. METAL & MINERAL TRADE (MMT); a.k.a. METAL AND MINERAL TRADE (MMT); a.k.a. METAL AND MINERAL TRADE S.A.R.L.; a.k.a. MMT LUXEMBURG; a.k.a. MMT SARL), 11b, Boulevard Joseph II L-1840, Luxembourg; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID B 59411 (Luxembourg); all offices worldwide [IRAN].

96. MINAB SHIPPING COMPANY LIMITED (f.k.a. MIGHAT SHIPPING COMPANY LIMITED), Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

97. MINES AND METALS ENGINEERING GMBH (a.k.a. “M.M.E.”), Georg-Glock-Str. 3, Dusseldorf 40474, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 34095 (Germany); all offices worldwide [IRAN].

98. MOBIN PETROCHEMICAL COMPANY, South Pars Special Economic Energy Zone, Postal Box: 75391-418, Assaluyeh, Bushehr, Iran; P.O. Box, Mashhad, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

99. MODABER (a.k.a. MODABER INVESTMENT COMPANY; a.k.a. TADBIR INDUSTRIAL HOLDING COMPANY); Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

100. MONSOON SHIPPING LTD, Care of Sambouk Shipping FCZ, Office 101, 1st Floor, FITCO Building No 3, Inside Fujairah Port, P.O. Box 50044, Fujairah, United Arab Emirates; Valletta, Malta; Trust Company Complex, Ajeltake Road, Ajeltake Island, Majuro MH96960, Marshall Islands; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

101. MSP KALA NAFT CO. TEHRAN (a.k.a. KALA NAFT CO SSK; a.k.a. KALA NAFT COMPANY LTD; a.k.a. KALA NAFT TEHRAN; a.k.a. KALA NAFT TEHRAN COMPANY; a.k.a. KALAYEH NAFT CO; a.k.a. M.S.P.-KALA; a.k.a. MANUFACTURING SUPPORT & PROCUREMENT CO.-KALA NAFT; a.k.a. MANUFACTURING SUPPORT AND PROCUREMENT (M.S.P.) KALA NAFT CO. TEHRAN; a.k.a. MANUFACTURING, SUPPORT AND PROCUREMENT KALA NAFT COMPANY; a.k.a. MSP KALA NAFT TEHRAN COMPANY; a.k.a. MSP KALANAFT; a.k.a. MSP-KALANAFT COMPANY; a.k.a. SHERKAT SAHAMI KHASS KALA NAFT; a.k.a. SHERKAT SAHAMI KHASS POSHTIBANI VA TEHIYEH KALAYE NAFT TEHRAN; a.k.a. SHERKATE POSHTIBANI SAKHT VA TAHEIH KALAIE NAFTE TEHRAN), 242 Sepahbod Gharani Street, Karim Khan Zand Bridge, Corner Kalantari Street, 8th Floor, P.O. Box 15815-1775/15815-3446, Tehran 15988, Iran; Building No. 226, Corner of Shahid Kalantari Street, Sepahbod Gharani Avenue, Karimkhan Avenue, Tehran 1598844815, Iran; No. 242, Shahid Kalantari St., Near Karimkhan Bridge, Sepahbod Gharani Avenue, Tehran, Iran; Head Office Tehran, Sepahbod Gharani Ave., P.O. Box 15815/1775 15815/3446, Tehran, Iran; P.O. Box 2965, Sharjah, United Arab Emirates; 333 7th Ave SW #1102, Calgary, AB T2P 2Z1, Canada; Chekhov St., 24.2, AP 57, Moscow, Russia; Room No. 704—No. 10 Chao Waidajie Chao Yang District, Beijing 10020, China; Sanaee Ave., P.O. Box 79417-76349, N.I.O.C., Kish, Iran; 10th Floor, Sadaf Tower, Kish Island, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

102. N.I.T.C. REPRESENTATIVE OFFICE (a.k.a. NATIONAL IRANIAN TANKER COMPANY), Droogdokweg 71, Rotterdam 3089 JN, Netherlands; Email Address nitcrdam@tiscali.net; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone +31 010-4951863; Telephone +31 10-4360037; Fax +31 10-4364096 [IRAN] (Linked To: NATIONAL IRANIAN TANKER COMPANY).

103. NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 41, 1st Floor, International House, The Parade, St Helier JE2 3QQ, Jersey; Petro Pars Building, Saadat Abad Ave, No 35, Farhang Blvd., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN] (Linked To: NIOC INTERNATIONAL AFFAIRS (LONDON) LIMITED).

104. NAFTIRAN INTERTRADE CO. (NICO) SARL (a.k.a. NICO), 6, Avenue de la Tour-Haldimand, Pully, VD 1009, Switzerland; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

105. NAFTIRAN TRADING SERVICES CO. (NTS) LIMITED, 47 Queen Anne Street, London W1G 9JG, United Kingdom; 6th Floor NIOC Ho, 4 Victoria St, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 02600121 (United Kingdom); all offices worldwide [IRAN].

106. NATIONAL IRANIAN OIL COMPANY (a.k.a. NIOC), Hafez Crossing, Taleghani Avenue, P.O. Box 1863 and 2501, Tehran, Iran; National Iranian Oil Company Building, Taleghani Avenue, Hafez Street, Tehran, Iran; Web site www.nioc.ir; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

107. NATIONAL IRANIAN OIL COMPANY PTE LTD, 7 Temasek Boulevard #07-02, Suntec Tower One 038987, Singapore; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 199004388C (Singapore); all offices worldwide [IRAN].

108. NATIONAL IRANIAN TANKER COMPANY (a.k.a. NITC), NITC Building, 67-88, Shahid Atefi Street, Africa Avenue, Tehran, Iran; Web site www.nitc.co.ir; Email Address info@nitc.co.ir; alt. Email Address administrator@nitc.co.ir; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN].

109. NATIONAL IRANIAN TANKER COMPANY LLC (a.k.a. NATIONAL IRANIAN TANKER COMPANY LLC SHARJAH BRANCH; a.k.a. NITC SHARJAH), Al Wahda Street, Street No. 4, Sharjah, United Arab Emirates; P.O. Box 3267, Sharjah, United Arab Emirates; Web site http://nitcsharjah.com/index.html; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone +97165030600; Telephone +97165749996; Telephone +971506262258; Fax +97165394666; Fax +97165746661 [IRAN] (Linked To: NATIONAL IRANIAN TANKER COMPANY).

110. NATIONAL PETROCHEMICAL COMPANY (a.k.a. “NPC”), No. 104, North Sheikh Bahaei Blvd., Molla Sadra Ave., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

111. NICO ENGINEERING LIMITED, 41, 1st Floor, International House, The Parade, St. Helier JE2 3QQ, Jersey; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 75797 (Jersey); all offices worldwide [IRAN].

112. NIOC INTERNATIONAL AFFAIRS (LONDON) LIMITED, NIOC House, 4 Victoria Street, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 02772297 (United Kingdom); all offices worldwide [IRAN].

113. NOOR ENERGY (MALAYSIA) LTD., Labuan, Malaysia; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Company Number LL08318 [IRAN].

114. NOURI PETROCHEMICAL COMPANY (a.k.a. BORZUYEH PETROCHEMICAL COMPANY; a.k.a. NOURI PETROCHEMICAL COMPLEX), Pars Special Economic Energy Zone, Assaluyeh Port, Bushehr, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

115. NPC INTERNATIONAL LIMITED (a.k.a. N P C INTERNATIONAL LTD; a.k.a. NPC INTERNATIONAL COMPANY), 5th Floor NIOC House, 4 Victoria Street, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 02696754 (United Kingdom); all offices worldwide [IRAN].

116. OIL INDUSTRY INVESTMENT COMPANY (a.k.a. “O.I.I.C.”), No. 83, Sepahbod Gharani Street, Tehran, Iran; Web site http://www.oiic-ir.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

117. OMID REY CIVIL & CONSTRUCTION COMPANY (a.k.a. OMID DEVELOPMENT AND CONSTRUCTION; a.k.a. OMID REY CIVIL AND CONSTRUCTION COMPANY; a.k.a. OMID REY RENOVATION AND DEVELOPMENT CO.); Web site http://www.omidrey.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

118. ONE CLASS PROPERTIES (PTY) LTD. (a.k.a. ONE CLASS INCORPORATED), Cape Town, South Africa; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

119. ONE VISION INVESTMENTS 5 (PTY) LTD. (a.k.a. ONE VISION 5), 3rd Floor, Tygervalley Chambers, Bellville, Cape Town 7530, South Africa; Canal Walk, P.O. Box 17, Century City, Milnerton 7446, South Africa; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 2002/022757/07 (South Africa) [IRAN].

120. ONERBANK ZAO (a.k.a. EFTEKHAR BANK; a.k.a. HONOR BANK; a.k.a. HONORBANK; a.k.a. HONORBANK ZAO; a.k.a. ONER BANK; a.k.a. ONERBANK; a.k.a. ONER-BANK), Ulitsa Klary Tsetkin 51, Minsk 220004, Belarus; SWIFT/BIC HNRBBY2X; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 807000227 (Belarus) issued 16 Oct 2009; all offices worldwide [IRAN].

121. P.C.C. (SINGAPORE) PRIVATE LIMITED (a.k.a. P.C.C. SINGAPORE BRANCH; a.k.a. PCC SINGAPORE PTE LTD), 78 Shenton Way, #08-02 079120, Singapore; 78 Shenton Way, 26-02A Lippo Centre 079120, Singapore; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 199708410K (Singapore); all offices worldwide [IRAN].

122. PARDIS INVESTMENT COMPANY (a.k.a. SHERKAT-E SARMAYEGOZARI-E PARDIS), Iran; Unit D4 and C4, 4th Floor, Building 29 Africa, Corner of 25th Street, Africa Boulevard, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

123. PARS MCS (a.k.a. PARS MCS CO.; a.k.a. PARS MCS COMPANY), 2nd Floor, No. 4, Sasan Dead End, Afriqa Avenue, After Esfandiar, Crossroads, Tehran, Iran; No. 5 Sasan Alley, Atefi Sharghi St., Afrigha Boulevard, Tehran, Iran; Oshtorjan Industrial Zone, Zob-e Ahan Highway, Isafahan, Iran; Web site http://www.parsmcs.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

124. PARS OIL AND GAS COMPANY (a.k.a. POGC), No. 133, Side of Parvin Etesami Alley, opposite Sazman Ab—Dr. Fatemi Avenue, Tehran, Iran; No. 1 Parvin Etesami Street, Fatemi Avenue, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

125. PARS OIL CO. (a.k.a. PARS OIL; a.k.a. SHERKAT NAFT PARS SAHAMI AAM), Iran; No. 346, Pars Oil Company Building, Modarres Highway, East Mirdamad Boulevard, Tehran 1549944511, Iran; Postal Box 14155-1473, Tehran 159944511, Iran; Web site http://www.parsoilco.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

126. PARS PETROCHEMICAL COMPANY, Pars Special Economic Energy Zone, P.O. Box 163-75391, Assaluyeh, Bushehr, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

127. PARS PETROCHEMICAL SHIPPING COMPANY, 1st Floor, No. 19, Shenasa Street, Vali E Asr Avenue, Tehran, Iran; Web site www.parsshipping.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN] (Linked To: NATIONAL IRANIAN TANKER COMPANY).

128. PARSIAN BANK (a.k.a. BANK-E PARSIAN), Keshavarz Blvd., No. 65, Corner of Shahid Daemi St., P.O. Box 141553163, Tehran 1415983111, Iran; No. 4 Zarafshan St, Farahzadi Blvd., Shahrak-e Ghods, 1467793811, Tehran, Iran; SWIFT/BIC BKPA IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

129. PASARGAD BANK (a.k.a. BANK-E PASARGAD), Valiasr St., Mirdamad St., No. 430, Tehran, Iran; SWIFT/BIC BKBP IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

130. PERSIA OIL & GAS INDUSTRY DEVELOPMENT CO. (a.k.a. PERSIA OIL AND GAS INDUSTRY DEVELOPMENT CO.; a.k.a. TOSE SANAT-E NAFT VA GAS PERSIA), 7th Floor, No. 346, Mirdamad Avenue, Tehran, Iran; Ground Floor, No. 14, Saba Street, Africa Boulevard, Tehran, Iran; Web site http://www.pogidc.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

131. PETRO ENERGY INTERTRADE COMPANY, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

132. PETRO ROYAL FZE, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

133. PETRO SUISSE INTERTRADE COMPANY SA, 6 Avenue de la Tour-Haldimand, Pully 1009, Switzerland; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

134. PETROCHEMICAL COMMERCIAL COMPANY (U.K.) LIMITED (a.k.a. PCC (UK); a.k.a. PCC UK; a.k.a. PCC UK LTD), 4 Victoria Street, London SW1H 0NE, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 02647333 (United Kingdom); all offices worldwide [IRAN].

135. PETROCHEMICAL COMMERCIAL COMPANY FZE (a.k.a. PCC FZE), 1703, 17th Floor, Dubai World Trade Center Tower, Sheikh Zayed Road, Dubai, United Arab Emirates; Office No. 99-A, Maker Tower “F” 9th Floor Cutte Pavade, Colabe, Mumbai 700005, India; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

136. PETROCHEMICAL COMMERCIAL COMPANY INTERNATIONAL (a.k.a. PETROCHEMICAL COMMERCIAL COMPANY INTERNATIONAL LIMITED; a.k.a. PETROCHEMICAL COMMERCIAL COMPANY INTERNATIONAL LTD; a.k.a. PETROCHEMICAL TRADING COMPANY LIMITED; a.k.a. “PCCI”), 41, 1st Floor, International House, The Parade, St. Helier JE2 3QQ, Jersey; Ave. 54, Yimpash Business Center, No. 506, 507, Ashkhabad 744036, Turkmenistan; P.O. Box 261539, Jebel Ali, Dubai, United Arab Emirates; No. 21 End of 9th St, Gandi Ave, Tehran, Iran; 21, Africa Boulevard, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 77283 (Jersey); all offices worldwide [IRAN].

137. PETROIRAN DEVELOPMENT COMPANY (PEDCO) LIMITED (a.k.a. PETRO IRAN DEVELOPMENT COMPANY; a.k.a. “PEDCO”), 41, 1st Floor, International House, The Parade, St. Helier JE2 3QQ, Jersey; National Iranian Oil Company—PEDCO, P.O. Box 2965, Al Bathaa Tower, 9th Floor, Apt. 905, Al Buhaira Corniche, Sharjah, United Arab Emirates; P.O. Box 15875-6731, Tehran, Iran; No. 22, 7th Lane, Khalid Eslamboli Street, Shahid Beheshti Avenue, Tehran, Iran; No. 102, Next to Shahid Amir Soheil Tabrizian Alley, Shahid Dastgerdi (Ex Zafar) Street, Shariati Street, Tehran 19199/45111, Iran; Kish Harbour, Bazargan Ferdos Warehouses, Kish Island, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID 67493 (Jersey); all offices worldwide [IRAN].

138. PETROPARS INTERNATIONAL FZE (a.k.a. PPI FZE), P.O. Box 72146, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

139. PETROPARS LTD. (a.k.a. PETROPARS LIMITED; a.k.a. “PPL”), No. 35, Farhang Blvd., Saadat Abad, Tehran, Iran; Calle La Guairita, Centro Profesional Eurobuilding, Piso 8, Oficina 8E, Chuao, Caracas 1060, Venezuela; P.O. Box 3136, Road Town, Tortola, Virgin Islands, British; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

140. PETROPARS UK LIMITED, 47 Queen Anne Street, London W1G 9JG, United Kingdom; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; UK Company Number 03503060 (United Kingdom); all offices worldwide [IRAN].

141. POLINEX GENERAL TRADING LLC, Health Care City, Umm Hurair Rd., Oud Mehta Offices, Block A, 4th Floor 420, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

142. POLYNAR COMPANY, No. 58, St. 14, Qanbarzadeh Avenue, Resalat Highway, Tehran, Iran; Web site http://www.polynar.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

143. POST BANK OF IRAN (a.k.a. SHERKAT-E DOLATI-E POST BANK; a.k.a. “PBI”), 237 Motahari Avenue, Tehran 1587618118, Iran; Motahari Street, No. 237, Past Darya-e Noor, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

144. PROTON PETROCHEMICALS SHIPPING LIMITED (a.k.a. PROTON SHIPPING CO; a.k.a. “PSC”), Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

145. REY INVESTMENT COMPANY, 2nd and 3rd Floors, No. 14, Saba Boulevard, After Esfandiar Crossroad, Africa Boulevard, Tehran 1918973657, Iran; Web site http://www.rey-co.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

146. REY NIRU ENGINEERING COMPANY (a.k.a. REY NIROO ENGINEERING COMPANY); Web site http://www.reyniroo.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

147. REYCO GMBH. (a.k.a. REYCO GMBH GERMANY), Karlstrasse 19, Dinslaken, Nordrhein-Westfalen 46535, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

148. RISHMAK PRODUCTIVE & EXPORTS COMPANY (a.k.a. RISHMAK COMPANY; a.k.a. RISHMAK EXPORT AND MANUFACTURING P.J.S.; a.k.a. RISHMAK PRODUCTION AND EXPORT COMPANY; a.k.a. RISHMAK PRODUCTIVE AND EXPORTS COMPANY; a.k.a. SHERKAT-E TOLID VA SADERAT-E RISHMAK), Rishmak Cross Rd., 3rd Km. of Amir Kabir Road, Shiraz 71365, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

149. ROYAL ARYA CO. (a.k.a. ARIA ROYAL CONSTRUCTION COMPANY), Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

150. SADAF PETROCHEMICAL ASSALUYEH COMPANY (a.k.a. SADAF ASALUYEH CO.; a.k.a. SADAF CHEMICAL ASALUYEH COMPANY; a.k.a. SADAF PETROCHEMICAL ASSALUYEH INVESTMENT SERVICE), Assaluyeh, Iran; South Pars Special Economy/Energy Zone, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

151. SAMAN BANK (a.k.a. BANK-E SAMAN), Vali Asr. St. No. 3, Before Vey Park intersection, corner of Tarakesh Dooz St., Tehran, Iran; SWIFT/BIC SABC IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

152. SAMAN SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

153. SAMBOUK SHIPPING FZC, FITCO Building No. 3, Office 101, 1st Floor, P.O. Box 50044, Fujairah, United Arab Emirates; Office 1202, Crystal Plaza, P.O. Box 50044, Buhaira Corniche, Sharjah, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

154. SARMAYEH BANK (a.k.a. BANK-E SARMAYEH), Sepahod Gharani No. 24, Corner of Arak St., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

155. SARV SHIPPING COMPANY LIMITED, 198 Old Bakery Street, Valletta VLT 1455, Malta; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (356)(21241232) [IRAN] (Linked To: NATIONAL IRANIAN TANKER COMPANY).

156. SEPID SHIPPING COMPANY LIMITED, 198 Old Bakery Street, Valletta VLT 1455, Malta; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (356)(21241232) [IRAN] (Linked To: NATIONAL IRANIAN TANKER COMPANY).

157. SHAHID TONDGOOYAN PETROCHEMICAL COMPANY (a.k.a. SHAHID TONDGUYAN PETROCHEMICAL COMPANY), Petrochemical Special Economic Zone (PETZONE), Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

158. SHAZAND PETROCHEMICAL COMPANY (a.k.a. AR.P.C.; a.k.a. ARAK PETROCHEMICAL COMPANY; a.k.a. SHAZAND PETROCHEMICAL CORPORATION), No. 68, Taban St., Vali Asr Ave., Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

159. SIMA GENERAL TRADING CO FZE (a.k.a. SIMA GENERAL TRADING & INDUSTRIALS FOR BUILDING MATERIAL CO FZE), Office No. 703 Office Tower, Twin Tower, Baniyas Rd., Deira, P.O. Box 49754, Dubai, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

160. SIMA SHIPPING COMPANY LIMITED, 198 Old Bakery Street, Valletta VLT 1455, Malta; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (356)(21241232) [IRAN] (Linked To: NATIONAL IRANIAN TANKER COMPANY).

161. SINA BANK (f.k.a. BFCC; f.k.a. BONYAD FINANCE AND CREDIT COMPANY; f.k.a. SINA FINANCE AND CREDIT COMPANY), 187 Motahhari Avenue, P.O. Box 1587998411, Tehran, Iran; Kish Financial Center, Sahel, Kish Island, Iran; SWIFT/BIC SINAIRTH; SWIFT/BIC SINAIRTH418; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; all offices worldwide [IRAN].

162. SINA SHIPPING COMPANY LIMITED, 198 Old Bakery Street, Valletta VLT 1455, Malta; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (356)(21241232) [IRAN] (Linked To: NATIONAL IRANIAN TANKER COMPANY).

163. SWISS MANAGEMENT SERVICES SARL, 28C, Route de Denges, Lonay 1027, Switzerland; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

164. SYNERGY GENERAL TRADING FZE, Sharjah—Saif Zone, Sharjah Airport International Free Zone, United Arab Emirates; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

165. TABRIZ PETROCHEMICAL COMPANY, Off Km 8, Azarshahr Road, Kojuvar Road, Tabriz, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

166. TADBIR BROKERAGE COMPANY (a.k.a. SHERKAT-E KARGOZARI-E TADBIRGARAN-E FARDA; a.k.a. TADBIRGARAN FARDA BROKERAGE COMPANY; a.k.a. TADBIRGARAN-E FARDA BROKERAGE COMPANY; a.k.a. TADBIRGARANE FARDA MERCANTILE EXCHANGE CO.), Unit C2, 2nd Floor, Building No. 29, Corner of 25th Street, After Jahan Koudak, Cross Road Africa Street, Tehran 15179, Iran; Web site http://www.tadbirbroker.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

167. TADBIR CONSTRUCTION DEVELOPMENT COMPANY (a.k.a. GORUH-E TOSE-E SAKHTEMAN-E TADBIR; a.k.a. TADBIR BUILDING EXPANSION GROUP; a.k.a. TADBIR HOUSING DEVELOPMENT GROUP), Block 1, Mehr Passage, 4th Street, Iran Zamin Boulevard, Shahrak Qods, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

168. TADBIR ECONOMIC DEVELOPMENT GROUP (a.k.a. TADBIR GROUP), 16 Avenue Bucharest, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

169. TADBIR ENERGY DEVELOPMENT GROUP CO., 6th Floor, Mirdamad Avenue, No. 346, Tehran, Iran; Web site http://www.tadbirenergy.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

170. TADBIR INVESTMENT COMPANY, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

171. TAT BANK (a.k.a. BANK-E TAT), Shahid Ahmad Ghasir (Bocharest), Shahid Ahmadian (15th) St., No. 1, Tehran, Iran; No. 1 Ahmadian Street, Bokharest Avenue, Tehran, Iran; SWIFT/BIC TATB IR TH; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

172. TC SHIPPING COMPANY LIMITED, Diagoras House, 7th Floor, 16 Panteli Katelari Street, Nicosia 1097, Cyprus; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Telephone (357)(22660766); Fax (357)(22668608) [IRAN] (Linked To: NATIONAL IRANIAN TANKER COMPANY).

173. TOSEE EQTESAD AYANDEHSAZAN COMPANY (a.k.a. TEACO; a.k.a. TOSEE EGHTESAD AYANDEHSAZAN COMPANY), 39 Gandhi Avenue, Tehran 1517883115, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

174. TOSEE TAAVON BANK (a.k.a. BANK-E TOSE'E TA'AVON; a.k.a. COOPERATIVE DEVELOPMENT BANK), Mirdamad Blvd., North East Corner of Mirdamad Bridge, No. 271, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

175. TOURISM BANK (a.k.a. BANK-E GARDESHGARI), Vali Asr St., above Vey Park, Shahid Fiazi St., No. 51, first floor, Tehran, Iran; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

176. WEST SUN TRADE GMBH (a.k.a. WEST SUN TRADE), Winterhuder Weg 8, Hamburg 22085, Germany; Arak Machine Mfg. Bldg., 2nd Floor, opp. of College Economy, Northern Kargar Ave., Tehran 14136, Iran; Mundsburger Damm 16, Hamburg 22087, Germany; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf; Registration ID HRB 45757 (Germany); all offices worldwide [IRAN].

177. ZARIN RAFSANJAN CEMENT COMPANY (a.k.a. RAFSANJAN CEMENT COMPANY; a.k.a. ZARRIN RAFSANJAN CEMENT COMPANY), 2nd Floor, No. 67, North Sindokht Street, West Dr. Fatemi Avenue, Tehran 1411953943, Iran; Web site http://www.zarrincement.com; Additional Sanctions Information—Not on the SDN List and Not Subject to Secondary Sanctions; U.S. Persons Must Continue to Block the Property and Interests in Property of this Person Pursuant to Executive Order 13599; For more information, please see: https://www.treasury.gov/resource-center/sanctions/Programs/Documents/jcpoa_faqs.pdf [IRAN].

Vessels

1. ABELIA (f.k.a. ASTARA; f.k.a. JUPITER) (9HDS9) Crude/Oil Products Tanker 99,087DWT 56,068GRT None Identified flag; Former Vessel Flag Tuvalu; alt. Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9187631; MMSI 256845000 (vessel) [IRAN] (Linked To: NATIONAL IRANIAN TANKER COMPANY).

2. ALERT (f.k.a. ASTANEH; f.k.a. NEPTUNE; f.k.a. SEAPRIDE) (T2ES4) Crude/Oil Products Tanker 99,144DWT 56,068GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9187643; MMSI 572467210 (vessel) [IRAN] (Linked To: NATIONAL IRANIAN TANKER COMPANY).

3. AMBER (f.k.a. FREEDOM; f.k.a. HARAZ) (5IM 597) Crude Oil Tanker 317,356DWT 163,660GRT None Identified flag; Former Vessel Flag Cyprus; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357406; MMSI 677049700 (vessel) [IRAN] (Linked To: NATIONAL IRANIAN TANKER COMPANY).

4. ATLANTIC (f.k.a. SEAGULL) Crude Oil Tanker Liberia flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9107655 (vessel) [IRAN].

5. ATLANTIS (5IM316) Crude Oil Tanker Tanzania flag (NITC); Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569621 (vessel) [IRAN].

6. AURA (f.k.a. OCEAN PERFORMER) Crude Oil Tanker Mongolia flag; Former Vessel Flag Liberia; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9013749 (vessel) [IRAN].

7. BADR (EQJU) Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8407345 (vessel) [IRAN] (Linked To: NATIONAL IRANIAN TANKER COMPANY).

8. BANEH (EQKF) Landing Craft 640DWT 478GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8508462; MMSI 422141000 (vessel) [IRAN] (Linked To: NATIONAL IRANIAN TANKER COMPANY).

9. BICAS (f.k.a. GLAROS) Crude Oil Tanker Liberia flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9077850 (vessel) [IRAN].

10. BRIGHT (f.k.a. ZAP) Crude Oil Tanker Mongolia flag; Former Vessel Flag Liberia; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9005235 (vessel) [IRAN].

11. CARIBO (f.k.a. NEREYDA) Crude Oil Tanker Panama flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9011246 (vessel) [IRAN].

12. COURAGE (f.k.a. HOMA) (5IM 596) Crude Oil Tanker 317,367DWT 163,660GRT None Identified flag; Former Vessel Flag Cyprus; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357389; MMSI 677049600 (vessel) [IRAN] (Linked To: NATIONAL IRANIAN TANKER COMPANY).

13. DAL LAKE (f.k.a. COMPANION; f.k.a. DAVAR) (5IM 593) Crude Oil Tanker 317,850DWT 164,241GRT None Identified flag; Former Vessel Flag Cyprus; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357717; MMSI 677049300 (vessel) [IRAN] (Linked To: NATIONAL IRANIAN TANKER COMPANY).

14. DAMAVAND (9HEG9) Crude Oil Tanker 297,013DWT 160,576GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9218478; MMSI 256865000 (vessel) [IRAN] (Linked To: NATIONAL IRANIAN TANKER COMPANY).

15. DARAB (9HEE9) Crude Oil Tanker 296,803DWT 160,576GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9218492; MMSI 256862000 (vessel) [IRAN] (Linked To: NATIONAL IRANIAN TANKER COMPANY).

16. DAYLAM (9HEU9) Crude Oil Tanker 299,500DWT 160,576GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9218466; MMSI 256872000 (vessel) [IRAN] (Linked To: NATIONAL IRANIAN TANKER COMPANY).

17. DECESIVE (f.k.a. DANESH; f.k.a. LEADERSHIP) (5IM 592) Crude Oil Tanker 319,988DWT 164,241GRT None Identified flag; Former Vessel Flag Cyprus; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9356593; MMSI 677049200 (vessel) [IRAN] (Linked To: NATIONAL IRANIAN TANKER COMPANY).

18. DELVAR (9HEF9) Crude Oil Tanker 299,500DWT 160,576GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9218454; MMSI 256864000 (vessel) [IRAN] (Linked To: NATIONAL IRANIAN TANKER COMPANY).

19. DEMOS (5IM656) Crude Oil Tanker Tanzania flag (NITC); Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569683 (vessel) [IRAN].

20. DENA (9HED9) Crude Oil Tanker 296,894DWT 160,576GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9218480; MMSI 256861000 (vessel) [IRAN] (Linked To: NATIONAL IRANIAN TANKER COMPANY).

21. DESTINY (f.k.a. ULYSSES 1) Crude Oil Tanker Mongolia flag; Former Vessel Flag Liberia; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9177155 (vessel) [IRAN].

22. DOJRAN (f.k.a. RAINBOW; f.k.a. SOUVENIR; a.k.a. YARD NO. 1221 SHANGHAI WAIGAOQIAO) Crude Oil Tanker 318,000DWT 165,000GRT Tanzania flag; Former Vessel Flag Malta; alt. Former Vessel Flag Tuvalu; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569619 (vessel) [IRAN] (Linked To: NATIONAL IRANIAN TANKER COMPANY).

23. DOVE (f.k.a. HONAR; f.k.a. JANUS; f.k.a. VICTORY) (T2EA4) Crude Oil Tanker 317,367DWT 163,660GRT None Identified flag; Former Vessel Flag Cyprus; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9362061; MMSI 209511000 (vessel) [IRAN] (Linked To: NATIONAL IRANIAN TANKER COMPANY).

24. FIANGA (f.k.a. FAEZ; f.k.a. MAESTRO; f.k.a. SATEEN) (T2DM4) Chemical/Products Tanker 35,124DWT 25,214GRT None Identified flag; Former Vessel Flag Malta;alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9283760; MMSI 572438210 (vessel) [IRAN] (Linked To: NATIONAL IRANIAN TANKER COMPANY).

25. FORTUN (f.k.a. SONATA; a.k.a. YARD NO. 1222 SHANGHAI WAIGAOQIAO) Crude Oil Tanker 318,000DWT 165,000GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569633 (vessel) [IRAN] (Linked To: NATIONAL IRANIAN TANKER COMPANY).

26. HALISTIC (f.k.a. HAMOON; f.k.a. LENA; f.k.a. TAMAR) (T2EQ4) Crude Oil Tanker 299,242DWT 160,930GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9212929; MMSI 572465210 (vessel) [IRAN] (Linked To: NATIONAL IRANIAN TANKER COMPANY).

27. HAPPINESS (f.k.a. HENGAM; f.k.a. LOYAL; f.k.a. TULAR) (T2ER4) Crude Oil Tanker 299,214DWT 160,930GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9212905; MMSI 256875000 (vessel) [IRAN] (Linked To: NATIONAL IRANIAN TANKER COMPANY).

28. HONESTY (f.k.a. HIRMAND; f.k.a. HONESTY; f.k.a. MILLIONAIRE) (T2DZ4) Crude Oil Tanker 317,356DWT 163,660GRT None Identified flag; Former Vessel Flag Cyprus; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357391; MMSI 572450210 (vessel) [IRAN] (Linked To: NATIONAL IRANIAN TANKER COMPANY).

29. HORIZON (f.k.a. HORMOZ; f.k.a. SCORPIAN) (9HEK9) Crude Oil Tanker 299,261DWT 160,930GRT None Identified flag; Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9212890; MMSI 256870000 (vessel) [IRAN] (Linked To: NATIONAL IRANIAN TANKER COMPANY).

30. HUMANITY (f.k.a. OCEAN NYMPH) Crude Oil Tanker Mongolia flag; Former Vessel Flag Panama; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9180281 (vessel) [IRAN].

31. HUWAYZEH (9HEJ9) Crude Oil Tanker 299,242DWT 160,930GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9212888; MMSI 256869000 (vessel) [IRAN] (Linked To: NATIONAL IRANIAN TANKER COMPANY).

32. HYDRA (f.k.a. EXPLORER; f.k.a. HODA; f.k.a. PRECIOUS) (T2EH4) Crude Oil Tanker 317,356DWT 163,660GRT None Identified flag; Former Vessel Flag Cyprus; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9362059; MMSI 572458210 (vessel) [IRAN] (Linked To: NATIONAL IRANIAN TANKER COMPANY).

33. IMICO NEKA 455 (a.k.a. YARD NO. 455 IRAN MARINE) Shuttle Tanker 63,000DWT 40,800GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9404546 (vessel) [IRAN] (Linked To: NATIONAL IRANIAN TANKER COMPANY).

34. IMICO NEKA 456 (a.k.a. YARD NO. 456 IRAN MARINE) Shuttle Tanker 63,000DWT 40,800GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9404558 (vessel) [IRAN] (Linked To: NATIONAL IRANIAN TANKER COMPANY).

35. IMICO NEKA 457 (a.k.a. YARD NO. 457 IRAN MARINE) Shuttle Tanker 63,000DWT 40,800GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9404560 (vessel) [IRAN] (Linked To: NATIONAL IRANIAN TANKER COMPANY).

36. INFINITY (5IM411) Crude Oil Tanker Tanzania flag (NITC); Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569671 (vessel) [IRAN].

37. IRAN FAHIM Chemical/Products Tanker 34,900DWT 26,561GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9286140 (vessel) [IRAN] (Linked To: NATIONAL IRANIAN TANKER COMPANY).

38. IRAN FALAGH Chemical/Products Tanker 34,900DWT 25,000GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9286152 (vessel) [IRAN] (Linked To: NATIONAL IRANIAN TANKER COMPANY).

39. IRAN FAZEL (9BAC) Chemical/Products Tanker 35,155DWT 25,214GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9283746; MMSI 422303000 (vessel) [IRAN] (Linked To: NATIONAL IRANIAN TANKER COMPANY).

40. JUSTICE Crude Oil Tanker None Identified flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357729 (vessel) [IRAN] (Linked To: NATIONAL IRANIAN TANKER COMPANY).

41. MAHARLIKA (f.k.a. NOOR) (9HES9) Crude Oil Tanker 298,732DWT 156,809GRT Tanzania flag; Former Vessel Flag Malta; alt. Former Vessel Flag Tuvalu; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9079066; MMSI 256882000 (vessel) [IRAN] (Linked To: NATIONAL IRANIAN TANKER COMPANY).

42. MAJESTIC (f.k.a. GLORY; f.k.a. HATEF) (T2EG4) Crude Oil Tanker 317,367DWT 163,660GRT Tanzania flag; Former Vessel Flag Cyprus; alt. Former Vessel Flag Tuvalu; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357183; MMSI 212256000 (vessel) [IRAN] (Linked To: NATIONAL IRANIAN TANKER COMPANY).

43. MARINA (f.k.a. HARSIN; f.k.a. VALOR) (5IM600) Crude Oil Tanker 299,229DWT 160,930GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9212917; MMSI 677050000 (vessel) [IRAN] (Linked To: NATIONAL IRANIAN TANKER COMPANY).

44. MARIVAN (EQKH) Tanker 640DWT 478GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8517243; MMSI 422143000 (vessel) [IRAN] (Linked To: NATIONAL IRANIAN TANKER COMPANY).

45. NAINITAL (f.k.a. MIDSEA; f.k.a. MOTION; f.k.a. NAJM) (T2DR4) Crude Oil Tanker 298,731DWT 156,809GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9079092; MMSI 572442210 (vessel) [IRAN] (Linked To: NATIONAL IRANIAN TANKER COMPANY).

46. NAPOLI (f.k.a. ELITE; f.k.a. NOAH; f.k.a. VOYAGER) (T2DQ4) Crude Oil Tanker 298,731DWT 156,809GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9079078; MMSI 572441210 (vessel) [IRAN] (Linked To: NATIONAL IRANIAN TANKER COMPANY).

47. NATIVE LAND (f.k.a. NESA; f.k.a. OCEANIC; f.k.a. TRUTH) (T2DP4) Crude Oil Tanker 298,732DWT 156,809GRT Tanzania flag; Former Vessel Flag Malta; alt. Former Vessel Flag Tuvalu; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9079107; MMSI 572440210 (vessel) [IRAN] (Linked To: NATIONAL IRANIAN TANKER COMPANY).

48. NYOS (f.k.a. BRAWNY; f.k.a. MARIGOLD; f.k.a. NABI) (T2DS4) Crude Oil Tanker 298,731DWT 156,809GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9079080; MMSI 572443210 (vessel) [IRAN] (Linked To: NATIONAL IRANIAN TANKER COMPANY).

49. ORIENTAL (f.k.a. LEYCOTHEA) Crude Oil Tanker Unknown flag; Former Vessel Flag Panama; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9183934 (vessel) [IRAN].

50. SABRINA (f.k.a. MAGNOLIA; f.k.a. SARVESTAN) (5IM590) Crude Oil Tanker 159,711DWT 81,479GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9172052; MMSI 677049000 (vessel) [IRAN] (Linked To: NATIONAL IRANIAN TANKER COMPANY).

51. SALALEH (f.k.a. SONGBIRD; a.k.a. YARD NO. 1224 SHANGHAI WAIGAOQIAO) Crude Oil Tanker 318,000DWT 165,000GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569645 (vessel) [IRAN] (Linked To: NATIONAL IRANIAN TANKER COMPANY).

52. SANCHI (f.k.a. GARDENIA; f.k.a. SEAHORSE; f.k.a. SEPID) (T2EF4) Crude Oil Tanker 164,154DWT 85,462GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9356608; MMSI 572455210 (vessel) [IRAN] (Linked To: NATIONAL IRANIAN TANKER COMPANY).

53. SARDASHT (EQKG) Landing Craft 640DWT 478GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8517231; MMSI 422142000 (vessel) [IRAN] (Linked To: NATIONAL IRANIAN TANKER COMPANY).

54. SHONA (f.k.a. ABADAN; f.k.a. ALPHA) (T2EU4) Crude/Oil Products Tanker 99,144DWT 56,068GRT Tanzania flag; Former Vessel Flag Malta; alt. Former Vessel Flag Tuvalu; alt. Former Vessel Flag None Identified; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9187629; MMSI 572469210 (vessel) [IRAN] (Linked To: NATIONAL IRANIAN TANKER COMPANY).

55. SILVER CLOUD (f.k.a. AMOL; f.k.a. CASTOR; f.k.a. CHRISTINA) (T2EM4) Crude/Oil Products Tanker 99,094DWT 56,068GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9187667; MMSI 256843000 (vessel) [IRAN] (Linked To: NATIONAL IRANIAN TANKER COMPANY).

56. SKYLINE (5IM632) Crude Oil Tanker Tanzania flag (NITC); Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569669 (vessel) [IRAN].

57. SMOOTH (a.k.a. YARD NO. 1225 SHANGHAI WAIGAOQIAO) Crude Oil Tanker 318,000DWT 165,000GRT None Identified flag; Former Vessel Flag Malta; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569657 (vessel) [IRAN] (Linked To: NATIONAL IRANIAN TANKER COMPANY).

58. SPARROW (f.k.a. CLOVE; f.k.a. SEMNAN) (5IM 595) Crude Oil Tanker 159,681DWT 81,479GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9171450; MMSI 677049500 (vessel) [IRAN] (Linked To: NATIONAL IRANIAN TANKER COMPANY).

59. SPLENDOUR (f.k.a. BLACKSTONE; f.k.a. SARV) (9HNZ9) Crude Oil Tanker 163,870DWT 85,462GRT None Identified flag; Former Vessel Flag Malta; alt. Former Vessel Flag Tuvalu; alt. Former Vessel Flag Seychelles; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357377; MMSI 249257000 (vessel) [IRAN] (Linked To: NATIONAL IRANIAN TANKER COMPANY).

60. SPOTLESS (f.k.a. LANTANA; f.k.a. SANANDAJ) (5IM591) Crude Oil Tanker 159,681DWT 81,479GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9172040; MMSI 677049100 (vessel) [IRAN] (Linked To: NATIONAL IRANIAN TANKER COMPANY).

61. SUCCESS (f.k.a. BAIKAL; f.k.a. BLOSSOM; f.k.a. SIMA) (T2DY4) Crude Oil Tanker 164,154DWT 85,462GRT None Identified flag; Former Vessel Flag Malta; alt. Former Vessel Flag Tuvalu; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357353; MMSI 572449210 (vessel) [IRAN] (Linked To: NATIONAL IRANIAN TANKER COMPANY).

62. SUNDIAL (f.k.a. ABADEH; f.k.a. CRYSTAL) (9HDQ9) Crude/Oil Products Tanker 99,030DWT 56,068GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9187655; MMSI 256842000 (vessel) [IRAN] (Linked To: NATIONAL IRANIAN TANKER COMPANY).

63. SUNEAST (f.k.a. AZALEA; f.k.a. SINA) (9HNY9) Crude Oil Tanker 164,154DWT 85,462GRT Seychelles flag; Former Vessel Flag Malta; alt. Former Vessel Flag Tuvalu; alt. Former Vessel Flag None Identified; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9357365; MMSI 249256000 (vessel) [IRAN] (Linked To: NATIONAL IRANIAN TANKER COMPANY).

64. SUNRISE LPG Tanker None Identified flag (NITC); Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9615092 (vessel) [IRAN].

65. SUNSHINE (f.k.a. CARNATION; f.k.a. SAFE; a.k.a. YARD NO. 1220 SHANGHAI WAIGAOQIAO) Crude Oil Tanker 318,000DWT 165,000GRT None Identified flag; Former Vessel Flag Tuvalu; alt. Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9569205 (vessel) [IRAN] (Linked To: NATIONAL IRANIAN TANKER COMPANY).

66. SUPERIOR (f.k.a. DAISY; f.k.a. SUSANGIRD) (5IM584) Crude Oil Tanker 159,681DWT 81,479GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9172038; MMSI 677048400 (vessel) [IRAN] (Linked To: NATIONAL IRANIAN TANKER COMPANY).

67. SWALLOW (f.k.a. CAMELLIA; f.k.a. SAVEH) (5IM 594) Crude Oil Tanker 159,758DWT 81,479GRT None Identified flag; Former Vessel Flag Malta; alt. Former Vessel Flag Tanzania; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9171462; MMSI 677049400 (vessel) [IRAN] (Linked To: NATIONAL IRANIAN TANKER COMPANY).

68. TOLOU (EQOD) Crew/Supply Vessel 250DWT 178GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8318178 (vessel) [IRAN] (Linked To: NATIONAL IRANIAN TANKER COMPANY).

69. VALFAJR2 (EQOX) Tug 650DWT 419GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8400103 (vessel) [IRAN] (Linked To: NATIONAL IRANIAN TANKER COMPANY).

70. YAGHOUB (EQOE) Platform Supply Ship 950DWT 1,019GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8316168; MMSI 422150000 (vessel) [IRAN] (Linked To: NATIONAL IRANIAN TANKER COMPANY).

71. YANGZHOU DAYANG DY905 (a.k.a. YARD NO. DY905 YANGZHOU D.) LPG Tanker 11,750DWT 8,750GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9575424 (vessel) [IRAN] (Linked To: NATIONAL IRANIAN TANKER COMPANY).

72. YOUNES (EQYY) Platform Supply Ship Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8212465 (vessel) [IRAN] (Linked To: NATIONAL IRANIAN TANKER COMPANY).

73. YOUSEF (EQOG) Offshore Tug/Supply Ship 1,050DWT 584GRT Iran flag; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 8316106; MMSI 422144000 (vessel) [IRAN] (Linked To: NATIONAL IRANIAN TANKER COMPANY).

74. ZEUS (f.k.a. HADI; f.k.a. PIONEER) (T2EJ4) Crude Oil Tanker 317,355DWT 163,650GRT None Identified flag; Former Vessel Flag Cyprus; alt. Former Vessel Flag Tuvalu; Additional Sanctions Information—Not on the SDN List and Not Subject to Secondary Sanctions; U.S. Persons Must Continue to Block this Property and Interests in this Property Pursuant to Executive Order 13599; For more information, please see: https://www.treasury.gov/resource-center/sanctions/Programs/Documents/jcpoa_faqs.pdf; Vessel Registration Identification IMO 9362073; MMSI 572459210 (vessel) [IRAN] (Linked To: NATIONAL IRANIAN TANKER COMPANY).

Dated: March 4, 2016.
John E. Smith,
Acting Director, Office of Foreign Assets Control.

[FR Doc. 2016-05315 Filed 3-11-16; 8:45 am]

BILLING CODE 4810-AL-P